DEPARTMENT OF THE INTERIOR

Fish and Wildlife Service

50 CFR Part 17

RIN 1018-AT90

Endangered and Threatened Wildlife and Plants; Designation of Critical Habitat for the Perdido Key Beach Mouse, Choctawhatchee Beach Mouse, and St. Andrew Beach Mouse

AGENCY: Fish and Wildlife Service, Interior.

ACTION: Revised proposed rule; reopening of comment period, notice of availability of draft economic analysis, and notice of public hearings.

SUMMARY: We, the U.S. Fish and Wildlife Service (Service), announce the reopening of the comment period and a public hearing on the proposed designation of critical habitat for the Perdido Key beach mouse (Peromyscus polionotus trissyllepsis), Choctawhatchee beach mouse (Peromyscus polionotus allophrys), and St. Andrew beach mouse (Peromyscus polionotus peninsularis) and the availability of the draft economic analysis of the proposed designation of critical habitat under the Endangered Species Act of 1973, 16 U.S.C. 1531, et seq. (Act). We are also using this comment period to modify the boundary of proposed critical habitat unit CBM-5 for Choctawhatchee beach mouse and PKBM-5 for Perdido Key beach mouse, correct an error made in the proposed rule, and solicit further comments on the proposed rule. The draft economic analysis finds that costs associated with conservation activities for the three beach mice are forecast to range from $60.4 million to $107.7 million in undiscounted dollars over the next 20 years. Adjusted for possible inflation, the costs would range from $56.3 million to $103.3 million over 20 years, or $3.8 million to $6.9 million annually using a three percent discount; or $52.5 million to $99.4 million over 20 years, or $5.0 million to $9.4 million annually using a seven percent discount rate. We are reopening the comment period to allow all interested parties an opportunity to comment simultaneously on the proposed rule and the associated draft economic analysis. Comments previously submitted need not be resubmitted as they will be incorporated into the public record as part of this comment period and will be fully considered in preparation of the final rule.

DATES: Written comments: We will accept public comments until 5 p.m. on July 17, 2006. Public hearings: The Service has scheduled a public hearing for Choctawhatchee beach mouse and St. Andrew beach mouse on June 26, 2006 and one for Perdido Key beach mouse on June 27, 2006 regarding the proposed critical habitat designation and the draft economic analysis from 6:30 p.m. until 8:30 p.m. Informal informational meetings will precede each hearing from 5 p.m. until 6:30 p.m.

ADDRESSES: Written comments: If you wish to comment, you may submit your comments and materials concerning this proposal by any one of several methods:

1. You may submit written comments and information to the Field Supervisor, U.S. Fish and Wildlife Service, Panama City Fish and Wildlife Office, 1601 Balboa Avenue, Panama City, Florida 32405.

2. You may hand-deliver written comments to our Office, at the above address.

3. You may send comments by electronic mail (e-mail) to floridabeachmouse@fws.gov. Please see the Public Comments Solicited section below for file format and other information about electronic filing.

4. You may provide oral or written comments at any of the public hearings.

5. You may fax your comments to 850-763-2177.

6. You may submit your comments through the Federal E-rulemaking Portal at http://www.regulations.gov.

Public Hearings: The public hearing for the Choctawhatchee beach mouse and St. Andrew beach mouse on June 26, 2006, will be held at the Gulf Coast Community College, Student Union East Building, Conference Center, 5230 West U.S. Highway 98, Panama City, Florida 32401. The public hearing for the Perdido Key beach mouse on June 27, 2006, will be held at the Perdido Bay Community Center, 13660 Innerarity Point Road, Pensacola, FL 32507.

FOR FURTHER INFORMATION CONTACT: Field Supervisor, U.S. Fish and Wildlife Service, Panama City, Florida 32405, (telephone 850-769-0552; facsimile 850-763-2177).

SUPPLEMENTARY INFORMATION:

Public Comments Solicited

We intend that any final action resulting from this proposal will be as accurate and as effective as possible. Therefore, comments or suggestions from the public, other concerned governmental agencies, the scientific community, industry, or any other interested party concerning this proposed rule are hereby solicited. Comments particularly are sought concerning:

(1) The reasons any habitat should or should not be determined to be critical habitat as provided by section 4 of the Act, including whether it is prudent to designate critical habitat;

(2) Specific information on the presence of Perdido Key beach mouse, Choctawhatchee beach mouse, and St. Andrew beach mouse habitat, particularly what areas should be included in the designations that were occupied at the time of listing that contain features that are essential for the conservation of the species and why; what areas that were not occupied at listing are essential to the conservation of the species and why; and whether the proposed unit SABM-2 that is now considered unoccupied is essential to the conservation of the species, should be designated as critical habitat, and why;

(3) Land use designations and current or planned activities in the subject areas and their possible impacts on proposed critical habitat;

(4) Any foreseeable economic, national security, or other potential impacts resulting from the proposed designation and, in particular, any impacts on small entities;

(5) Information from the Department of Defense to assist the Secretary of the Interior in evaluating critical habitat on lands administered by or under the control of the Department of Defense based on any benefit provided by an Integrated Natural Resources Management Plan (INRMP) to the conservation of the Choctawhatchee beach mouse and St. Andrew beach mouse; and information regarding impacts to national security associated with the proposed designation of critical habitat;

(6) Whether the draft economic analysis identifies all State and local costs attributable to the proposed critical habitat designation, and information on any costs that have been inadvertently overlooked;

(7) Whether the draft economic analysis makes appropriate assumptions regarding current practices and likely regulatory changes imposed as a result of the designation of critical habitat;

(8) Whether the draft economic analysis correctly assesses the effect on regional costs associated with any land use controls that may derive from the designation of critical habitat;

(9) Any foreseeable economic or other impacts resulting from the proposed designation of critical habitat, and in particular, any impacts on small entities or families; and other information that would indicate that the designation of critical habitat would or would not have any impacts on small entities or families;

(10) Whether the draft economic analysis appropriately identifies all costs and benefits that could result from the designation;

(11) Whether our approach to critical habitat designation could be improved or modified in any way to provide for greater public participation and understanding, or to assist us in accommodating public concern and comments; and

(12) Whether the benefits of exclusion in any particular area outweigh the benefits of inclusion under section 4(b)(2) of the Act.

If you wish to comment, you may submit your comments and materials concerning this proposal by any one of several methods (see ADDRESSES section). Please submit comments electronically to floridabeachmouse@fws.gov in ASCII file format and avoid the use of special characters or any form of encryption. Please also include “Attn: Beach mouse critical habitat” in your e-mail subject header and your name and return address in the body of your message. If you do not receive a confirmation from the system that we have received your electronic message, contact us directly by calling the Panama City U.S. Fish and Wildlife Service Office at phone number 850-769-0552. Please note that the e-mail address floridabeachmouse@fws.gov will be closed out at the termination of the public comment period.

Our practice is to make comments, including names and home addresses of respondents, available for public review during regular business hours. We will not consider anonymous comments and we will make all comments available for public inspection in their entirety. Comments and materials received will be available for public inspection, by appointment, during normal business hours at the Service Office at the above address.

Copies of the draft economic analysis and the proposed rule for critical habitat designation are available on the Internet at http://www.fws.gov/panamacity or from the Panama City Fish and Wildlife Office at the address and contact numbers above.

Our final designation of critical habitat will take into consideration all comments and any additional information we received during both comment periods. Previous comments and information submitted during the initial comment period on the December 15, 2005, proposed rule (70 FR 74425) need not be resubmitted. On the basis of public comment on this analysis and on the critical habitat proposal, and the final economic analysis, we may during the development of our final determination find that areas proposed are not essential, are appropriate for exclusion under section 4(b)(2) of the Act, or not appropriate for exclusion. An area may be excluded from critical habitat if it is determined that the benefits of such exclusion outweigh the benefits of including a particular area as critical habitat, unless the failure to designate such area as critical habitat will result in the extinction of the species. We may exclude an area from designated critical habitat based on economic impacts, national security, or any other relevant impact.

Comments and materials received, as well as supporting documentation used in the preparation of this proposed rule, will be available for public inspection, by appointment, during normal business hours at the Panama City U.S. Fish and Wildlife Service Office (see ADDRESSES section).

Public Hearing

Anyone wishing to make an oral statement for the record is encouraged to provide a written copy of their statement and present it to us at the hearing. In the event there is a large attendance, the time allotted for oral statements may be limited. Oral and written statements receive equal consideration. There are no limits on the length of written comments submitted to us. If you have any questions concerning the public hearing, please contact the Panama City Fish and Wildlife Office (see ADDRESSES above). Persons needing reasonable accommodations in order to attend and participate in the public hearings should contact Gail Carmody at (850) 769-0552 as soon as possible. To allow sufficient time to process requests, please call no later than one week before the hearing date. Information regarding the proposal is available in alternative formats upon request.

Background

On December 15, 2005, we published a proposed rule to revise critical habitat for the Perdido Key beach mouse and Choctawhatchee beach mouse, and designate critical habitat for the St. Andrew beach mouse (70 FR 74425). We proposed to designate a total of 13 coastal dune areas (units) in southern Alabama and the panhandle of Florida as critical habitat for the three subspecies of beach mice. These 13 units include 5 units for the Perdido Key beach mouse, 5 units for the Choctawhatchee beach mouse, and 3 units for the St. Andrew beach mouse. As a result of revisions outlined in this revised proposed rule, these units now total 6,416 acres (ac) (2,595 hectares (ha)) of coastal dunes, and include 1,300 ac (526 ha) for the Perdido Key beach mouse in Escambia County, Florida, and Baldwin County, Alabama; 2,483 ac (1,004 ha) for the Choctawhatchee beach mouse, in Okaloosa, Walton, and Bay Counties, Florida; and 2,633 ac (1,065 ha) for the St. Andrew beach mouse in Bay and Gulf Counties, Florida. For the Choctawhatchee and Perdido Key beach mice, the revised designation of critical habitat is a landward expansion of previously designated units to include scrub dune habitat, which is now known to play a crucial role in the long-term persistence of beach mice. We are proposing to exempt two areas that possess incidental take permits under the Act, because of their existing conservation plans. Other than the amendments just described, the proposed rule of December 15, 2005, remains intact. We will submit for publication in the Federal Register a final critical habitat designation for the Perdido Key beach mouse, Choctawhatchee beach mouse, and St. Andrew beach mouse on or before September 30, 2006.

Critical habitat is defined in section 3 of the Act as the specific areas within the geographic area occupied by a species, at the time it is listed in accordance with the Act, on which are found those physical or biological features essential to the conservation of the species and that may require special management considerations or protection, and specific areas outside the geographic area occupied by a species at the time it is listed, upon a determination that such areas are essential for the conservation of the species. Federal agencies proposing actions affecting areas designated as critical habitat must consult with us on the effects of their proposed actions, pursuant to section 7(a)(2) of the Act.

By this document, we are also advising the public of three changes to the proposed rule. First, we regret that an error was inadvertently made in the proposed rule concerning unit SABM-2 for St. Andrew beach mouse. This unit was listed in the proposed rule as currently occupied by the St. Andrew beach mouse; however, this unit has been live-trapped extensively to determine presence of the species and is not known to be occupied at this time. However, we believe, based on research conducted by Bowen (1968, page 21), that St. Andrew beach mice were present historically at the location currently proposed for designation. This unit contains features essential to the conservation of the species. This area provides frontal and secondary dune habitat. It provides Primary Constituent Elements 2, 3, and 4 that were described in the proposed rule. Since St. Andrew beach mice are currently limited to two populations, protecting this mainland site located within the species' historic range is needed for the subspecies' long-term persistence. Since other viable opportunities are limited or nonexistent, this unit is essential to the conservation of the species because it reduces the threats of stochastic events to this subspecies, particularly hurricanes. Unlike the other two SABM units, this unit is somewhat buffered from the effects of storm events due to its location on the mainland.

Second, we would like to make two modifications: (1) Unit CBM-5 for Choctowhatchee beach mouse to include 96 additional acres (39 ha) on Tyndall Air Force Base (Figure 1); and (2) the boundary of unit PKBM-5 for Perdido Key beach mouse to include an additional 36 ac (15 ha) of lands immediately north of the area currently proposed for designation within Gulf Islands National Seashore (Figure 2). The additional area proposed for critical habitat designation within Gulf Islands National Seashore includes two areas that initially appeared to have infrequent connectivity with Perdido Key. However, recent field reconnaissance has identified that these two areas are connected more often than previously realized and act as crucial refuge areas for the Perdido Key beach mouse during and after hurricanes. These two locations are among the few areas where vegetation and beach mice withstood impacts from Hurricane Ivan in 2004 and Hurricanes Cindy, Dennis, Katrina and Tropical Storm Arlene in 2005. The additional area proposed for critical habitat designation within Tyndall Air Force Base is partially an artifact of mapping with older baseline maps and partially due to the shifting coastline on West Crooked Island. These shifts are a result of the above-named storms as well as the natural erosion and accretion that occur daily in coastal environments from wind and waves. In addition, new information from the State Fish and Wildlife Commission indicates that the Choctawhatchee beach mouse is present in this area. This addition more accurately represents the current coastline and coastal dune habitat for beach mice in CBM-5, since the previous map did not include all areas on Tyndall Air Force Base where beach mice are currently present.

Third, acreage estimates of the proposed critical habitat units for St. Andrew beach mice and Choctawhatchee beach mice differ in this revised proposed rule from those in the proposed rule. Some acreage values in the proposed rule were inadvertently not recalculated after edits were made. These acreage differences are minor and do not change the maps that were published in the proposed rule; the maps are a true representation of the updated acreage. Please refer to Tables 1 through 3 (below) for the updated acreage calculations for each species.

Table 1.—Revised Acreages for Perdido Key Beach Mouse Proposed Critical Habitat Units
Critical habitat units for Perdido Key beach mouse | Federal acres/hectares | State acres/hectares | Local and private acres/hectares | Total acres/hectares | Change in acres/hectares
1. Gulf State Park | 0 | 115/46 | 0 | 115/46 | 0
2. West Perdido Key | 0 | 0 | 147/59 | 147/59 | 0
3. Perdido Key State Park | 0 | 238/96 | 0 | 238/96 | 0
4. Gulf Beach | 0 | 0 | 162/66 | 162/66 | 0
5. Gulf Islands National Seashore | 638/258 | 0 | 0 | 638/258 | 36/15*
Total | 638/258 | 353/142 | 309/125 | 1,300/526 | 36/15*
* This is the result of an addition (as previously described), not a recalculation.

Table 2.—Revised Acreages for Choctawhatchee Beach Mouse Proposed Critical Habitat Units
Critical Habitat Units for Choctawhatchee beach mouse | Federal acres/hectares | State acres/hectares | Local and private acres/hectares | Total acres/hectares | Change in acres/hectares
1. Henderson Beach | 0 | 96/39 | 0 | 96/39 | 0
2. Topsail Hill | 0 | 277/112 | 35/14 | 313/126 | 12/5
3. Grayton Beach | 0 | 162/66 | 21/8 | 183/74 | 11/4
4. Deer Lake | 0 | 40/16 | 80/32 | 120/48 | 4/2
5. West Crooked Island/Shell Island | 1,649/667 | 408/165 | 30/12 | 1,771/677 | 122/49*
Total | 1,649/667 | 983/398 | 166/67 | 2,483/1,004 | 149/60*
*Includes 26 acres representing a recalculation and a 96-acre addition (as previously described).

Table 3.—Revised Acreages for St. Andrew Beach Mouse Proposed Critical Habitat Units
Critical Habitat Units for St. Andrew beach mouse | Federal acres/hectares | State acres/hectares | Local and private acres/hectares | Total acres/hectares | Change in acres/hectares
1. East Crooked Island | 649/263 | 0 | 321/130 | 970/393 | 0
2. Palm Point | 0 | 0 | 162/65 | 162/65 | 23/9
3. St. Joseph Peninsula | 0 | 1,280/518 | 221/89 | 1,501/607 | 0
Total | 649/263 | 1,280/518 | 704/284 | 2,633/1,065 | 23/9

Section 4(b)(2) of the Act requires that we designate or revise critical habitat based upon the best scientific and commercial data available, after taking into consideration the economic or any other relevant impact of specifying any particular area as critical habitat. We will continue to review any conservation or management plans that address the species within the areas proposed for designation, pursuant to section 4(b)(2) and based on the definition of critical habitat provided in section 3(5)(A) of the Act.

Based on the December 15, 2005, proposed rule to designate critical habitat for the Perdido Key beach mouse, Choctawhatchee beach mouse, and St. Andrew beach mouse, we have prepared a draft economic analysis of the proposed critical habitat designation. The draft economic analysis considers the potential economic effects of actions relating to the conservation of the Perdido Key beach mouse, Choctawhatchee beach mouse, and St. Andrew beach mouse, including costs associated with sections 4, 7, and 10 of the Act, and including those attributable to designating critical habitat. It further considers the economic effects of protective measures taken as a result of other Federal, State, and local laws that aid habitat conservation for the Perdido Key beach mouse, Choctawhatchee beach mouse, and St. Andrew beach mouse in critical habitat areas. The draft analysis considers both economic efficiency and distributional effects. In the case of habitat conservation, efficiency effects generally reflect the “opportunity costs” associated with the commitment of resources to comply with habitat protection measures (such as lost economic opportunities associated with restrictions on land use). This analysis also addresses how potential economic impacts are likely to be distributed, including an assessment of any local or regional impacts of habitat conservation and the potential effects of conservation activities on small entities and the energy industry. This information can be used by decision-makers to assess whether the effects of the designation might unduly burden a particular group or economic sector. Finally, this draft analysis looks retrospectively at costs that have been incurred since the date the species were listed as endangered (50 FR 23872, June 6, 1985 for PKBM, CBM; 63 FR 70053, December 18, 1998 for SABM) and considers those costs that may occur in the 20 years following a designation of critical habitat.

As stated earlier, we solicit data and comments from the public on this draft economic analysis, as well as on all aspects of the proposal. We may revise the proposal, or its supporting documents, to incorporate or address new information received during the comment period.

The current draft economic analysis estimates the foreseeable economic impacts of the proposed critical habitat designation on government agencies and private businesses and individuals. The draft economic analysis finds that costs associated with conservation activities for the three beach mice are forecast to range from $60.4 million to $107.7 million in undiscounted dollars over the next 20 years. Adjusted for possible inflation, the costs would range from $56.3 million to $103.3 million over 20 years, or $3.8 million to $6.9 million annually using a three percent discount; or $52.5 million to $99.4 million over 20 years, or $5.0 million to $9.4 million annually using a seven percent discount rate as a result of the proposed critical habitat designation. The analysis measures lost economic efficiency associated with residential and commercial development, and public projects and activities, such as economic impacts on transportation projects, the energy industry, and State and Federal lands. Overall, the residential and commercial development industry is calculated to experience the highest proportion of these costs (98 percent).

Required Determinations—Amended

Regulatory Planning and Review

In accordance with Executive Order 12866, this document is a significant rule because it may raise novel legal and policy issues. However, it is not anticipated to have an annual effect on the economy of $100 million or more or affect the economy in a material way. Due to the timeline for publication in the Federal Register, the Office of Management and Budget (OMB) did not formally review the proposed rule.

Further, Executive Order 12866 directs Federal Agencies promulgating regulations to evaluate regulatory alternatives (Office of Management and Budget, Circular A-4, September 17, 2003). Pursuant to Circular A-4, once it has been determined that the Federal regulatory action is appropriate, the agency will need to consider alternative regulatory approaches. Since the determination of critical habitat is a statutory requirement pursuant to the Endangered Species Act of 1973, as amended (Act) (16 U.S.C. 1531 et seq.), we must then evaluate alternative regulatory approaches, where feasible, when promulgating a designation of critical habitat.

In developing our designations of critical habitat, we consider economic impacts, impacts to national security, and other relevant impacts pursuant to section 4(b)(2) of the Act. Based on the discretion allowable under this provision, we may exclude any particular area from the designation of critical habitat providing that the benefits of such exclusion outweigh the benefits of specifying the area as critical habitat and that such exclusion would not result in the extinction of the species. We believe that the evaluation of the inclusion or exclusion of particular areas, or combination thereof, in a designation constitutes our regulatory alternative analysis.

Regulatory Flexibility Act (5 U.S.C. 601 et seq.)

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (small businesses, small organizations, and small government jurisdictions). However, no regulatory flexibility analysis is required if the head of an agency certifies the rule will not have a significant economic impact on a substantial number of small entities. In our proposed rule, we withheld our determination of whether this designation would result in a significant effect as defined under SBREFA until we completed our draft economic analysis of the proposed designation so that we would have the factual basis for our determination.

According to the Small Business Administration (SBA), small entities include small organizations, such as independent nonprofit organizations, and small governmental jurisdictions, including school boards and city and town governments that serve fewer than 50,000 residents, as well as small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under this designation as well as types of project modifications that may result. In general, the term significant economic impact is meant to apply to a typical small business firm's business operations.

To determine if the proposed designation of critical habitat for the Perdido Key beach mouse, Choctawhatchee beach mouse, and St. Andrew beach mouse would affect a substantial number of small entities, we considered the number of small entities affected within particular types of economic activities (such as residential and commercial development). We considered each industry or category individually to determine if certification is appropriate. In estimating the numbers of small entities potentially affected, we also considered whether their activities have any Federal involvement; some kinds of activities are unlikely to have any Federal involvement and so will not be affected by the designation of critical habitat. Designation of critical habitat only affects activities conducted, funded, permitted, or authorized by Federal agencies.

In our draft economic analysis of the proposed critical habitat designation, we evaluated the potential economic effects on small business entities resulting from conservation actions related to the listing of the Perdido Key beach mouse, Choctawhatchee beach mouse, and St. Andrew beach mouse and proposed designation of their critical habitat. This analysis estimated prospective economic impacts due to the implementation of three Florida beach mice conservation efforts in seven categories: private development activities, recreation, tropical storms and hurricanes, dredging and disposal operations, species management and habitat protection activities, road construction and maintenance, and military activities. We determined from our analysis that in six of these seven categories, impacts of the three Florida beach mice conservation efforts are not anticipated to impact small business. The small business entities that may be affected are private development firms. Costs associated with residential and commercial development comprise 98 percent of the total quantified future impacts. The costs associated with development for the three beach mice are forecast to range from $56.7 million to $102.9 million in undiscounted dollars over the next 20 years. Costs are expected to be $53.5 to $99.7 million over the next 20 years ($3.6 million to $6.7 million annually) assuming a three percent discount, or $50.5 million to $96.8 million over the next 20 years ($4.8 million to $9.1 million annually) assuming a seven percent discount rate, on approximately 614 acres of developable private lands. Conservation effort costs include land preservation (set-asides), monitoring, and predator control that may be required of new development activity on private land. Approximately 562 individual landowners may be impacted by conservation efforts for the three Florida beach mice, assuming each parcel is owned by a different landowner. Among those impacted, the analysis found two developers that may experience a reduction of the value of their land in areas proposed for designation of critical habitat; however, neither of these is considered a small entity. This analysis assumes that, in general, landowners are private citizens and not developers. Thus, although 562 landowners may be affected by this designation, few are anticipated to be small entities. Therefore, we do not believe that the designation of critical habitat for the Perdido Key beach mouse, Choctawhatchee beach mouse, and St. Andrew beach mouse will result in a disproportionate effect to small business entities. Please refer to our draft economic analysis of the proposed critical habitat designation for a more detailed discussion of potential economic impacts.

Executive Order 13211

On May 18, 2001, the President issued Executive Order (E.O.) 13211 on regulations that significantly affect energy supply, distribution, and use. E.O. 13211 requires agencies to prepare Statements of Energy Effects when undertaking certain actions. This proposed rule is considered a significant regulatory action under E.O. 12866 because it raises novel legal and policy issues, but it is not expected to significantly affect energy supplies, distribution, or use. Therefore, this action is not a significant action, and no Statement of Energy Effects is required.

Unfunded Mandates Reform Act (2 U.S.C. 1501 et seq.)

In accordance with the Unfunded Mandates Reform Act (2 U.S.C. 1501), the Service makes the following findings:

(a) This rule will not produce a Federal mandate. In general, a Federal mandate is a provision in legislation, statute, or regulation that would impose an enforceable duty upon State, local, or tribal governments, or the private sector, and includes both “Federal intergovernmental mandates” and “Federal private sector mandates.” These terms are defined in 2 U.S.C. 658(5)-(7). “Federal intergovernmental mandate” includes a regulation that “would impose an enforceable duty upon State, local, or tribal governments,” with two exceptions. It excludes “a condition of federal assistance.” It also excludes “a duty arising from participation in a voluntary Federal program,” unless the regulation “relates to a then-existing Federal program under which $500,000,000 or more is provided annually to State, local, and tribal governments under entitlement authority,” if the provision would “increase the stringency of conditions of assistance” or “place caps upon, or otherwise decrease, the Federal Government's responsibility to provide funding” and the State, local, or Tribal governments “lack authority” to adjust accordingly. At the time of enactment, these entitlement programs were: Medicaid; Aid to Families with Dependent Children work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance; or (ii) a duty arising from participation in a voluntary Federal program.”

The designation of critical habitat does not impose a legally binding duty on non-Federal government entities or private parties. Under the Act, the only regulatory effect is that Federal agencies must ensure that their actions do not destroy or adversely modify critical habitat under section 7. Non-Federal entities that receive Federal funding, assistance, permits, or otherwise require approval or authorization from a Federal agency for an action, may be indirectly impacted by the designation of critical habitat. However, the legally binding duty to avoid destruction or adverse modification of critical habitat rests squarely on the Federal agency. Furthermore, to the extent that non-Federal entities are indirectly impacted because they receive Federal assistance or participate in a voluntary Federal aid program, the Unfunded Mandates Reform Act would not apply; nor would critical habitat shift the costs of the large entitlement programs listed above on to State governments.

(b) As discussed in the draft economic analysis of the proposed designation of critical habitat for the Perdido Key beach mouse, Choctawhatchee beach mouse, and St. Andrew beach mouse, the impacts on nonprofits and small governments are expected to be negligible. It is likely that small governments involved with developments and infrastructure projects will be interested parties or involved with projects involving section 7 consultations for the Perdido Key beach mouse, Choctawhatchee beach mouse, and St. Andrew beach mouse within their jurisdictional areas. Any costs associated with this activity are likely to represent a small portion of a local government's budget. Consequently, we do not believe that the designation of critical habitat for the Perdido Key beach mouse, Choctawhatchee beach mouse, and St. Andrew beach mouse will significantly or uniquely affect these small governmental entities. As such, a Small Government Agency Plan is not required.

Takings

In accordance with Executive Order 12630 (“Government Actions and Interference with Constitutionally Protected Private Property Rights”), we have analyzed the potential takings implications of proposing critical habitat for the Perdido Key beach mouse, Choctawhatchee beach mouse, and St. Andrew beach mouse. Critical habitat designation does not affect landowner actions that do not require Federal funding or permits, nor does it preclude development of habitat conservation programs or issuance of incidental take permits to permit actions that do require Federal funding or permits to go forward. In conclusion, the designation of critical habitat for the Perdido Key beach mouse, Choctawhatchee beach mouse, and St. Andrew beach mouse does not pose significant takings implications.

References Cited

A complete list of all references cited in this rulemaking is available upon request from the Field Supervisor, Panama City Fish and Wildlife Office (see ADDRESSES section).

Author

The primary author of this notice is the staff of the Panama City, Florida Office of the U.S. Fish and Wildlife Service.

List of Subjects in 50 CFR Part 17

Endangered and threatened species, Exports, Imports, Reporting and recordkeeping requirements, Transportation.

Proposed Regulation Promulgation

Accordingly, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Public Law 99-625, 100 Stat. 3500; unless otherwise noted.

2. Critical habitat for the Choctawhatchee beach mouse (Peromyscus polionotus allophrys) and the Perdido Key beach mouse (Peromyscus polionotus trissyllepsi) in § 17.95(a), which was proposed to be added on December 15, 2005, at 70 FR 74425, is proposed to be amended by revising the critical habitat unit description for CBM—Unit 5 and map 4 of CBM—Unit 5, the index map for Perdido Key beach mouse, the critical habitat unit description for PKBM—Unit 5, and map 3 of PKBM—Units 4 and 5, as follows:

§ 17.95 Critical habitat—fish and wildlife.

(a) Mammals.

* * * * *

Choctowhatchee Beach Mouse (Peromyscus polionotus allophrys)

* * * * *

(10) CBM—Unit 5: West Crooked Island/Shell Island Unit, Bay County, Florida.

(i) General Description: Unit 5 consists of 1,771 ac (677 ha) in Bay County, Florida. This unit encompasses essential features of beach mouse habitat within the boundaries of St. Andrew State Park mainland from 0.1 mile east of trailer park road east to the entrance channel of St. Andrew Sound, Shell Island east of the entrance of St. Andrew Sound east to East Pass, and West Crooked Island southwest of East Bay and east of the entrance channel of St. Andrew Sound, and areas from the MHWL north to the seaward extent of the maritime forest. Shell Island consists of State lands, Tyndall Air Force Base lands, as well as small private inholdings.

(ii) Coordinates: From USGS 1:24,000 quadrangle maps Panama City, Beacon Beach, and Long Point, Florida, land bounded by the following UTM 16 NAD 83 coordinates (E,N): West Crooked Island/Shell Island Unit CBM-5 620962.07, 3334745.86; 620978.22, 3334694.43; 620963.77, 3334700.01; 620976.15, 3334719.99; 620956.70, 3334712.88; 620956.66, 3334745.41; 620948.27, 3334763.05; 620928.14, 3334789.51; 620941.26, 3334789.03; 620978.37, 3334767.36; 620984.33, 3334751.28; 620994.82, 3334745.55; 620996.00, 3334720.43; 620977.67, 3334704.34; 620978.22, 3334694.43

621115.29, 3334512.76; 621027.54, 3334677.02; 621042.28, 3334675.83; 621059.27, 3334679.82; 621060.65, 3334656.44; 621061.40, 3334642.23; 621051.64, 3334635.24; 621048.65, 3334627.99; 621059.23, 3334617.95; 621063.55, 3334604.20; 621091.01, 3334602.89; 621105.19, 3334592.20; 621106.52, 3334602.91; 621092.44, 3334625.15; 621100.13, 3334635.27; 621117.48, 3334624.97; 621118.44, 3334618.25; 621133.23, 3334615.07; 621141.80, 3334605.79; 621136.35, 3334585.80; 621138.72, 3334570.44; 621145.26, 3334563.87; 621157.36, 3334572.10; 621172.61, 3334571.05; 621173.34, 3334542.35; 621169.33, 3334538.13; 621161.41, 3334525.63; 621149.18, 3334521.20; 621149.38, 3334513.03; 621166.25, 3334497.04; 621175.44, 3334489.28; 621190.74, 3334497.59; 621207.85, 3334496.46; 621215.02, 3334495.83; 621222.46, 3334500.38; 621237.23, 3334497.95; 621161.08, 3334456.02; 621156.94, 3334462.66; 621151.19, 3334470.07; 621141.15, 3334474.18; 621130.03, 3334473.90; 621131.83, 3334481.44; 621129.52, 3334494.05; 621132.53, 3334500.87; 621127.20, 3334507.42; 621121.20, 3334508.95; 621113.77, 3334503.59; 621105.71, 3334508.13; 621102.71, 3334517.17; 621109.43, 3334522.58; 621118.13, 3334519.99; 621120.40, 3334525.16; 621113.44, 3334532.92; 621108.79, 3334543.54; 621104.33, 3334531.88; 621098.28, 3334535.34; 621097.56, 3334548.00; 621094.56, 3334556.23; 621087.71, 3334560.42; 621079.00, 3334559.02; 621075.23, 3334566.48; 621073.05, 3334574.35; 621066.92, 3334580.88; 621057.57, 3334589.38; 621054.34, 3334575.44; 621043.47, 3334581.54; 621036.93, 3334604.34; 621030.52, 3334606.18; 621017.33, 3334608.97; 621015.44, 3334620.85; 621001.32, 3334629.23; 621006.55, 3334642.78; 621008.29, 3334652.38; 620993.35, 3334661.49; 621005.24, 3334662.98; 621014.21, 3334669.57; 621013.99, 3334678.30; 621027.54, 3334677.02

621011.69, 3334454.98; 621105.55, 3334420.17; 621103.74, 3334416.94; 621091.67, 3334407.08; 621075.22, 3334397.56; 621051.70, 3334384.29; 621035.12, 3334379.94; 621017.74, 3334375.89; 621004.21, 3334376.48; 620990.68, 3334377.64; 620973.98, 3334377.28; 620954.83, 3334380.36; 620953.09, 3334386.69; 620949.35, 3334392.90; 620941.36, 3334394.32; 620932.72, 3334390.11; 620925.95, 3334391.06; 620920.91, 3334394.18; 620920.53, 3334433.00; 620917.84, 3334647.42; 620943.22, 3334636.07; 620952.01, 3334634.30; 620955.42, 3334624.89; 620964.75, 3334617.95; 620982.66, 3334616.84; 620986.14, 3334605.00; 620981.10, 3334583.90; 620988.20, 3334570.22; 621004.93, 3334569.02; 620999.23, 3334554.21; 621010.40, 3334553.30; 621017.76, 3334563.91; 621024.64, 3334559.34; 621013.85, 3334545.96; 621008.41, 3334540.64; 621012.94, 3334531.20; 621022.53, 3334528.64; 621029.30, 3334532.05; 621036.71, 3334534.17; 621045.49, 3334532.40; 621045.76, 3334525.35; 621041.13, 3334520.11; 621043.67, 3334510.19; 621049.33, 3334510.39; 621059.33, 3334503.84; 621063.49, 3334496.39; 621056.38, 3334494.22; 621052.54, 3334492.62; 621050.73, 3334485.83; 621048.10, 3334476.59; 621052.57, 3334472.33; 621060.98, 3334473.42; 621070.04, 3334476.27; 621074.08, 3334470.50; 621072.00, 3334458.15; 621079.83, 3334450.92; 621086.20, 3334446.59; 621092.08, 3334434.19; 621098.70, 3334423.93; 621105.55, 3334420.17

621134.29, 3334358.78; 621024.33, 3334366.63; 621050.00, 3334373.26; 621075.14, 3334384.57; 621120.60, 3334410.31; 621147.97, 3334412.49; 621153.83, 3334400.34; 621164.80, 3334393.13; 621193.64, 3334399.78; 621206.90, 3334408.10; 621225.28, 3334420.05; 621242.42, 3334433.59; 621259.69, 3334442.33; 621264.40, 3334428.59; 621265.55, 3334414.76; 621265.21, 3334399.77; 621250.87, 3334381.87; 621232.94, 3334370.24; 621202.80, 3334351.63; 621169.49, 3334331.07; 621135.92, 3334307.25; 621114.85, 3334293.18; 621103.39, 3334288.96; 621091.03, 3334290.27; 621082.99, 3334294.00; 621059.43, 3334314.45; 621043.32, 3334322.72; 621028.39, 3334346.94; 621015.66, 3334348.18; 621005.21, 3334352.29; 621003.03, 3334360.16; 621008.45, 3334365.85; 621024.33, 3334366.63

621508.01, 3333970.37; 621883.15, 3333499.89; 621861.99, 3333488.25; 621843.41, 3333484.22; 621828.35, 3333482.66; 621811.60, 3333484.61; 621795.21, 3333488.94; 621774.59, 3333502.35; 621752.20, 3333529.25; 621694.63, 3333605.52; 621669.77, 3333640.42; 621650.21, 3333665.02; 621638.96, 3333681.97; 621622.12, 3333703.77; 621614.29, 3333714.68; 621608.05, 3333725.64; 621593.27, 3333744.68; 621577.58, 3333766.51; 621566.56, 3333793.20; 621559.11, 3333820.79; 621552.25, 3333840.78; 621540.17, 3333862.33; 621529.13, 3333876.66; 621516.11, 3333889.00; 621503.05, 3333902.53; 621488.44, 3333914.09; 621477.46, 3333924.49; 621463.10, 3333942.36; 621454.03, 3333955.24; 621444.88, 3333969.30; 621440.19, 3333984.23; 621422.43, 3334026.55; 621414.13, 3334038.32; 621399.44, 3334053.81; 621382.49, 3334065.99; 621365.03, 3334080.22; 621354.05, 3334088.75; 621343.79,

3334103.48; 621334.70, 3334115.23; 621324.87, 3334128.41; 621314.33, 3334136.82; 621306.97, 3334143.06; 621299.69, 3334148.44; 621288.86, 3334152.10; 621277.63, 3334156.19; 621266.87, 3334157.48; 621254.62, 3334155.92; 621241.47, 3334155.65; 621224.85, 3334154.42; 621208.62, 3334150.52; 621193.13, 3334149.69; 621180.04, 3334150.93; 621161.92, 3334159.96; 621147.19, 3334175.13; 621142.16, 3334185.68; 621137.00, 3334201.03; 621124.32, 3334230.80; 621116.95, 3334255.21; 621118.04, 3334275.09; 621124.26, 3334280.37; 621130.40, 3334289.64; 621149.96, 3334302.05; 621185.16, 3334324.72; 621250.50, 3334365.63; 621266.49, 3334377.51; 621275.36, 3334388.04; 621282.53, 3334403.26; 621301.53, 3334390.69; 621317.33, 3334381.79; 621331.78, 3334388.64; 621339.82, 3334385.29; 621336.32, 3334366.16; 621326.58, 3334340.94; 621314.56, 3334328.34; 621331.42, 3334312.35; 621347.87, 3334312.76; 621370.00, 3334323.00; 621366.23, 3334346.68; 621383.65, 3334333.26; 621410.97, 3334306.23; 621424.69, 3334281.98; 621424.64, 3334267.69; 621388.94, 3334249.37; 621394.97, 3334240.04; 621413.39, 3334225.77; 621424.48, 3334212.06; 621443.99, 3334209.49; 621465.98, 3334188.70; 621474.29, 3334174.61; 621481.92, 3334155.39; 621491.05, 3334140.13; 621503.53, 3334133.71; 621526.41, 3334109.31; 621523.83, 3334101.32; 621509.74, 3334095.16; 621509.04, 3334072.79; 621526.74, 3334064.56; 621525.36, 3334055.79; 621512.55, 3334060.21; 621506.87, 3334045.83; 621519.93, 3334017.38; 621532.37, 3334013.64; 621536.69, 3334005.51; 621545.43, 3333985.19; 621551.86, 3333968.81; 621560.61, 3333952.36; 621598.10, 3333978.27; 621607.76, 3333962.16; 621608.17, 3333945.75; 621612.59,

3333933.50; 621629.25, 3333925.74; 621637.79, 3333913.66; 621642.31, 3333897.36; 621646.63, 3333889.22; 621650.95, 3333881.15; 621663.49, 3333873.23; 621680.17, 3333865.47; 621690.37, 3333849.75; 621693.43, 3333828.85; 621706.08, 3333816.81; 621718.94, 3333796.65; 621694.16, 3333800.09; 621681.72, 3333803.90; 621673.80, 3333791.40; 621680.05, 3333770.64; 621691.18, 3333754.88; 621699.41, 3333755.09; 621711.75, 3333755.40; 621719.97, 3333755.60; 621732.51, 3333747.74; 621744.96, 3333743.93; 621760.51, 3333761.99; 621770.93, 3333742.84; 621775.64, 3333729.10; 621761.92, 3333723.82; 621749.59, 3333723.51; 621741.57, 3333715.07; 621737.66, 3333706.80; 621737.87, 3333698.56; 621734.27, 3333678.00; 621733.96, 3333663.82; 621738.90, 3333656.82; 621751.03, 3333665.06; 621784.53, 3333676.20; 621808.21, 3333683.91; 621820.55, 3333684.22; 621824.76, 3333680.27; 621820.96, 3333667.81; 621822.81, 3333655.37; 621813.15, 3333651.20; 621813.19, 3333642.83; 621811.06, 3333632.48; 621810.04, 3333625.71; 621815.45, 3333615.92; 621822.51, 3333606.30; 621835.16, 3333594.32; 621847.81, 3333582.28; 621856.45, 3333566.08; 621856.55, 3333562.02; 621862.72, 3333553.69; 621859.70, 3333531.83; 621877.22, 3333530.27; 621899.07, 3333530.44; 621898.05, 3333524.05; 621890.18, 3333520.67; 621892.08, 3333508.86; 621883.15, 3333499.89

621005.60, 3334164.58; 621156.94, 3334119.45; 621152.34, 3334112.59; 621138.89, 3334112.19; 621134.58, 3334107.40; 621103.46, 3334051.06; 621083.49, 3334039.44; 621058.44, 3334038.63; 621024.16, 3334012.61; 620874.41, 3334167.03; 620844.22, 3334206.91; 620859.42, 3334234.64; 620907.98, 3334342.48; 620911.58, 3334357.24; 620915.99, 3334357.97; 620935.08, 3334329.86; 620957.32, 3334314.94; 620971.60, 3334300.25; 620978.26, 3334286.19; 620987.10, 3334282.48; 620993.34, 3334287.38; 621007.36, 3334298.84; 621013.90, 3334291.08; 621029.46, 3334291.03; 621042.42, 3334311.21; 621042.23, 3334318.76; 621061.57, 3334308.13; 621072.70, 3334292.56; 621081.49, 3334290.03; 621104.05, 3334280.17; 621104.80, 3334264.02; 621109.30, 3334243.54; 621117.48, 3334218.77; 621126.03, 3334194.76; 621133.24, 3334176.72; 621145.98, 3334160.00; 621166.98, 3334146.67; 621156.94, 3334119.45

621611.47, 3333575.96; 621899.95, 3333472.78; 621900.32, 3333455.69; 621896.66, 3333442.86; 621888.54, 3333433.54; 621877.50, 3333430.15; 621852.03, 3333463.15; 621804.87, 3333436.50; 621862.56, 3333355.11; 621873.62, 3333342.28; 621884.50, 3333336.25; 621898.81, 3333336.17; 621911.12, 3333336.11; 621927.47, 3333334.14; 621949.34, 3333333.88; 621982.75, 3333332.35; 621982.47, 3333312.49; 621978.98, 3333308.84; 621967.81, 3333310.56; 621965.99, 3333288.48; 621971.61, 3333286.06; 621992.29, 3333285.40; 622009.33, 3333287.45; 622008.39, 3333309.21; 621989.25, 3333311.10; 621990.31, 3333332.54; 622007.81, 3333332.17; 622032.06, 3333331.59; 622043.61, 3333331.07; 622052.74, 3333331.30; 622057.23, 3333326.29; 622075.72, 3333333.87; 622067.41, 3333348.33; 622052.91, 3333340.04; 622052.63,

3333335.66; 622050.24, 3333335.23; 622047.35, 3333340.34; 622048.19, 3333354.22; 622054.53, 3333354.75; 622057.47, 3333348.52; 622075.82, 3333357.22; 622070.43, 3333370.63; 622055.53, 3333361.89; 622054.02, 3333359.11; 622050.45, 3333358.64; 622050.87, 3333373.70; 622054.41, 3333375.35; 622055.73, 3333370.26; 622074.91, 3333381.42; 622068.28, 3333392.74; 622052.67, 3333381.30; 622052.36, 3333393.53; 621968.90, 3333393.43; 621923.57, 3333394.29; 621904.82, 3333397.37; 621896.73, 3333403.10; 621887.99, 3333418.36; 621896.52, 3333426.88; 621899.91, 3333434.52; 621904.78, 3333446.13; 621910.26, 3333465.30; 621908.98, 3333475.01; 621906.49, 3333488.99; 621899.48, 3333498.74; 621914.90, 3333517.73; 621925.15, 3333537.03; 621925.65, 3333517.19; 621915.48, 3333485.53; 621915.02, 3333472.04; 621919.73, 3333458.24; 621927.08,

3333450.49; 621925.89, 3333444.28; 621934.71, 3333441.32; 621933.02, 3333429.42; 621941.44, 3333426.45; 621940.40, 3333420.49; 621953.56, 3333418.45; 621952.17, 3333410.86; 621958.31, 3333403.90; 621967.87, 3333402.51; 621975.31, 3333407.45; 621991.19, 3333407.84; 621994.87, 3333403.63; 622003.98, 3333405.42; 622009.79, 3333411.12; 622021.66, 3333413.42; 622030.58, 3333405.71; 622043.66, 3333407.60; 622053.97, 3333424.09; 622067.49, 3333424.06; 622092.11, 3333425.05; 622103.83, 3333432.90; 622127.29, 3333432.80; 622144.08, 3333428.91; 622158.72, 3333437.33; 622166.78, 3333449.02; 622175.07, 3333451.17; 622180.71, 3333448.19; 622177.32, 3333440.55; 622155.80, 3333420.72; 622140.75, 3333387.19; 622137.39, 3333369.01; 622137.93, 3333347.61; 622144.08, 3333349.45; 622145.35, 3333330.63; 622139.59, 3333297.27; 622136.62, 3333273.41; 622123.66, 3333260.54; 622088.23, 3333238.11; 622059.32, 3333211.79; 622032.70, 3333163.93; 621995.93, 3333109.51; 621950.18,

3333158.30; 621925.08, 3333183.27; 621909.61, 3333197.17; 621890.82, 3333211.50; 621867.61, 3333233.51; 621840.27, 3333261.79; 621795.65, 3333297.50; 621748.76, 3333344.70; 621683.83, 3333397.75; 621604.06, 3333456.05; 621443.71, 3333605.78; 621389.69, 3333651.99; 621266.54, 3333778.11; 621129.36, 3333922.86; 621042.23, 3333988.91; 621066.17, 3334016.85; 621085.32, 3333998.29; 621121.05, 3333983.71; 621146.88, 3333968.50; 621176.94, 3333958.21; 621191.23, 3333990.28; 621231.17, 3333967.06; 621248.81, 3334008.33; 621274.52, 3334060.54; 621268.54, 3334076.62; 621175.20, 3334121.84; 621169.09, 3334126.49; 621170.19, 3334131.64; 621178.23, 3334141.83; 621190.57, 3334141.33; 621205.68, 3334140.90; 621221.09, 3334144.09; 621236.52, 3334147.23; 621258.74,

3334148.59; 621271.49, 3334147.29; 621291.97, 3334139.13; 621301.22, 3334134.99; 621311.78, 3334125.71; 621322.82, 3334113.31; 621333.93, 3334098.55; 621344.18, 3334086.13; 621351.96, 3334076.40; 621365.73, 3334066.45; 621382.35, 3334053.38; 621397.40, 3334039.90; 621408.77, 3334030.26; 621415.83, 3334018.14; 621425.84, 3333999.79; 621432.06, 3333973.35; 621437.52, 3333962.00; 621445.36, 3333950.34; 621454.85, 3333936.28; 621474.89, 3333914.19; 621490.01, 3333897.90; 621502.23, 3333885.91; 621518.08, 3333871.64; 621528.71, 3333860.42; 621534.90, 3333851.09; 621541.96, 3333839.34; 621548.84, 3333818.54; 621555.71, 3333797.67; 621564.37, 3333769.74; 621575.29, 3333746.66; 621589.20, 3333730.35; 621600.73, 3333715.15; 621618.79, 3333691.82; 621633.66, 3333670.04; 621648.02, 3333652.17; 621668.56, 3333625.72; 621688.35, 3333597.25; 621722.12, 3333550.53; 621745.91, 3333521.04; 621762.66, 3333502.80; 621777.71, 3333488.94; 621795.43, 3333480.27; 621807.43,

3333477.01; 621826.93, 3333475.51; 621847.19, 3333476.39; 621864.18, 3333480.38; 621874.83, 3333483.45; 621887.33, 3333491.69; 621899.95, 3333472.78; 621996.16, 3333194.73; 621990.25, 3333192.58; 621985.62, 3333187.72; 621987.37, 3333180.65; 621991.46, 3333176.38; 621998.21, 3333176.55; 622003.30, 3333179.49; 622005.56, 3333184.66; 622003.80, 3333191.36; 621996.16, 3333194.73; 622071.85, 3333314.36; 622058.50, 3333307.72; 622061.47, 3333300.24; 622074.04, 3333306.11; 622071.85, 3333314.36; 622093.43, 3333325.20; 622095.20, 3333317.76; 622108.61, 3333322.03; 622107.22, 3333329.92; 622093.43, 3333325.20; 621924.56, 3333323.77; 621912.23, 3333323.84; 621907.18, 3333319.34; 621910.83, 3333300.39; 621928.99, 3333305.65; 621924.56, 3333323.77

622066.27, 3333307.03; 622071.85, 3333314.36; 622074.04, 3333306.11; 622061.47, 3333300.24; 622058.50, 3333307.72; 622071.85, 3333314.36

623389.94, 3333035.44; 623323.45, 3333193.47; 623349.05, 3333170.77; 623377.48, 3333146.51; 623420.48, 3333096.41; 623444.00, 3333062.16; 623462.08, 3333038.02; 623477.02, 3333028.91; 623477.98, 3333013.08; 623475.86, 3332991.80; 623465.44, 3332983.61; 623457.48, 3332983.41; 623449.86, 3332969.99; 623436.92, 3332956.43; 623423.79, 3332950.79; 623413.37, 3332942.60; 623405.48, 3332939.72; 623397.59, 3332936.90; 623378.88, 3332941.73; 623370.78, 3332946.77; 623358.82, 3332956.52; 623349.47, 3332949.17; 623342.03, 3332960.10; 623332.88, 3332960.62; 623335.10, 3332951.56; 623334.17, 3332941.23; 623325.99, 3332932.41; 623315.18, 3332938.01; 623303.80, 3332931.79; 623301.89, 3332928.31; 623303.63, 3333200.47; 623323.45, 3333193.47

623207.01, 3333030.35; 623301.89, 3332928.31; 623301.88, 3332926.77; 623299.51, 3332922.52; 623301.58, 3332915.71; 623300.16, 3332757.18; 623272.59, 3332791.82; 623238.88, 3332831.80; 623235.27, 3332853.49; 623239.65, 3332869.08; 623213.98, 3332894.16; 623212.26, 3332915.15; 623197.27, 3332926.26; 623190.01, 3332930.82; 623190.30, 3332919.34; 623177.76, 3332911.91; 623173.18, 3332920.54; 623159.54, 3332925.31; 623140.57, 3332921.28; 623134.66, 3332902.90; 623110.39, 3332919.71; 623113.08, 3332955.48; 623120.41, 3332979.83; 623127.22, 3333025.19; 623132.41, 3333039.62; 623143.96, 3333070.43; 623184.81, 3333120.96; 623208.89, 3333143.42; 623228.03, 3333156.94; 623253.69, 3333179.37; 623275.96, 3333194.60; 623303.63, 3333200.47; 623301.89, 3332928.31

623723.20, 3332414.74; 623301.58, 3332915.71; 623311.98, 3332906.98; 623319.00, 3332896.80; 623331.66, 3332883.26; 623337.50, 3332872.29; 623347.93, 3332868.25; 623353.74, 3332858.84; 623352.44, 3332846.95; 623370.63, 3332835.11; 623377.77, 3332835.29; 623387.33, 3332818.48; 623402.21, 3332811.68; 623412.56, 3332795.33; 623422.77, 3332784.48; 623425.83, 3332773.44; 623446.89, 3332758.12; 623458.49, 3332739.37; 623467.60, 3332740.41; 623481.18, 3332721.71; 623490.29, 3332723.56; 623498.97, 3332709.86; 623518.81, 3332711.17; 623527.48, 3332698.34; 623535.17, 3332692.98; 623541.43, 3332681.21; 623562.79, 3332685.31; 623579.21, 3332684.47; 623595.06, 3332687.49; 623600.65, 3332677.08; 623591.73, 3332671.80; 623589.32, 3332657.82; 623601.68, 3332655.76; 623606.02, 3332625.78; 623621.71, 3332617.81; 623635.88, 3332607.49; 623648.00, 3332584.39; 623662.83, 3332579.64; 623677.37, 3332570.08; 623687.16, 3332560.40; 623703.64,

3332552.89; 623710.70, 3332540.77; 623731.36, 3332547.90; 623739.12, 3332556.09; 623750.91, 3332554.07; 623768.73, 3332556.52; 623779.31, 3332546.49; 623787.43, 3332536.08; 623790.42, 3332522.92; 623793.48, 3332507.08; 623799.04, 3332496.67; 623809.93, 3332486.33; 623825.98, 3332481.43; 623841.85, 3332484.51; 623846.68, 3332503.17; 623857.03, 3332513.98; 623870.51, 3332506.39; 623873.69, 3332485.31; 623873.95, 3332474.70; 623861.03, 3332461.15; 623861.29, 3332450.54; 623869.65, 3332434.83; 623872.71, 3332419.05; 623872.85, 3332413.75; 623883.65, 3332406.09; 623894.33, 3332403.68; 623913.89, 3332394.87; 623933.57, 3332402.48; 623942.31, 3332418.55; 623957.82, 3332413.26; 623965.15, 3332411.20; 623963.54, 3332397.49; 623960.78, 3332379.00; 623960.21, 3332354.39; 623996.24, 3332363.85; 624009.25, 3332374.79; 624022.46, 3332377.81; 624033.45, 3332365.79; 624025.84, 3332348.74; 624016.02, 3332332.45; 624026.05, 3332328.71; 624032.16, 3332309.13; 624035.08,

3332298.66; 624032.69, 3332287.99; 624040.98, 3332274.96; 624062.87, 3332270.95; 624069.10, 3332276.29; 624078.75, 3332287.64; 624088.66, 3332288.64; 624091.48, 3332273.54; 624083.91, 3332257.50; 624096.46, 3332247.26; 624108.20, 3332242.19; 624111.19, 3332229.03; 624100.84, 3332218.16; 624095.90, 3332206.42; 624082.93, 3332191.24; 624083.46, 3332170.09; 624086.44, 3332156.87; 624108.28, 3332133.64; 624127.19, 3332120.82; 624143.46, 3332107.99; 624146.23, 3332102.75; 624132.84, 3332107.72; 624124.73, 3332112.83; 624090.23, 3332111.96; 624080.03, 3332110.89; 624067.63, 3332129.56; 624057.86, 3332132.37; 624041.80, 3332137.21; 624022.00, 3332142.33; 624017.92, 3332146.60; 624012.52, 3332155.95; 624001.58, 3332152.12; 623988.32, 3332151.78; 623978.34, 3332155.47; 623975.23, 3332168.87; 623973.13, 3332173.56; 623958.41, 3332174.00; 623952.89, 3332187.97; 623948.73, 3332195.55; 623940.38, 3332195.34; 623928.53, 3332205.90; 623917.91, 3332205.64; 623904.79, 3332200.00; 623897.03, 3332191.88; 623897.23, 3332183.95; 623897.76, 3332162.74; 623906.94, 3332150.11; 623909.03, 3332136.56; 623917.41, 3332120.85; 623923.11, 3332105.14; 623931.40, 3332092.11; 623950.18, 3332084.59; 623962.99, 3332071.06; 623959.33, 3332058.67; 623951.47, 3332039.06; 623946.93, 3332061.17; 623941.66, 3332065.40; 623927.16, 3332073.34; 623927.10, 3332059.86; 623937.85, 3332047.20; 623940.76, 3332036.73; 623927.70, 3332028.41; 623938.58, 3332018.13; 623941.56, 3332004.91; 623947.01, 3331999.80; 623960.47, 3331992.15; 623968.76, 3331979.13; 623971.82, 3331963.35; 623969.30, 3331957.98; 623955.77, 3331968.19; 623950.25, 3331976.04; 623944.82, 3331981.21; 623942.36, 3331973.16; 623942.63, 3331962.61; 623942.96, 3331949.33; 623937.74, 3331937.21; 623931.52, 3331931.93; 623930.05, 3331942.57; 623933.81, 3331951.03; 623923.37, 3331955.51; 623915.11, 3331967.98; 623912.97, 3331980.41; 623923.12, 3331999.20; 623917.48, 3332012.30; 623903.94,

3332022.51; 623896.05, 3332019.69; 623872.30, 3332013.78; 623858.22, 3332017.30; 623853.62, 3332026.67; 623853.12, 3332037.15; 623847.41, 3332052.92; 623837.27, 3332060.34; 623841.37, 3332081.86; 623838.45, 3332092.40; 623830.02, 3332110.73; 623821.73, 3332123.75; 623808.32, 3332128.72; 623778.52, 3332151.82; 623775.48, 3332167.60; 623777.92, 3332175.65; 623769.63, 3332188.68; 623758.68, 3332201.63; 623753.11, 3332212.11; 623750.85, 3332196.13; 623740.04, 3332203.79; 623737.13, 3332214.33; 623738.14, 3332224.34; 623744.75, 3332227.75; 623744.35, 3332243.66; 623743.95, 3332259.57; 623732.93, 3332275.15; 623716.60, 3332290.66; 623675.33, 3332347.86; 623661.27, 3332357.18; 623658.21, 3332368.65; 623669.80, 3332381.99; 623663.65, 3332389.39; 623650.53, 3332389.06; 623643.59, 3332396.82; 623633.45, 3332404.86; 623636.58, 3332410.43; 623615.01, 3332423.19; 623596.30, 3332427.96; 623585.35,

3332440.98; 623563.45, 3332466.90; 623541.29, 3332503.43; 623522.34, 3332507.94; 623520.49, 3332518.57; 623524.73, 3332523.42; 623520.08, 3332534.79; 623494.08, 3332541.32; 623488.41, 3332545.54; 623478.47, 3332561.90; 623482.55, 3332573.11; 623451.17, 3332601.79; 623440.69, 3332596.22; 623441.02, 3332582.99; 623436.88, 3332571.59; 623416.27, 3332585.31; 623409.39, 3332590.31; 623418.34, 3332597.66; 623413.62, 3332616.76; 623402.15, 3332640.88; 623379.24, 3332650.98; 623345.03, 3332699.69; 623320.06, 3332746.82; 623307.25, 3332747.87; 623300.16, 3332757.18; 623301.58, 3332915.71

624324.69, 3331250.33; 623608.09, 3331788.91; 623616.14, 3331784.74; 623622.23, 3331779.78; 623627.93, 3331773.18; 623633.63, 3331775.63; 623633.54, 3331779.06; 623633.40, 3331784.80; 623628.69, 3331789.24; 623625.17, 3331791.46; 623625.00, 3331798.32; 623627.21, 3331801.81; 623625.89, 3331808.71; 623624.56, 3331815.54; 623619.88, 3331818.86; 623616.32, 3331823.39; 623611.65, 3331825.52; 623603.56, 3331827.62; 623597.77, 3331828.66; 623594.25, 3331832.01; 623594.13, 3331836.56; 623596.37, 3331838.93; 623598.59, 3331842.42; 623601.91, 3331847.12; 623606.48, 3331848.36; 623607.46, 3331855.25; 623599.27, 3331860.79; 623593.50, 3331861.83; 623589.95, 3331865.17; 623588.75, 3331867.45; 623588.64, 3331872.01; 623590.79, 3331877.80; 623594.03, 3331885.94; 623593.94, 3331889.37; 623589.23,

3331893.81; 623585.71, 3331897.15; 623582.19, 3331899.37; 623582.11, 3331902.80; 623581.85, 3331910.35; 623571.80, 3331914.91; 623564.94, 3331919.04; 623560.77, 3331926.86; 623559.00, 3331934.37; 623546.80, 3331945.18; 623546.26, 3331950.72; 623550.67, 3331965.06; 623546.55, 3331986.37; 623551.47, 3331996.42; 623558.33, 3331991.85; 623563.22, 3331987.23; 623561.07, 3331962.20; 623552.11, 3331954.80; 623555.55, 3331944.59; 623565.06, 3331940.27; 623567.21, 3331946.06; 623570.65, 3331946.15; 623576.50, 3331942.86; 623576.55, 3331940.56; 623576.64, 3331937.13; 623576.70, 3331934.82; 623580.28, 3331929.16; 623580.34, 3331926.86; 623579.26, 3331924.58; 623585.10, 3331921.23; 623590.84, 3331921.38; 623594.26, 3331922.65; 623597.70, 3331922.74; 623600.06, 3331920.48; 623601.30, 3331917.08; 623602.48, 3331915.93; 623607.10, 3331914.92; 623609.40, 3331914.98; 623610.59, 3331913.88; 623612.94, 3331911.63; 623615.27, 3331910.57; 623617.63, 3331908.32; 623619.98, 3331906.07; 623620.01, 3331904.94; 623621.26, 3331901.54; 623625.97, 3331897.04; 623630.59, 3331896.03; 623637.49, 3331896.21; 623640.96, 3331895.11; 623641.08, 3331890.55; 623640.05, 3331885.91; 623640.22, 3331879.05; 623640.34, 3331874.43; 623639.24, 3331872.15; 623638.21, 3331867.51; 623632.46, 3331867.36; 623629.02, 3331867.28; 623624.39, 3331868.35; 623622.15, 3331865.98; 623619.91, 3331863.62; 623618.90, 3331857.85; 623622.53, 3331851.07; 623628.38, 3331846.60; 623643.45, 3331842.42; 623646.99, 3331839.08; 623648.22, 3331835.61; 623648.36, 3331829.93; 623653.05, 3331826.56; 623648.59, 3331820.76; 623646.47,

3331813.78; 623646.58, 3331809.23; 623646.70, 3331804.61; 623649.08, 3331801.24; 623653.77, 3331797.92; 623659.61, 3331794.64; 623661.97, 3331792.38; 623662.08, 3331787.83; 623663.37, 3331782.12; 623666.94, 3331777.59; 623670.52, 3331771.94; 623676.37, 3331768.65; 623677.64, 3331764.13; 623677.90, 3331753.77; 623678.10, 3331745.72; 623673.49, 3331745.61; 623669.99, 3331747.83; 623666.59, 3331745.43; 623666.71, 3331740.88; 623669.24, 3331731.77; 623670.45, 3331729.49; 623675.22, 3331722.74; 623672.95, 3331721.56; 623670.77, 3331716.89; 623674.30, 3331713.54; 623682.47, 3331709.13; 623689.30, 3331711.61; 623696.26, 3331709.47; 623698.64, 3331706.10; 623704.54, 3331700.50; 623708.11, 3331696.04; 623712.62, 3331689.28; 623709.65, 3331680.91; 623702.92, 3331678.74; 623721.87, 3331680.28; 623726.08, 3331684.69; 623731.80, 3331686.27; 623734.70, 3331684.91; 623743.33, 3331685.12; 623747.63, 3331685.23; 623751.80, 3331691.08; 623756.12, 3331691.19; 623756.22,

3331686.88; 623759.25, 3331681.22; 623758.06, 3331671.20; 623756.76, 3331665.42; 623759.71, 3331662.63; 623761.26, 3331658.36; 623758.56, 3331651.11; 623752.92, 3331646.66; 623751.48, 3331646.63; 623747.18, 3331646.52; 623744.09, 3331655.05; 623743.90, 3331662.23; 623742.21, 3331672.24; 623737.68, 3331680.67; 623730.58, 3331677.62; 623729.20, 3331667.10; 623729.40, 3331660.99; 623723.85, 3331658.85; 623720.97, 3331658.78; 623721.12, 3331653.04; 623719.79, 3331648.70; 623723.17, 3331640.61; 623720.19, 3331632.92; 623724.19, 3331629.34; 623732.44, 3331635.35; 623741.99, 3331634.40; 623745.70, 3331629.31; 623741.49, 3331623.28; 623743.59, 3331617.77; 623750.43, 3331615.14; 623746.64,

3331610.67; 623748.19, 3331606.40; 623754.00, 3331603.68; 623758.43, 3331599.48; 623762.85, 3331595.29; 623768.59, 3331595.43; 623781.29, 3331589.38; 623783.29, 3331582.88; 623786.34, 3331575.78; 623792.15, 3331573.05; 623798.21, 3331564.46; 623792.44, 3331561.63; 623792.59, 3331555.89; 623791.10, 3331547.18; 623796.79, 3331541.83; 623804.57, 3331537.53; 623813.33, 3331532.01; 623824.86, 3331530.86; 623826.30, 3331530.90; 623830.68, 3331528.14; 623838.07, 3331528.20; 623840.77, 3331531.39; 623840.95, 3331540.51; 623841.93, 3331548.89; 623847.88, 3331549.42; 623853.76, 3331552.38; 623857.21, 3331557.21; 623859.80, 3331564.76; 623864.00, 3331572.05; 623867.87, 3331576.08; 623870.63, 3331576.58; 623878.93, 3331578.73; 623883.32, 3331577.65; 623886.58, 3331574.61; 623899.29, 3331559.45; 623909.08, 3331547.15; 623909.68, 3331541.48; 623910.62, 3331535.95; 623911.05, 3331532.53; 623915.82, 3331531.84; 623919.94, 3331528.63; 623927.78, 3331532.82; 623931.87, 3331528.18; 623937.97, 3331522.78; 623943.62, 3331518.93; 623947.23, 3331517.83; 623955.40, 3331522.97; 623969.78, 3331519.77; 623974.36,

3331511.96; 623979.89, 3331515.47; 623989.58, 3331508.97; 623997.31, 3331502.05; 624005.69, 3331500.70; 624013.70, 3331498.09; 624021.65, 3331497.92; 624035.21, 3331494.45; 624030.64, 3331488.22; 624039.17, 3331481.31; 624044.62, 3331469.96; 624045.96, 3331464.01; 624046.43, 3331459.02; 624051.33, 3331455.84; 624060.93, 3331453.71; 624070.18, 3331449.20; 624076.25, 3331444.98; 624082.38, 3331438.39; 624092.84, 3331433.10; 624100.67, 3331435.85; 624111.05, 3331433.68; 624122.70, 3331429.23; 624131.17, 3331423.89; 624137.45, 3331429.47; 624145.26, 3331432.98; 624151.72, 3331428.77; 624154.30, 3331421.35; 624170.63, 3331421.57; 624186.23, 3331418.03; 624192.72, 3331413.01; 624201.99, 3331407.69; 624215.12, 3331407.20; 624227.82, 3331407.96; 624244.21, 3331404.00; 624262.00, 3331407.63; 624276.06, 3331401.62; 624280.16,

3331396.60; 624285.62, 3331385.19; 624299.16, 3331384.35; 624307.99, 3331381.01; 624324.07, 3331373.49; 624330.48, 3331371.28; 624343.08, 3331376.34; 624352.91, 3331380.58; 624365.78, 3331374.53; 624375.12, 3331366.47; 624392.42, 3331358.16; 624402.56, 3331349.74; 624407.86, 3331344.69; 624411.94, 3331340.42; 624416.36, 3331338.98; 624421.59, 3331336.30; 624426.93, 3331329.32; 624434.59, 3331325.14; 624441.14, 3331317.38; 624453.64, 3331310.57; 624469.87, 3331297.50; 624476.73, 3331292.93; 624488.51, 3331282.92; 624500.01, 3331268.10; 624503.73, 3331262.64; 624501.67, 3331249.17; 624499.92, 3331236.26; 624501.96, 3331218.15; 624505.83, 3331222.12; 624509.57, 3331215.85; 624512.90, 3331210.00; 624516.61, 3331204.97; 624520.26, 3331201.51; 624522.40, 3331195.57; 624527.28, 3331191.32; 624531.38, 3331186.30; 624537.83, 3331182.91; 624545.82, 3331181.49; 624549.12, 3331176.45; 624553.58, 3331172.57; 624559.32, 3331165.97; 624562.97, 3331162.50; 624562.33, 3331156.93; 624567.13, 3331155.49; 624575.95, 3331152.53; 624580.11,

3331145.08; 624584.73, 3331135.71; 624582.98, 3331126.18; 624588.25, 3331121.94; 624596.18, 3331122.51; 624603.81, 3331135.38; 624611.14, 3331128.07; 624611.75, 3331119.72; 624616.49, 3331121.03; 624622.85, 3331121.19; 624629.85, 3331127.35; 624635.90, 3331139.37; 624641.80, 3331157.74; 624646.52, 3331159.05; 624648.80, 3331147.62; 624644.27, 3331138.77; 624642.71, 3331121.68; 624643.31, 3331113.40; 624656.91, 3331125.66; 624665.27, 3331125.06; 624664.03, 3331111.55; 624666.15, 3331106.04; 624667.57, 3331096.96; 624673.76, 3331103.49; 624675.03, 3331116.57; 624679.62, 3331123.80; 624687.98, 3331122.82; 624682.84, 3331106.46; 624677.60, 3331077.80; 624687.39, 3331083.60; 624695.43, 3331095.29; 624697.52, 3331106.83; 624705.41, 3331109.03; 624713.32, 3331110.79; 624722.63, 3331120.13; 624733.74, 3331120.85; 624730.56, 3331105.29; 624735.53, 3331096.67; 624742.36, 3331094.10; 624749.56,

3331091.91; 624756.75, 3331091.28; 624762.06, 3331085.48; 624775.36, 3331093.31; 624783.48, 3331102.62; 624791.56, 3331097.71; 624787.91, 3331084.51; 624784.12, 3331077.30; 624786.70, 3331069.43; 624790.48, 3331061.60; 624794.15, 3331057.32; 624802.08, 3331058.33; 624809.13, 3331062.88; 624816.70, 3331061.88; 624816.13, 3331052.76; 624820.58, 3331050.06; 624825.45, 3331046.25; 624832.59, 3331046.43; 624839.41, 3331044.23; 624834.40, 3331023.75; 624836.91, 3331018.70; 624847.00, 3331026.94; 624862.30, 3331034.44; 624869.15, 3331030.68; 624872.59, 3331020.09; 624876.28, 3331016.19; 624877.22, 3331010.28; 624884.51, 3331004.91; 624895.21, 3331006.36; 624900.94, 3330999.39; 624900.75, 3330991.46; 624898.57, 3330983.48; 624901.12, 3330976.80; 624904.43, 3330971.33; 624903.18, 3330958.19; 624899.12, 3330945.41; 624903.64, 3330939.97; 624914.14, 3330950.47; 624923.72, 3330947.22; 624929.83,

3330941.44; 624934.82, 3330932.83; 624942.36, 3330934.51; 624953.57, 3330947.47; 624965.43, 3330963.75; 624976.51, 3330981.44; 624985.50, 3330989.10; 624997.68, 3330993.46; 625007.13, 3330981.02; 625021.88, 3330979.40; 625036.25, 3330976.64; 625047.37, 3330976.92; 625051.12, 3330970.27; 625055.80, 3330957.65; 625061.65, 3330946.75; 625069.46, 3330936.21; 625078.45, 3330926.51; 625078.61, 3330904.35; 625082.11, 3330891.77; 625085.18, 3330880.30; 625092.75, 3330879.30; 625099.25, 3330873.91; 625107.03, 3330864.62; 625113.56, 3330858.41; 625130.99, 3330876.33; 625140.67, 3330870.21; 625151.22, 3330862.17; 625153.41, 3330853.92; 625155.72, 3330841.25; 625156.97, 3330838.90; 625162.58, 3330837.11; 625169.38, 3330834.85; 625181.03, 3330830.40; 625185.84, 3330828.96; 625189.75, 3330833.30; 625198.28, 3330823.71; 625202.79, 3330818.64; 625209.61, 3330815.69; 625208.68, 3330807.24; 625213.22, 3330799.12; 625216.23, 3330789.64; 625222.49, 3330777.94; 625224.69,

3330769.26; 625226.06, 3330762.99; 625224.65, 3330755.40; 625221.21, 3330749.75; 625223.34, 3330744.25; 625229.28, 3330747.52; 625234.21, 3330754.83; 625236.77, 3330765.50; 625243.85, 3330766.55; 625243.67, 3330759.37; 625240.93, 3330742.26; 625241.22, 3330737.46; 625238.76, 3330733.84; 625241.61, 3330731.17; 625256.91, 3330754.96; 625263.98, 3330756.38; 625276.57, 3330745.59; 625279.93, 3330740.06; 625285.18, 3330737.00; 625292.21, 3330737.18; 625305.47, 3330735.95; 625313.36, 3330732.41; 625314.45, 3330720.51; 625316.96, 3330715.46; 625320.22, 3330711.98; 625320.76, 3330706.81; 625331.98, 3330703.16; 625341.52, 3330702.59; 625345.96, 3330700.33; 625351.96, 3330698.92; 625359.05, 3330707.59; 625368.33, 3330718.12; 625380.20, 3330703.75; 625381.08, 3330694.47; 625386.40, 3330688.24; 625368.73, 3330685.98; 625369.05,

3330673.32; 625372.50, 3330663.10; 625381.10, 3330652.65; 625386.66, 3330653.16; 625388.00, 3330658.37; 625380.23, 3330671.60; 625382.46, 3330677.65; 625387.61, 3330678.15; 625397.48, 3330665.29; 625404.43, 3330657.54; 625403.38, 3330645.46; 625399.18, 3330629.32; 625387.78, 3330618.11; 625385.96, 3330611.32; 625386.12, 3330605.02; 625383.88, 3330599.03; 625384.48, 3330591.12; 625388.60, 3330585.67; 625393.83, 3330582.99; 625400.97, 3330583.17; 625408.60, 3330580.61; 625411.21, 3330571.13; 625413.30, 3330567.25; 625424.30, 3330572.27; 625427.31, 3330563.23; 625429.79, 3330559.73; 625434.61, 3330557.48; 625440.00, 3330548.88; 625446.86, 3330544.31; 625453.34, 3330539.73; 625461.37, 3330536.74; 625466.81, 3330541.25; 625475.13, 3330542.65; 625475.39, 3330547.77; 625476.82, 3330554.55; 625478.30, 3330558.58; 625486.63, 3330559.60; 625491.41, 3330559.28; 625495.03, 3330557.00; 625496.79, 3330550.68; 625502.36, 3330550.07; 625509.54, 3330549.44; 625513.70, 3330557.47; 625515.21, 3330576.55; 625515.86, 3330582.50; 625519.45,

3330603.75; 625541.27, 3330605.48; 625562.47, 3330600.09; 625570.48, 3330597.54; 625575.34, 3330594.10; 625579.26, 3330580.72; 625580.19, 3330574.75; 625591.04, 3330570.28; 625591.64, 3330562.37; 625593.52, 3330548.18; 625597.69, 3330542.73; 625594.58, 3330540.28; 625587.14, 3330551.58; 625574.30, 3330556.37; 625568.76, 3330555.05; 625556.15, 3330551.55; 625551.39, 3330544.56; 625554.58, 3330527.98; 625556.60, 3330511.36; 625555.91, 3330497.67; 625577.28, 3330501.39; 625593.00, 3330508.53; 625603.59, 3330507.42; 625609.13, 3330514.86; 625621.31, 3330514.17; 625625.95, 3330510.11; 625631.67, 3330497.39; 625633.89, 3330487.96; 625637.13, 3330485.67; 625644.25, 3330483.72; 625650.93, 3330480.64; 625656.40, 3330478.22; 625663.15, 3330478.02; 625667.53, 3330478.13; 625681.45, 3330483.78; 625691.17, 3330486.21; 625696.03, 3330482.78; 625704.08, 3330479.05; 625708.90, 3330476.36; 625711.41, 3330471.68; 625712.90, 3330465.91; 625721.95, 3330469.32; 625729.74,

3330475.88; 625736.48, 3330476.43; 625745.11, 3330474.90; 625740.21, 3330470.59; 625736.81, 3330463.39; 625737.89, 3330446.19; 625732.00, 3330433.93; 625727.43, 3330425.89; 625724.12, 3330415.07; 625720.54, 3330399.56; 625728.43, 3330401.69; 625735.92, 3330398.13; 625743.15, 3330410.61; 625749.46, 3330412.77; 625759.39, 3330403.28; 625762.05, 3330392.67; 625765.40, 3330386.02; 625773.74, 3330385.79; 625789.39, 3330374.13; 625802.29, 3330366.90; 625808.75, 3330362.76; 625811.30, 3330355.65; 625812.40, 3330343.81; 625817.05, 3330333.19; 625817.21, 3330326.89; 625826.39, 3330325.12; 625834.01, 3330322.13; 625843.64, 3330318.82; 625853.31, 3330313.88; 625859.92, 3330303.37; 625863.37, 3330292.78; 625865.87, 3330288.47; 625874.20, 3330289.06; 625880.25, 3330285.28; 625883.28, 3330275.80; 625890.69, 3330280.73; 625894.51, 3330287.20; 625900.44, 3330288.16; 625907.60, 3330288.71; 625914.52, 3330297.63; 625922.07, 3330297.38; 625933.23, 3330280.62; 625942.48,

3330245.21; 625941.14, 3330234.87; 625943.59, 3330232.12; 625948.77, 3330231.88; 625955.90, 3330232.87; 625959.58, 3330244.45; 625965.44, 3330248.53; 625975.01, 3330246.83; 625983.68, 3330250.17; 625992.06, 3330249.20; 625999.31, 3330245.01; 626001.15, 3330234.76; 626004.08, 3330228.90; 626008.98, 3330223.91; 626010.39, 3330215.20; 626004.48, 3330197.57; 626007.06, 3330189.71; 626012.23, 3330189.47; 626018.52, 3330192.43; 626026.69, 3330199.32; 626034.99, 3330201.52; 626042.34, 3330209.26; 626053.47, 3330209.54; 626064.41, 3330216.93; 626067.59, 3330216.64; 626069.85, 3330205.96; 626075.04, 3330204.90; 626082.07, 3330194.03; 626078.03, 3330164.96; 626083.53, 3330167.85; 626086.09, 3330177.03; 626091.99, 3330179.17; 626102.04, 3330174.68; 626103.80, 3330167.61; 626108.65, 3330164.55; 626116.15, 3330166.73; 626128.62, 3330160.68; 626128.58, 3330146.82; 626136.61, 3330143.46; 626141.54,

3330136.85; 626139.81, 3330126.50; 626131.70, 3330117.56; 626121.16, 3330121.60; 625709.38, 3330333.67; 625710.98, 3330211.17; 625667.14, 3330241.78; 625647.64, 3330258.02; 625625.86, 3330279.07; 625587.25, 3330301.64; 625568.91, 3330310.16; 625548.73, 3330320.52; 625526.95, 3330331.89; 625503.92, 3330346.73; 625475.66, 3330363.88; 625414.55, 3330398.42; 625381.46, 3330417.50; 625348.32, 3330438.33; 625309.72, 3330460.83; 625285.56, 3330485.51; 625261.53, 3330504.82; 625242.49, 3330522.69; 625219.86, 3330537.60; 625164.14, 3330556.37; 625124.23, 3330578.77; 625088.53, 3330623.44; 625005.30, 3330676.85; 624947.88, 3330710.67; 624930.88, 3330723.29; 624914.85, 3330732.19; 624850.83, 3330781.58; 624818.75, 3330808.93; 624776.67, 3330838.40; 624737.08, 3330863.93; 624715.01, 3330872.49; 624673.41, 3330898.85; 624628.64, 3330924.26; 624581.75, 3330955.98; 624554.29, 3330973.14; 624521.38, 3330996.22; 624471.97, 3331016.45; 624449.99, 3331033.13; 624442.44, 3331047.30; 624396.91, 3331084.86; 624372.12, 3331098.59; 624245.08, 3331175.74; 624227.40, 3331192.46; 624201.03, 3331211.90; 624177.59,

3331228.54; 624143.79, 3331257.78; 624126.18, 3331271.69; 624098.45, 3331288.16; 624075.33, 3331305.94; 624042.09, 3331331.32; 624016.37, 3331349.21; 623988.56, 3331368.61; 623963.67, 3331386.65; 623943.07, 3331404.74; 623906.22, 3331426.04; 623801.06, 3331498.30; 623768.67, 3331522.08; 623746.75, 3331540.57; 623719.64, 3331559.68; 623691.64, 3331582.39; 623658.30, 3331610.20; 623612.54, 3331645.76; 623573.86, 3331682.30; 623476.36, 3331762.50; 623395.39, 3331825.83; 623291.29, 3331895.94; 623263.75, 3331921.40; 623213.98, 3331956.60; 623174.90, 3331988.15; 623143.72, 3332011.52; 623112.09, 3332035.76; 623055.93, 3332072.74; 623033.86, 3332096.40; 623013.02, 3332116.86; 622880.19, 3332222.14; 622656.44, 3332390.56; 622631.76, 3332410.16; 622614.36, 3332425.14; 622532.71, 3332479.40; 622507.85, 3332535.83; 622527.13, 3332574.77; 622565.49, 3332582.47; 622611.92, 3332585.20; 622650.52,

3332598.90; 622666.13, 3332610.35; 622664.85, 3332629.35; 622669.15, 3332648.13; 622686.45, 3332655.30; 622726.23, 3332638.45; 622767.22, 3332620.44; 622805.70, 3332607.17; 622828.87, 3332602.57; 622881.81, 3332599.91; 622906.01, 3332601.33; 622927.67, 3332608.99; 622946.11, 3332619.00; 622940.86, 3332606.20; 622932.25, 3332600.80; 622934.18, 3332587.37; 622934.84, 3332576.71; 622926.92, 3332575.70; 622924.84, 3332579.20; 622902.90, 3332582.65; 622891.44, 3332580.36; 622885.24, 3332589.69; 622878.00, 3332593.13; 622872.04, 3332593.36; 622863.36, 3332574.47; 622862.54, 3332565.84; 622868.34, 3332550.82; 622879.06, 3332542.41; 622890.36, 3332528.02; 622889.88, 3332516.09; 622893.27, 3332507.50; 622886.17, 3332505.69; 622882.73, 3332514.72; 622883.34, 3332523.10; 622880.47, 3332520.66; 622872.70, 3332514.91; 622863.61, 3332512.31; 622858.40, 3332503.81; 622850.16, 3332498.86; 622841.75,

3332501.83; 622832.42, 3332504.41; 622822.44, 3332521.95; 622813.31, 3332516.91; 622808.15, 3332511.47; 622811.19, 3332495.70; 622805.31, 3332476.32; 622820.10, 3332458.84; 622830.97, 3332448.50; 622839.28, 3332435.47; 622852.40, 3332441.11; 622860.16, 3332449.23; 622878.67, 3332452.32; 622884.26, 3332441.91; 622876.56, 3332431.11; 622884.51, 3332429.18; 622895.21, 3332428.89; 622911.19, 3332426.67; 622924.67, 3332419.08; 622932.63, 3332419.28; 622940.59, 3332419.48; 622945.82, 3332422.23; 622953.78, 3332422.43; 622956.51, 3332419.88; 622956.71, 3332411.89; 622956.91, 3332403.97; 622965.22, 3332396.31; 622967.92, 3332388.39; 622970.65, 3332385.78; 622978.81, 3332378.05; 622976.28, 3332372.68; 622981.87, 3332362.21; 622988.11, 3332350.95; 623005.53, 3332337.90; 623018.11, 3332343.33; 623027.58, 3332339.51; 623036.93, 3332353.36; 623045.69, 3332358.51; 623053.58, 3332361.39; 623057.40,

3332365.73; 623054.47, 3332371.96; 623059.90, 3332376.91; 623067.40, 3332379.47; 623076.07, 3332382.43; 623083.48, 3332371.94; 623076.00, 3332368.95; 623077.71, 3332364.62; 623076.45, 3332351.10; 623071.15, 3332341.11; 623062.78, 3332341.65; 623060.89, 3332337.67; 623061.47, 3332330.94; 623063.22, 3332324.24; 623068.19, 3332316.44; 623070.84, 3332308.83; 623071.41, 3332299.10; 623066.34, 3332295.36; 623057.84, 3332297.95; 623052.95, 3332290.27; 623047.24, 3332295.69; 623031.90, 3332305.23; 623022.09, 3332316.47; 623014.84, 3332318.03; 623008.72, 3332310.58; 622996.40, 3332310.64; 622988.67, 3332317.62; 622990.76, 3332325.36; 622985.24, 3332333.21; 622970.48, 3332340.95; 622963.32, 3332345.52; 622956.58, 3332356.08; 622960.56, 3332364.36; 622960.30, 3332374.90; 622952.07, 3332385.31; 622946.56, 3332393.10; 622936.00, 3332390.21; 622928.24, 3332382.09; 622922.88, 3332384.58; 622917.43,

3332389.75; 622914.65, 3332394.98; 622906.21, 3332413.31; 622893.08, 3332407.67; 622889.39, 3332397.84; 622886.35, 3332397.89; 622888.47, 3332393.20; 622887.33, 3332391.17; 622886.40, 3332384.72; 622880.85, 3332369.60; 622894.25, 3332367.50; 622899.62, 3332381.56; 622908.79, 3332375.48; 622917.88, 3332378.08; 622929.88, 3332374.83; 622936.11, 3332353.13; 622923.76, 3332332.29; 622942.92, 3332326.84; 622956.51, 3332313.95; 622978.28, 3332293.27; 622984.45, 3332295.73; 622995.77, 3332288.09; 622989.70, 3332261.78; 622995.27, 3332251.31; 623004.57, 3332254.16; 623012.14, 3332253.61; 623029.98, 3332244.25; 623038.14, 3332236.53; 623048.54, 3332223.62; 623061.29, 3332222.75; 623067.31, 3332220.10; 623072.25, 3332197.62; 623083.98, 3332189.61; 623089.60, 3332171.53; 623104.95, 3332146.13; 623111.47, 3332139.55; 623116.67, 3332138.50; 623119.86, 3332121.91; 623127.75, 3332124.11; 623145.11, 3332101.45; 623151.59, 3332108.85; 623161.72, 3332101.18; 623168.33,

3332075.56; 623169.39, 3332065.29; 623176.83, 3332069.10; 623181.98, 3332085.83; 623194.02, 3332086.13; 623202.49, 3332076.05; 623196.73, 3332055.11; 623199.65, 3332044.57; 623206.23, 3332043.24; 623213.97, 3332046.25; 623218.23, 3332024.50; 623237.75, 3332022.19; 623243.88, 3332031.89; 623256.87, 3332036.59; 623259.39, 3332031.09; 623253.90, 3332028.58; 623256.38, 3332019.53; 623269.65, 3332018.24; 623269.65, 3332026.98; 623266.53, 3332031.27; 623269.66, 3332034.10; 623276.19, 3332038.26; 623285.88, 3332031.76; 623288.90, 3332022.35; 623296.18, 3332017.35; 623301.50, 3332011.18; 623304.22, 3332004.82; 623314.53, 3331998.77; 623321.36, 3331984.65; 623327.81, 3331981.69; 623336.17, 3331980.71; 623342.15, 3331980.05; 623348.57, 3331977.84; 623353.87, 3331972.42; 623357.55, 3331968.14; 623363.58, 3331965.54; 623368.03,

3331962.85; 623372.08, 3331959.76; 623371.51, 3331950.64; 623375.30, 3331942.43; 623379.08, 3331933.78; 623382.87, 3331925.58; 623387.00, 3331919.75; 623394.37, 3331910.82; 623402.11, 3331903.46; 623410.52, 3331900.87; 623422.08, 3331899.60; 623433.58, 3331900.26; 623439.64, 3331896.48; 623448.48, 3331892.71; 623446.71, 3331884.36; 623451.59, 3331880.11; 623461.97, 3331877.63; 623466.84, 3331873.75; 623472.34, 3331871.96; 623481.45, 3331862.26; 623487.64, 3331853.30; 623494.05, 3331851.09; 623502.84, 3331849.31; 623512.45, 3331846.00; 623520.19, 3331839.01; 623524.30, 3331833.62; 623527.59, 3331828.90; 623528.30,

3331817.05; 623528.84, 3331811.14; 623532.62, 3331803.31; 623536.73, 3331797.85; 623543.21, 3331792.83; 623547.95, 3331794.14; 623551.00, 3331798.96; 623559.21, 3331804.35; 623566.31, 3331806.90; 623573.49, 3331805.89; 623581.10, 3331802.90; 623590.43, 3331796.02; 623598.89, 3331791.05; 623608.09, 3331788.91; 625657.78, 3330371.95; 625637.08, 3330331.23; 625664.35, 3330317.62; 625685.05, 3330358.40; 625657.78, 3330371.95

625661.06, 3330344.79; 625657.78, 3330371.95; 625685.05, 3330358.40; 625664.35, 3330317.62; 625637.08, 3330331.23; 625657.78, 3330371.95

626504.06, 3329824.25; 625838.06, 3330151.49; 625804.88, 3330169.39; 625740.18, 3330197.86; 625710.99, 3330211.17; 625709.39, 3330333.67; 626121.17, 3330121.60; 626119.55, 3330110.70; 626123.64, 3330099.37; 626083.45, 3330120.09; 626069.91, 3330127.11; 626042.78, 3330141.10; 626015.72, 3330155.03; 626000.11, 3330128.79; 625984.49, 3330102.56; 626011.57, 3330088.63; 626025.22, 3330081.54; 626038.44, 3330074.76; 626052.21, 3330067.62; 626092.84, 3330046.66; 626119.92, 3330032.74; 626144.92, 3330074.73; 626148.36,

3330071.34; 626152.26, 3330074.25; 626156.65, 3330073.92; 626158.57, 3330067.92; 626133.44, 3330025.71; 626160.61, 3330011.72; 626187.63, 3329997.80; 626201.15, 3329990.77; 626228.55, 3329976.66; 626241.77, 3329969.82; 626268.86, 3329955.89; 626300.15, 3330008.30; 626232.23, 3330043.36; 626218.68, 3330050.33; 626194.06, 3330063.04; 626192.51, 3330070.52; 626181.27, 3330090.59; 626255.33, 3330052.00; 626308.52, 3330024.56; 626324.13, 3330050.79; 626270.94, 3330078.23; 626280.36,

3330093.95; 626307.42, 3330080.02; 626320.97, 3330073.00; 626333.50, 3330066.57; 626358.43, 3330108.34; 626360.05, 3330108.81; 626359.50, 3330110.11; 626362.15, 3330114.73; 626365.18, 3330110.13; 626372.77, 3330108.70; 626374.98, 3330104.26; 626348.07, 3330059.07; 626361.61, 3330052.05; 626402.22, 3330031.09; 626429.32, 3330017.11; 626456.41, 3330003.18; 626482.49, 3329989.73; 626506.35, 3330029.47; 626512.44, 3330024.44; 626518.98, 3330018.74; 626472.00, 3329940.21; 626485.56,

3329933.25; 626512.70, 3329919.26; 626539.82, 3329905.27; 626553.39, 3329898.25; 626615.59, 3329866.17; 626627.97, 3329883.96; 626660.94, 3329934.16; 626674.49, 3329927.95; 626639.72, 3329874.14; 626632.05, 3329863.08; 626716.43, 3329814.77; 626724.41, 3329828.14; 626739.94, 3329852.62; 626752.23, 3329843.44; 626739.12, 3329823.08; 626725.94, 3329801.58; 626792.35, 3329763.55; 626805.59, 3329756.02; 626858.49, 3329725.70; 626892.30, 3329782.42; 626905.51, 3329806.41; 626905.76,

3329806.35; 626909.01, 3329805.87; 626920.95, 3329805.36; 626921.41, 3329805.31; 626910.20, 3329779.25; 626874.35, 3329716.61; 626887.59, 3329709.08; 626900.79, 3329701.48; 626927.25, 3329686.35; 627298.74, 3329473.71; 627285.39, 3329459.96; 627206.06, 3329505.40; 627179.59, 3329520.53; 627153.15, 3329535.66; 627121.96, 3329483.31; 627148.38, 3329468.12; 627174.86, 3329453.00; 627254.20, 3329407.61; 627246.00, 3329393.81; 627206.29, 3329416.52; 627179.86, 3329431.65; 627166.62, 3329439.24; 627113.72, 3329469.50; 627107.83, 3329459.61; 627093.66, 3329465.62; 627100.63, 3329477.28; 627074.19, 3329492.48; 627060.97, 3329500.01; 627047.72, 3329507.60; 627034.53, 3329515.14; 627021.29,

3329522.73; 626994.85, 3329537.86; 626968.39, 3329552.99; 626960.56, 3329539.85; 626947.19, 3329547.09; 626955.16, 3329560.58; 626928.73, 3329575.71; 626915.49, 3329583.31; 626902.29, 3329590.84; 626889.05, 3329598.44; 626875.83, 3329605.97; 626862.59, 3329613.56; 626849.39, 3329621.16; 626822.91, 3329636.29; 626809.91, 3329614.49; 626796.46, 3329620.95; 626809.72, 3329643.82; 626730.35, 3329689.27; 626703.91, 3329704.40; 626677.45, 3329719.53; 626661.06, 3329691.96; 626659.98, 3329690.12; 626646.77, 3329697.03; 626647.78, 3329699.55; 626707.10, 3329799.05; 626621.55, 3329848.03; 626555.21, 3329752.53; 626551.24, 3329746.82; 626538.68, 3329753.37; 626542.01, 3329760.07; 626559.56,

3329785.35; 626462.68, 3329835.29; 626435.54, 3329849.28; 626422.01, 3329856.31; 626406.35, 3329830.07; 626404.51, 3329826.65; 626391.12, 3329834.12; 626392.83, 3329837.03; 626408.44, 3329863.27; 626381.35, 3329877.26; 626313.68, 3329912.20; 626300.11, 3329919.16; 626286.59, 3329926.19; 626273.02, 3329933.15; 626257.40, 3329906.91; 626243.87, 3329913.88; 626259.50, 3329940.11; 626232.40, 3329954.10; 626218.88, 3329961.07; 626205.31, 3329968.09; 626178.26, 3329982.02; 626164.69, 3329989.04; 626151.17, 3329996.01; 626137.63, 3330003.03; 626124.07, 3330009.99; 626113.42, 3329992.11; 626100.09, 3329999.78; 626110.53, 3330016.96; 626069.92, 3330037.91; 625975.11, 3330086.84; 625968.46,

3330075.75; 625955.55, 3330083.75; 625961.56, 3330093.80; 625933.14, 3330108.49; 625935.59, 3330113.81; 625920.23, 3330124.16; 625915.93, 3330116.81; 625907.40, 3330121.78; 625893.88, 3330128.74; 625880.31, 3330135.77; 625838.07, 3330157.56; 625838.06, 3330151.49; 626472.04, 3329851.07; 626570.05, 3329800.47; 626605.14, 3329850.98; 626503.32, 3329903.48; 626489.76, 3329910.51; 626476.19, 3329917.53; 626462.62, 3329924.49; 626447.01, 3329898.26; 626431.38, 3329872.02; 626444.92, 3329865.06; 626458.47, 3329858.03; 626472.04, 3329851.07; 626928.45, 3329664.60; 626862.35, 3329702.45; 626831.15, 3329650.10; 626884.05, 3329619.78; 626897.25, 3329612.19; 626910.49, 3329604.66; 626923.71,

3329597.06; 626950.15, 3329581.93; 626963.39, 3329574.34; 626978.97, 3329600.57; 626994.59, 3329626.75; 626941.68, 3329657.01; 626928.45, 3329664.60; 626716.89, 3329785.69; 626685.67, 3329733.34; 626817.91, 3329657.64; 626849.12, 3329709.98; 626716.89, 3329785.69; 626313.67, 3330001.34; 626282.43, 3329948.87; 626417.82, 3329879.05; 626449.10, 3329931.46; 626313.67, 3330001.34; 626989.83, 3329559.21; 627003.05, 3329551.68; 627029.53, 3329536.55; 627042.73, 3329528.95; 627095.63, 3329498.63; 627108.87, 3329491.10; 627124.45, 3329517.27; 627140.06, 3329543.45; 627073.92, 3329581.30; 627060.70, 3329588.89; 627021.02, 3329611.56; 627007.83, 3329619.15; 626976.63, 3329566.80; 626989.83, 3329559.21; 626433.47, 3329994.43; 626419.93, 3330001.39; 626352.22,

3330036.33; 626338.67, 3330043.29; 626323.04, 3330017.06; 626336.61, 3330010.09; 626404.27, 3329975.15; 626417.84, 3329968.19; 626431.37, 3329961.16; 626457.46, 3329947.71; 626473.09, 3329973.95; 626447.00, 3329987.40; 626433.47, 3329994.43; 625893.87, 3330217.89; 625838.22, 3330246.58; 625838.12, 3330178.09; 625862.63, 3330165.48; 625876.15, 3330158.45; 625889.67, 3330151.49; 625903.24, 3330144.52; 625916.77, 3330137.50; 625943.86, 3330123.51; 625970.95, 3330109.58; 625986.58, 3330135.82; 626002.20, 3330161.99; 625974.99, 3330176.04; 625961.47, 3330183.07; 625948.05, 3330189.97; 625920.96, 3330203.96; 625907.39, 3330210.92; 625893.87, 3330217.89

625893.08, 3330172.05; 625907.38, 3330210.93; 625920.95, 3330203.96; 625948.05, 3330189.98; 625932.39, 3330163.74; 625918.83, 3330170.76; 625905.32, 3330177.73; 625889.67, 3330151.49; 625876.14, 3330158.45; 625862.62, 3330165.48; 625838.11, 3330178.10; 625838.21, 3330246.58; 625893.86, 3330217.89; 625878.23, 3330191.72; 625891.77, 3330184.69; 625907.38, 3330210.93

625892.81, 3330201.28; 625893.86, 3330217.89; 625907.38, 3330210.93; 625891.77, 3330184.69; 625878.23, 3330191.72; 625893.86, 3330217.89

625945.93, 3330156.73; 625889.67, 3330151.49; 625905.32, 3330177.73; 625918.83, 3330170.76; 625932.39, 3330163.74; 625948.05, 3330189.98; 625961.46, 3330183.07; 625974.98, 3330176.05; 626002.19, 3330162.00; 625986.57, 3330135.82; 625959.35, 3330149.81; 625943.85, 3330123.51; 625916.76, 3330137.50; 625903.24, 3330144.53; 625889.67, 3330151.49

626333.18, 3330162.11; 626347.30, 3330146.95; 626327.69, 3330146.83; 626318.46, 3330166.01; 626320.66, 3330173.19; 626309.75, 3330180.09; 626308.28, 3330191.16; 626325.24, 3330180.85; 626358.07, 3330166.39; 626352.61, 3330155.89; 626347.30, 3330146.95

625859.18, 3330143.40; 625880.30, 3330135.77; 625877.15, 3330130.45; 625838.05, 3330151.50; 625838.06, 3330157.56; 625880.30, 3330135.77

626365.86, 3330150.12; 626358.07, 3330166.39; 626361.02, 3330165.09; 626374.92, 3330156.70; 626384.42, 3330151.00; 626377.72, 3330140.72; 626373.21, 3330133.18; 626352.32, 3330147.08; 626347.30, 3330146.95; 626352.61, 3330155.89; 626358.07, 3330166.39

626041.77, 3330107.33; 626000.10, 3330128.80; 626015.71, 3330155.03; 626042.77, 3330141.11; 626069.90, 3330127.12; 626083.44, 3330120.09; 626067.81, 3330093.86; 626052.20, 3330067.62; 626038.44, 3330074.77; 626025.21, 3330081.55; 626011.56, 3330088.63; 626027.14, 3330114.87; 626000.10, 3330128.80

625965.21, 3330129.67; 625986.57, 3330135.82; 625970.95, 3330109.59; 625943.85, 3330123.51; 625959.35, 3330149.81; 625986.57, 3330135.82

626385.26, 3330136.08; 626384.42, 3330151.00; 626397.30, 3330140.65; 626391.83, 3330132.59; 626385.36, 3330121.69; 626379.00, 3330129.52; 626373.21, 3330133.18; 626377.72, 3330140.72; 626384.42, 3330151.00

625896.53, 3330123.39; 625877.15, 3330130.45; 625880.30, 3330135.77; 625893.87, 3330128.75; 625907.39, 3330121.79; 625915.92, 3330116.82; 625912.21, 3330110.48; 625877.15, 3330130.45

626378.25, 3330090.56; 626402.16, 3330136.72; 626408.44, 3330131.63; 626404.74, 3330124.49; 626361.60, 3330052.05; 626348.06, 3330059.08; 626374.97, 3330104.26; 626376.56, 3330100.12; 626386.35, 3330105.92; 626386.39, 3330120.15; 626385.36, 3330121.69; 626391.83, 3330132.59; 626397.30, 3330140.65; 626402.16, 3330136.72

626005.82, 3330108.72; 626011.56, 3330088.63; 625984.49, 3330102.56; 626000.10, 3330128.80; 626027.14, 3330114.87; 626011.56, 3330088.63

626252.41, 3330075.47; 626181.26, 3330090.59; 626181.92, 3330096.16; 626180.55, 3330102.43; 626176.52, 3330104.70; 626180.38, 3330109.17; 626193.52, 3330108.69; 626204.70, 3330106.60; 626211.10, 3330098.08; 626231.03, 3330095.21; 626237.38, 3330103.05; 626249.09, 3330095.42; 626260.05, 3330102.06; 626257.88, 3330110.00; 626260.82, 3330116.25; 626269.94, 3330120.04; 626272.32, 3330113.23; 626278.86, 3330109.96; 626287.43, 3330101.50; 626293.77, 3330102.03; 626299.98, 3330110.87; 626310.88, 3330112.51; 626315.23, 3330119.36; 626320.79, 3330134.67; 626327.08, 3330134.58; 626328.30, 3330126.06; 626324.47, 3330124.97; 626322.83, 3330120.74; 626325.12, 3330109.81; 626307.41, 3330080.03; 626280.35, 3330093.96; 626270.93, 3330078.24; 626324.12, 3330050.80; 626308.51, 3330024.56; 626255.32, 3330052.00; 626181.26, 3330090.59

626440.29, 3330057.10; 626408.44, 3330131.63; 626428.22, 3330115.71; 626456.01, 3330085.82; 626501.81, 3330034.66; 626518.97, 3330018.74; 626512.43, 3330024.44; 626506.34, 3330029.47; 626482.48, 3329989.73; 626456.40, 3330003.18; 626429.31, 3330017.11; 626402.21, 3330031.10; 626361.60, 3330052.05; 626404.74, 3330124.49; 626408.44, 3330131.63

626098.56, 3330078.01; 626123.64, 3330099.37; 626126.35, 3330093.02; 626144.92, 3330074.73; 626119.91, 3330032.74; 626092.83, 3330046.67; 626052.20, 3330067.62; 626067.81, 3330093.86; 626083.44, 3330120.09; 626123.64, 3330099.37

625945.18, 3330096.21; 625955.54, 3330083.75; 625928.81, 3330100.23; 625933.14, 3330108.50; 625961.55, 3330093.81; 625955.54, 3330083.75

626359.19, 3330114.57; 626359.49, 3330110.11; 626356.24, 3330118.21; 626359.80, 3330118.30; 626362.14, 3330114.74; 626359.49, 3330110.11

626332.92, 3330086.01; 626325.12, 3330109.81; 626328.32, 3330105.65; 626343.47, 3330104.03; 626358.43, 3330108.34; 626333.49, 3330066.58; 626320.96, 3330073.00; 626307.41, 3330080.03; 626325.12, 3330109.81

626039.49, 3330044.15; 626100.08, 3329999.78; 626047.24, 3330030.35; 625990.55, 3330062.08; 625968.45, 3330075.75; 625975.10, 3330086.84; 626069.91, 3330037.91; 626110.53, 3330016.96; 626100.08, 3329999.78

626195.43, 3330010.89; 626158.56, 3330067.92; 626159.65, 3330064.52; 626167.60, 3330064.34; 626171.68, 3330060.20; 626162.61, 3330044.99; 626176.22, 3330037.96; 626203.04, 3330024.09; 626218.67, 3330050.33; 626232.22, 3330043.37; 626216.56, 3330017.13; 626244.17, 3330002.91; 626257.42, 3329996.06; 626241.76, 3329969.82; 626228.54, 3329976.67; 626201.14, 3329990.77; 626187.62, 3329997.80; 626160.60, 3330011.73; 626133.43, 3330025.72; 626158.56, 3330067.92

626190.64, 3330038.13; 626194.96, 3330058.35; 626194.05, 3330063.05; 626218.67, 3330050.33; 626203.04, 3330024.09; 626176.22, 3330037.96; 626162.61, 3330044.99; 626171.68, 3330060.20; 626173.32, 3330058.49; 626172.31, 3330051.35; 626177.12, 3330049.91; 626180.68, 3330050.37; 626189.94, 3330045.49; 626199.01, 3330048.84; 626194.96, 3330058.35

626258.35, 3329995.59; 626232.22, 3330043.37; 626300.14, 3330008.31; 626268.85, 3329955.90; 626241.76, 3329969.82; 626257.42, 3329996.06; 626244.17, 3330002.91; 626216.56, 3330017.13; 626232.22, 3330043.37

626378.25, 3330005.75; 626417.84, 3329968.19; 626404.27, 3329975.16; 626336.60, 3330010.10; 626323.03, 3330017.06; 626338.66, 3330043.30; 626352.21, 3330036.33; 626419.93, 3330001.39; 626433.46, 3329994.43; 626417.84, 3329968.19

626125.51, 3329997.16; 626137.62, 3330003.04; 626126.55, 3329984.47; 626113.41, 3329992.11; 626124.06, 3330010.00; 626137.62, 3330003.04

626514.91, 3329967.47; 626518.97, 3330018.74; 626522.16, 3330015.76; 626549.17, 3330000.96; 626557.83, 3329995.25; 626555.31, 3329990.81; 626512.69, 3329919.27; 626485.55, 3329933.25; 626471.99, 3329940.22; 626518.97, 3330018.74

626138.86, 3329989.73; 626137.62, 3330003.04; 626151.16, 3329996.01; 626139.60, 3329976.62; 626126.55, 3329984.47; 626137.62, 3330003.04

626365.76, 3329940.18; 626313.66, 3330001.34; 626449.09, 3329931.46; 626417.81, 3329879.05; 626282.42, 3329948.87; 626313.66, 3330001.34

626172.45, 3329971.06; 626151.16, 3329996.01; 626164.68, 3329989.05; 626178.25, 3329982.02; 626205.30, 3329968.09; 626191.88, 3329945.53; 626139.60, 3329976.62; 626151.16, 3329996.01

626432.41, 3329977.80; 626433.46, 3329994.43; 626446.99, 3329987.40; 626431.36, 3329961.17; 626417.84, 3329968.19; 626433.46, 3329994.43

626546.67, 3329946.55; 626557.83, 3329995.25; 626561.29, 3329992.96; 626565.61, 3329988.83; 626580.66, 3329975.35; 626576.28, 3329966.50; 626539.81, 3329905.28; 626512.69, 3329919.27; 626555.31, 3329990.81; 626557.83, 3329995.25

626600.37, 3329916.84; 626586.90, 3329970.20; 626605.55, 3329955.62; 626636.48, 3329942.54; 626648.49, 3329939.28; 626660.93, 3329934.17; 626627.96, 3329883.96; 626615.58, 3329866.17; 626553.39, 3329898.25; 626539.81, 3329905.28; 626576.28, 3329966.50; 626580.66, 3329975.35; 626586.90, 3329970.20

626452.22, 3329967.56; 626446.99, 3329987.40; 626473.08, 3329973.95; 626457.46, 3329947.72; 626431.36, 3329961.17; 626446.99, 3329987.40

626205.37, 3329953.24; 626205.30, 3329968.09; 626218.87, 3329961.07; 626205.01, 3329937.81; 626191.88, 3329945.53; 626205.30, 3329968.09

626232.25, 3329937.61; 626218.87, 3329961.07; 626232.39, 3329954.11; 626259.49, 3329940.12; 626243.86, 3329913.88; 626205.01, 3329937.81; 626218.87, 3329961.07

626278.75, 3329913.05; 626300.10, 3329919.17; 626284.49, 3329892.93; 626257.39, 3329906.92; 626273.01, 3329933.15; 626286.58, 3329926.19; 626300.10, 3329919.17

626518.25, 3329861.50; 626458.46, 3329858.04; 626444.91, 3329865.06; 626431.37, 3329872.03; 626447.00, 3329898.26; 626462.61, 3329924.50; 626476.18, 3329917.54; 626489.75, 3329910.51; 626503.31, 3329903.49; 626605.13, 3329850.99; 626570.04, 3329800.48; 626472.03, 3329851.08; 626487.65, 3329877.31; 626474.09, 3329884.27; 626458.46, 3329858.04

626299.08, 3329902.60; 626300.10, 3329919.17; 626313.67, 3329912.20; 626298.02, 3329885.97; 626284.49, 3329892.93; 626300.10, 3329919.17

626685.98, 3329874.66; 626674.48, 3329927.95; 626678.64, 3329925.75; 626692.15, 3329909.86; 626705.90, 3329885.23; 626737.68, 3329854.32; 626739.93, 3329852.63; 626724.40, 3329828.14; 626716.43, 3329814.77; 626632.04, 3329863.09; 626639.71, 3329874.14; 626674.48, 3329927.95

626353.22, 3329873.50; 626313.67, 3329912.20; 626381.34, 3329877.26; 626408.43, 3329863.27; 626392.82, 3329837.04; 626391.11, 3329834.12; 626298.02, 3329885.97; 626313.67, 3329912.20

626473.06, 3329867.66; 626458.46, 3329858.04; 626474.09, 3329884.27; 626487.65, 3329877.31; 626472.03, 3329851.08; 626458.46, 3329858.04

626482.03, 3329804.40; 626538.67, 3329753.37; 626498.05, 3329774.57; 626404.51, 3329826.66; 626406.34, 3329830.07; 626422.00, 3329856.31; 626435.53, 3329849.28; 626462.67, 3329835.30; 626559.55, 3329785.36; 626542.00, 3329760.07; 626538.67, 3329753.37

626629.16, 3329774.94; 626646.76, 3329697.04; 626551.23, 3329746.82; 626555.20, 3329752.54; 626621.55, 3329848.03; 626707.09, 3329799.05; 626647.77, 3329699.56; 626646.76, 3329697.04

626815.72, 3329761.62; 626752.22, 3329843.45; 626764.41, 3329834.33; 626806.94, 3329818.79; 626830.13, 3329813.01; 626855.20, 3329811.64; 626875.49, 3329810.59; 626905.50, 3329806.41; 626892.29, 3329782.42; 626858.48, 3329725.70; 626805.58, 3329756.02; 626828.32, 3329794.17; 626814.82, 3329796.70; 626812.56, 3329797.52; 626792.34, 3329763.56; 626725.93, 3329801.59; 626739.11, 3329823.08; 626752.22, 3329843.45

627086.95, 3329675.29; 626921.40, 3329805.32; 626948.40, 3329804.12; 627004.54, 3329799.98; 627019.07, 3329791.60; 627039.78, 3329773.90; 627053.91, 3329765.14; 627077.12, 3329758.98; 627116.40, 3329745.67; 627159.14, 3329737.26; 627189.50, 3329731.65; 627221.57, 3329720.60; 627226.52, 3329713.17; 627259.82, 3329701.34; 627297.54, 3329689.61; 627299.56, 3329646.15; 627298.73, 3329473.72; 626927.24, 3329686.36; 626900.78, 3329701.49; 626887.58, 3329709.08; 626874.34, 3329716.61; 626910.19, 3329779.25; 626921.40, 3329805.32

626810.33, 3329778.89; 626792.34, 3329763.56; 626812.56, 3329797.52; 626814.82, 3329796.70; 626828.32, 3329794.17; 626805.58, 3329756.02; 626792.34, 3329763.56

626681.94, 3329697.82; 626659.97, 3329690.13; 626661.05, 3329691.96; 626677.44, 3329719.53; 626703.91, 3329704.40; 626687.48, 3329676.83; 626687.05, 3329676.01; 626659.97, 3329690.13

626748.38, 3329661.53; 626703.91, 3329704.40; 626730.34, 3329689.27; 626809.71, 3329643.83; 626796.45, 3329620.96; 626746.94, 3329644.81; 626687.05, 3329676.01; 626687.48, 3329676.83; 626703.91, 3329704.40

626879.80, 3329657.34; 626884.05, 3329619.79; 626831.14, 3329650.11; 626862.34, 3329702.45; 626928.45, 3329664.60; 626912.87, 3329638.43; 626899.63, 3329645.96; 626884.05, 3329619.79

630126.10, 3328203.03; 630406.03, 3328243.40; 630414.41, 3328241.99; 630437.83, 3328233.65; 630455.47, 3328219.67; 630469.03, 3328218.08; 630480.76, 3328209.64; 630492.76, 3328206.38; 630504.37, 3328203.49; 630511.25, 3328198.92; 630533.58, 3328195.48; 630551.08, 3328195.55; 630562.19, 3328196.20; 630554.01, 3328157.98; 630564.05, 3328153.86; 630566.61, 3328146.81; 630576.57, 3328145.88; 630583.91, 3328138.13; 630587.26, 3328132.22; 630597.09, 3328136.47; 630601.83, 3328121.48; 630611.44, 3328118.97; 630610.04, 3328111.01; 630620.12, 3328105.34; 630617.35, 3328089.41; 630617.08, 3328083.85; 630617.58, 3328080.30;

630626.00, 3328076.96; 630628.95, 3328070.66; 630630.47, 3328057.22; 630634.40, 3328043.83; 630641.34, 3328051.93; 630649.90, 3328059.27; 630653.80, 3328046.32; 630659.42, 3328044.46; 630668.49, 3328063.35; 630680.13, 3328058.47; 630680.23, 3328070.39; 630692.96, 3328069.53; 630690.47, 3328089.25; 630702.00, 3328089.54; 630710.30, 3328075.46; 630718.35, 3328087.21; 630725.94, 3328085.77; 630733.28, 3328078.47; 630739.41, 3328103.16; 630740.24, 3328117.47; 630734.46, 3328126.44; 630733.74, 3328138.72; 630742.01, 3328157.97; 630743.39, 3328166.30; 630734.34, 3328178.37; 630720.74, 3328181.59; 630716.53, 3328190.97; 630715.21, 3328196.12; 630725.50, 3328197.57; 630739.86, 3328195.93; 630755.86, 3328191.96; 630771.97, 3328184.81; 630788.21, 3328169.43; 630797.66, 3328153.87; 630818.53, 3328134.05; 630846.25, 3328112.15; 630855.03, 3328105.32; 630864.93, 3328090.08; 630876.52, 3328079.08; 630892.59, 3328070.43; 630913.40, 3328052.91; 630927.11, 3328048.70; 630940.91, 3328040.06; 630977.44, 3328026.68; 630991.47, 3328021.92; 631004.83, 3328019.07; 631013.88, 3328019.30; 631029.78, 3328017.45; 631050.86, 3328015.11; 631072.33, 3328014.84; 631089.54, 3328010.09; 631102.43, 3328003.30; 631121.04, 3327990.28; 631131.15, 3327967.94; 631151.59, 3327945.98; 631174.08, 3327935.75; 631200.52, 3327928.05; 631218.12, 3327923.37; 631232.56, 3327918.55; 631241.45, 3327912.85; 631249.45, 3327910.68; 631258.65, 3327908.10; 631274.40, 3327897.82; 631284.47, 3327892.89; 631303.39, 3327883.51; 631316.77, 3327872.73; 631326.88, 3327865.87; 631338.95, 3327860.18; 631354.08, 3327859.38; 631367.62, 3327858.16; 631385.98, 3327855.43; 631418.45, 3327859.81; 631445.15, 3327856.92; 631465.07, 3327855.05; 631482.99, 3327853.94; 631506.01, 3327839.42; 631524.53, 3327830.02; 631538.93, 3327810.53; 631561.61, 3327794.06; 631571.50, 3327780.01; 631582.24, 3327764.05; 631595.78, 3327747.35; 631603.77, 3327730.14; 631616.41, 3327717.34;

631629.03, 3327705.36; 631642.73, 3327698.22; 631654.70, 3327696.09; 631670.36, 3327690.17; 631692.53, 3327678.06; 631705.05, 3327669.64; 631717.44, 3327666.76; 631728.32, 3327661.11; 631742.39, 3327654.72; 631754.41, 3327651.03; 631769.54, 3327649.85; 631791.07, 3327647.21; 631803.81, 3327646.78; 631817.63, 3327645.32; 631831.10, 3327647.28; 631842.16, 3327649.93; 631862.43, 3327650.44; 631880.60, 3327654.45; 631895.15, 3327660.75; 631915.11, 3327658.07; 631945.51, 3327649.35; 631961.78, 3327650.94; 631977.74, 3327648.60; 632006.05, 3327612.79; 632022.72, 3327566.89; 632020.19, 3327525.19; 632015.30, 3327514.33; 631996.07, 3327520.59; 631967.58, 3327530.98; 631961.26, 3327545.12; 631960.04, 3327562.13; 631954.27, 3327570.29; 631942.32, 3327555.69; 631933.61, 3327538.06; 631929.84, 3327530.03; 631913.20, 3327543.91; 631919.57, 3327559.49; 631910.00, 3327560.43; 631900.23, 3327553.88; 631890.44, 3327548.08; 631878.90, 3327548.98; 631871.19, 3327539.29; 631871.96, 3327524.21; 631872.91, 3327502.07; 631869.96, 3327477.78; 631856.06, 3327445.71; 631870.02, 3327443.69; 631883.87, 3327430.56; 631903.18, 3327437.04; 631924.85, 3327444.26; 631949.11, 3327444.12; 631970.82, 3327433.93; 631976.07, 3327462.22; 631978.13, 3327475.38; 631988.35, 3327479.57; 631992.87, 3327473.75; 631990.46, 3327459.40; 631995.72, 3327439.37; 631997.30, 3327424.74; 632000.88, 3327408.53; 632012.79, 3327409.27; 632016.14, 3327417.66; 632023.07, 3327427.32; 632027.80, 3327444.48; 632038.45, 3327447.56; 632043.37, 3327473.03; 632033.28, 3327479.14; 632019.84, 3327476.43; 632025.50, 3327488.43; 632036.57, 3327506.19; 632041.81, 3327519.37; 632054.79, 3327524.44; 632072.69, 3327508.28; 632085.78, 3327493.13; 632083.15, 3327456.17; 632073.07, 3327445.62; 632061.62, 3327426.73; 632064.35, 3327413.69; 632074.86, 3327422.32; 632084.35, 3327411.70; 632081.70, 3327403.08; 632102.92, 3327396.87; 632116.30, 3327401.20; 632128.77, 3327412.56; 632129.17, 3327427.62; 632130.00, 3327442.31; 632134.06, 3327454.71; 632140.86, 3327452.88; 632144.03, 3327437.54; 632148.06, 3327419.42; 632154.01, 3327404.46; 632161.35, 3327396.72; 632174.98, 3327392.69;

632177.71, 3327378.53; 632166.77, 3327375.38; 632152.59, 3327365.60; 632142.09, 3327357.03; 632149.14, 3327344.91; 632163.48, 3327344.08; 632183.88, 3327338.60; 632199.65, 3327343.81; 632192.09, 3327359.85; 632196.36, 3327369.32; 632201.07, 3327382.30; 632192.82, 3327394.32; 632188.14, 3327406.13; 632186.24, 3327418.75; 632189.42, 3327434.32; 632194.92, 3327436.83; 632199.36, 3327449.98; 632209.55, 3327455.80; 632225.85, 3327455.02; 632253.84, 3327448.61; 632268.98, 3327447.43; 632280.26, 3327441.35; 632277.97, 3327421.87; 632287.31, 3327413.74; 632300.75, 3327432.75; 632312.06, 3327441.34; 632333.38, 3327446.62; 632353.72, 3327444.38; 632376.56, 3327437.03; 632393.87, 3327428.35; 632414.11, 3327413.82; 632428.22, 3327405.81; 632445.57, 3327395.57; 632458.37, 3327392.33; 632473.25, 3327385.53; 632484.99, 3327376.71; 632488.57, 3327360.94; 632487.75, 3327346.25; 632501.23, 3327347.78; 632509.05, 3327336.93; 632516.43, 3327328.37; 632535.96, 3327325.68; 632545.25, 3327319.98; 632555.43, 3327310.31; 632561.36, 3327311.28; 632579.26, 3327326.77; 632588.85, 3327324.64; 632597.70, 3327305.07; 632602.18, 3327284.96; 632609.40, 3327266.92; 632620.77, 3327241.05; 632628.84, 3327220.59; 632618.19, 3327201.72; 632615.26, 3327192.09; 632625.17, 3327193.15; 632636.61, 3327196.25; 632649.32, 3327196.57; 632659.08, 3327203.56; 632676.89, 3327206.75; 632694.55, 3327215.50; 632732.61, 3327203.78; 632749.71, 3327172.13; 632755.11, 3327162.71; 632765.13, 3327159.41; 632772.69, 3327158.85; 632784.30, 3327155.96; 632799.64, 3327146.42; 632819.25, 3327125.13; 632835.12, 3327110.86; 632842.71, 3327093.19; 632848.90, 3327068.75; 632847.19, 3327057.66; 632856.05, 3327053.52; 632863.86, 3327027.12; 632869.70, 3327016.16; 632882.28, 3327006.17; 632899.21, 3326996.74; 632923.52, 3326996.97; 632940.09, 3327003.38; 632959.22, 3327001.87; 632973.86, 3326988.38;

632986.74, 3326966.10; 633000.17, 3326922.43; 633007.89, 3326884.55; 633008.92, 3326843.75; 633009.49, 3326804.94; 632993.07, 3326762.89; 632964.16, 3326742.74; 632930.37, 3326743.08; 632886.52, 3326748.34; 632821.28, 3326766.49; 632780.36, 3326813.03; 632714.11, 3326854.99; 632693.33, 3326875.44; 632682.24, 3326889.46; 632616.79, 3326926.14; 632530.13, 3326983.33; 632490.29, 3327000.61; 632409.57, 3327040.59; 632315.84, 3327087.61; 632279.61, 3327120.78; 631739.39, 3327353.32; 631702.64, 3327386.92; 631649.38, 3327403.06; 631624.71, 3327419.85; 631588.80, 3327425.69; 631556.20, 3327434.55; 631526.44, 3327447.34; 631493.39, 3327473.23; 631445.33, 3327487.88; 631407.24, 3327505.27; 631355.08, 3327535.98; 631324.01, 3327554.99; 631287.96, 3327566.00; 631253.48, 3327577.43; 631205.48, 3327605.50; 631132.40, 3327650.48; 631068.66, 3327687.71; 631004.84, 3327728.55; 630958.18, 3327749.91; 630893.07, 3327794.65; 630820.96, 3327817.06; 630756.80, 3327839.60; 630724.67, 3327868.13; 630679.14, 3327892.77; 630630.80, 3327918.52; 630597.29, 3327954.88; 630544.13, 3327951.17; 630503.13, 3327937.47; 630457.05, 3327936.75; 630424.66, 3327944.23; 630404.02, 3327961.00; 630351.41, 3327982.28; 630316.54, 3328009.62; 630287.11, 3328026.36; 630250.62, 3328038.48; 630217.99, 3328071.81; 630181.44, 3328087.12; 630132.76, 3328110.05; 630102.25, 3328122.39; 630051.88, 3328149.66; 629902.90, 3328225.56; 629432.34, 3328445.25; 629174.50, 3328550.94; 628990.82, 3328602.94; 628928.71, 3328642.02; 628896.62, 3328661.00; 628870.32, 3328679.75; 628846.10, 3328685.07; 628800.52, 3328697.47; 628768.49, 3328710.21; 628731.78, 3328729.64; 628706.49, 3328744.80; 628660.95, 3328754.95; 628628.86, 3328769.94; 628594.59, 3328782.62;

628560.18, 3328799.86; 628539.48, 3328812.88; 628501.00, 3328840.51; 628445.92, 3328842.12; 628355.19, 3328901.45; 628084.78, 3329032.98; 627688.08, 3329207.72; 627563.94, 3329248.98; 627534.65, 3329273.90; 627506.88, 3329287.87; 627457.89, 3329307.68; 627434.30, 3329329.24; 627380.78, 3329354.87; 627347.14, 3329365.13; 627314.51, 3329382.16; 627281.62, 3329394.38; 627269.53, 3329396.14; 627262.91, 3329397.60; 627242.72, 3329388.33; 627245.99, 3329393.81; 627254.19, 3329407.61; 627285.38, 3329459.96; 627298.73, 3329473.72; 627299.56, 3329646.15; 627297.54, 3329689.61; 627315.90, 3329683.71; 627334.67, 3329684.68; 627343.15, 3329680.96; 627352.77, 3329671.34; 627407.11, 3329619.14; 627433.69, 3329589.66; 627444.78, 3329574.90; 627462.67, 3329559.12; 627477.14, 3329552.74; 627497.62, 3329544.51; 627528.86, 3329535.00; 627580.52, 3329517.95; 627580.50, 3329518.19; 627581.26, 3329517.71; 627628.52, 3329489.25; 627651.67, 3329485.90; 627663.30, 3329481.39; 627670.92, 3329478.83; 627690.55, 3329472.21; 627708.89, 3329470.24; 627734.85, 3329465.39; 627755.63, 3329459.30; 627775.93, 3329462.06; 627791.77, 3329462.46; 627802.92, 3329469.54; 627826.43, 3329474.44; 627846.03, 3329466.07; 627857.56, 3329457.37; 627869.93, 3329451.31; 627895.93, 3329444.85; 627915.68, 3329449.72; 627930.58, 3329458.02; 627943.73, 3329456.73; 627957.18, 3329457.63; 627980.57, 3329461.65; 628003.97, 3329463.80; 628026.05, 3329470.28; 628038.24, 3329475.40; 628052.39, 3329482.06; 628080.90, 3329486.33; 628120.47, 3329493.32; 628153.23, 3329502.45; 628177.67, 3329512.80; 628209.64, 3329502.37; 628214.94, 3329498.07; 628227.34, 3329494.82; 628228.86, 3329481.75; 628218.25, 3329461.26; 628216.03, 3329438.60; 628207.51, 3329414.23; 628199.21, 3329412.46; 628179.93, 3329404.80; 628171.25, 3329408.76; 628161.66, 3329419.82; 628139.04, 3329418.44; 628123.73, 3329407.57; 628114.67, 3329407.34; 628107.92, 3329407.73; 628103.43, 3329411.99; 628077.97, 3329413.35; 628057.27, 3329414.39; 628034.50, 3329403.51; 628015.90, 3329384.44; 628034.24, 3329382.10; 628038.15, 3329384.63; 628046.29, 3329376.91; 628049.91, 3329375.75; 628051.22, 3329370.66;

628053.39, 3329363.60; 628054.79, 3329355.27; 628056.22, 3329345.82; 628046.16, 3329335.27; 628026.04, 3329330.64; 627995.79, 3329330.82; 627999.58, 3329302.88; 628017.73, 3329301.03; 628037.87, 3329310.59; 628049.18, 3329310.87; 628058.46, 3329302.05; 628054.11, 3329295.20; 628038.39, 3329290.31; 628029.56, 3329281.04; 628027.60, 3329267.01; 628033.00, 3329258.03; 628059.25, 3329257.07; 628057.73, 3329241.11; 628073.97, 3329225.72; 628086.62, 3329228.04; 628099.97, 3329218.45; 628106.91, 3329211.51; 628107.20, 3329200.03; 628131.12, 3329204.56; 628167.49, 3329198.67; 628174.73, 3329180.82; 628190.15, 3329188.63; 628203.18, 3329192.14; 628206.76, 3329168.07; 628222.64, 3329166.23; 628228.00, 3329169.36; 628235.62, 3329166.37; 628243.05, 3329171.36; 628251.55, 3329165.21; 628259.26, 3329159.03; 628267.00, 3329151.30; 628269.57, 3329144.25; 628280.82, 3329139.41; 628292.04, 3329135.70; 628299.79, 3329127.97; 628316.56, 3329123.39; 628333.04, 3329117.69; 628338.44, 3329108.34; 628344.55, 3329102.12; 628351.71, 3329101.93; 628357.61, 3329088.97; 628362.49, 3329084.78; 628369.79, 3329077.29; 628378.79, 3329079.83; 628385.58, 3329080.00; 628400.71, 3329081.75; 628411.52, 3329078.84; 628418.75, 3329075.46; 628422.82, 3329056.53; 628432.82, 3329054.03; 628443.28, 3329036.25; 628445.54, 3329053.98; 628460.99, 3329055.55; 628479.56, 3329044.47; 628485.33, 3329035.94; 628498.52, 3329033.46; 628509.46, 3329009.20; 628521.69, 3328997.21; 628521.53, 3328986.28; 628532.81, 3328997.49; 628545.99, 3328994.64; 628561.90, 3328994.23; 628557.82, 3328983.01; 628567.97, 3328974.59; 628568.83, 3328955.95; 628568.17, 3328950.81; 628575.39, 3328948.19; 628582.42, 3328953.11; 628592.89, 3328947.44; 628601.88, 3328937.74; 628620.01, 3328927.90; 628636.99, 3328916.84; 628648.76, 3328923.06; 628666.68, 3328921.58; 628687.27, 3328908.61; 628701.38, 3328900.60; 628713.36, 3328898.53; 628730.99,

3328908.53; 628737.07, 3328888.46; 628743.03, 3328873.12; 628752.80, 3328863.51; 628769.02, 3328850.81; 628778.78, 3328857.79; 628790.78, 3328854.54; 628799.91, 3328854.77; 628805.41, 3328842.23; 628812.86, 3328845.98; 628826.15, 3328854.99; 628847.50, 3328875.00; 628855.12, 3328888.24; 628874.18, 3328904.20; 628901.76, 3328914.01; 628925.31, 3328910.23; 628938.60, 3328903.01; 628950.73, 3328895.02; 628968.85, 3328885.55; 628984.73, 3328870.90; 629002.95, 3328857.50; 629007.50, 3328850.44; 629019.68, 3328840.07; 629024.60, 3328818.78; 629033.42, 3328798.09; 629055.15, 3328812.31; 629071.78, 3328798.81; 629082.34, 3328790.39; 629094.40, 3328784.77; 629108.38, 3328782.31; 629115.83, 3328770.20; 629109.83, 3328756.19; 629119.62, 3328746.14; 629125.95, 3328731.25; 629136.94, 3328721.17; 629139.93, 3328712.94; 629146.85, 3328706.81; 629152.81, 3328706.96; 629162.29, 3328708.76; 629168.83, 3328717.66; 629177.67, 3328729.37; 629183.34, 3328741.00; 629191.25, 3328726.90; 629202.03, 3328725.24; 629205.23, 3328739.55; 629209.94, 3328742.04; 629217.78, 3328731.13; 629219.58, 3328706.64; 629229.23, 3328686.66; 629248.64, 3328689.52; 629269.56, 3328694.79; 629279.04, 3328681.54; 629278.68, 3328648.64; 629277.60, 3328628.01; 629271.60, 3328614.00; 629275.36, 3328606.54; 629289.96, 3328610.90; 629298.05, 3328605.11; 629306.26, 3328595.02; 629313.55, 3328589.27; 629320.81, 3328585.52; 629324.66, 3328590.74; 629324.34, 3328603.40; 629339.00, 3328604.58; 629347.54, 3328612.73; 629360.24, 3328629.28; 629369.02, 3328627.94; 629359.52, 3328642.37; 629368.47, 3328649.71; 629382.65, 3328655.25; 629397.14, 3328647.68; 629410.39, 3328642.09; 629423.18, 3328639.60; 629434.94, 3328630.41; 629443.35, 3328627.81; 629461.53, 3328631.45; 629474.82, 3328640.90; 629490.63, 3328644.11; 629506.18, 3328642.50; 629522.55, 3328639.35;

629531.98, 3328627.67; 629557.91, 3328592.24; 629566.50, 3328567.11; 629558.74, 3328543.94; 629561.05, 3328531.27; 629570.19, 3328531.12; 629586.26, 3328540.26; 629595.52, 3328551.17; 629606.70, 3328548.71; 629626.84, 3328538.48; 629653.39, 3328541.52; 629681.38, 3328535.10; 629699.03, 3328544.29; 629709.32, 3328546.48; 629733.85, 3328551.09; 629745.66, 3328539.47; 629754.17, 3328517.15; 629764.38, 3328506.29; 629782.19, 3328509.11; 629788.37, 3328516.76; 629790.30, 3328534.29; 629800.10, 3328555.51; 629809.68, 3328569.67; 629823.32, 3328580.31; 629831.88, 3328572.16; 629829.57, 3328553.13; 629835.06, 3328540.53; 629847.68, 3328528.99; 629853.15, 3328548.54; 629858.96, 3328570.10; 629878.90, 3328582.33; 629890.05, 3328589.42; 629905.83, 3328592.06; 629917.14, 3328592.35; 629937.15, 3328601.03; 629943.96, 3328582.97; 629948.35, 3328566.42; 629940.73, 3328553.55; 629930.38, 3328554.48; 629934.42, 3328536.35; 629935.42, 3328527.64; 629937.64, 3328518.20; 629935.17, 3328506.66; 629924.74, 3328494.47; 629941.09, 3328460.42; 629942.05, 3328454.08; 629950.92, 3328449.19; 629939.29, 3328432.60; 629935.04, 3328421.19; 629925.43, 3328419.95; 629921.00, 3328438.13; 629906.68, 3328438.15; 629899.41, 3328442.71; 629879.86, 3328429.92; 629878.07, 3328406.53; 629892.60, 3328382.30; 629900.71, 3328375.76; 629904.68, 3328368.49; 629918.25, 3328368.84; 629931.66, 3328375.91; 629940.10, 3328373.57; 629948.50, 3328355.93; 629968.37, 3328356.55; 629991.00, 3328357.12; 629995.42, 3328361.72; 630010.96, 3328373.41; 630017.52, 3328382.63; 630025.14, 3328390.00; 630038.95, 3328394.28; 630051.57, 3328398.16; 630059.38, 3328403.54; 630074.06, 3328404.72; 630084.58, 3328397.05; 630086.74, 3328358.65; 630110.81, 3328364.63; 630121.68, 3328383.00; 630132.87, 3328387.78; 630134.80, 3328401.37; 630150.24, 3328417.56; 630154.42, 3328431.21; 630163.71, 3328443.05; 630168.06, 3328443.91; 630170.67, 3328435.30; 630175.35, 3328422.68; 630186.23, 3328417.03; 630191.06, 3328446.11; 630195.26, 3328452.96;

630203.97, 3328441.51; 630202.34, 3328416.62; 630196.24, 3328398.68; 630202.91, 3328394.04; 630192.59, 3328369.62; 630199.23, 3328360.11; 630201.78, 3328348.88; 630193.07, 3328335.11; 630179.67, 3328327.97; 630169.10, 3328323.83; 630151.81, 3328331.76; 630146.21, 3328324.32; 630124.76, 3328317.16; 630103.35, 3328315.06; 630095.09, 3328311.67; 630091.99, 3328308.04; 630090.87, 3328305.20; 630092.56, 3328301.68; 630098.20, 3328298.27; 630104.66, 3328294.87; 630114.12, 3328297.48; 630120.16, 3328294.45; 630134.54, 3328291.69; 630140.70, 3328283.92; 630150.32, 3328280.54; 630158.74, 3328278.00; 630166.50, 3328269.08; 630162.48, 3328287.21; 630164.40, 3328305.49; 630179.13, 3328304.67; 630186.72, 3328303.30; 630195.41, 3328304.71; 630199.05, 3328302.80; 630204.35, 3328297.38; 630223.99, 3328306.61; 630234.20, 3328311.61; 630244.41, 3328300.76; 630259.98, 3328297.97; 630237.82, 3328277.99; 630230.77, 3328258.40; 630225.85, 3328248.79; 630237.00, 3328247.89; 630245.14, 3328256.02; 630256.59, 3328259.05; 630276.57, 3328270.23; 630292.03, 3328272.24; 630300.76, 3328272.84; 630316.95, 3328276.80; 630333.34, 3328272.91; 630351.11, 3328277.29; 630367.33, 3328280.88; 630375.90, 3328256.12; 630380.74, 3328237.58; 630381.57, 3328220.56; 630387.68, 3328214.78; 630396.73, 3328218.20; 630406.03, 3328243.40

626912.86, 3329623.54; 626928.45, 3329664.60; 626941.68, 3329657.01; 626925.78, 3329630.33; 626910.48, 3329604.66; 626897.24, 3329612.19; 626884.05, 3329619.79; 626899.63, 3329645.96; 626912.87, 3329638.43; 626928.45, 3329664.60

626952.53, 3329618.37; 626941.68, 3329657.01; 626994.58, 3329626.75; 626978.96, 3329600.58; 626965.77, 3329608.11; 626950.14, 3329581.94; 626923.71, 3329597.07; 626910.48, 3329604.66; 626925.78, 3329630.33; 626941.68, 3329657.01

626829.64, 3329618.69; 626849.38, 3329621.17; 626837.48, 3329601.16; 626809.90, 3329614.49; 626822.90, 3329636.29; 626849.38, 3329621.17

626850.03, 3329608.02; 626849.38, 3329621.17; 626862.58, 3329613.57; 626851.31, 3329594.65; 626841.50, 3329599.24; 626837.48, 3329601.16; 626849.38, 3329621.17

626998.82, 3329589.18; 627021.01, 3329611.56; 627005.64, 3329585.77; 626989.82, 3329559.21; 626976.62, 3329566.81; 627007.82, 3329619.16; 627021.01, 3329611.56

626870.18, 3329597.50; 626889.04, 3329598.44; 626879.04, 3329581.62; 626851.31, 3329594.65; 626862.58, 3329613.57; 626875.82, 3329605.97; 626889.04, 3329598.44

627064.94, 3329551.34; 627021.01, 3329611.56; 627060.69, 3329588.90; 627073.91, 3329581.30; 627140.06, 3329543.45; 627124.44, 3329517.28; 627108.86, 3329491.10; 627095.62, 3329498.64; 627042.72, 3329528.96; 627029.52, 3329536.55; 627003.04, 3329551.68; 626989.82, 3329559.21; 627005.64, 3329585.77; 627021.01, 3329611.56

626964.55, 3329591.19; 626950.14, 3329581.94; 626965.77, 3329608.11; 626978.96, 3329600.58; 626963.38, 3329574.34; 626950.14, 3329581.94

626890.66, 3329586.82; 626889.04, 3329598.44; 626902.29, 3329590.85; 626892.89, 3329575.07; 626879.04, 3329581.62; 626889.04, 3329598.44

626924.02, 3329568.94; 626902.29, 3329590.85; 626915.48, 3329583.31; 626928.72, 3329575.72; 626955.15, 3329560.59; 626947.19, 3329547.09; 626909.45, 3329567.24; 626892.89, 3329575.07; 626902.29, 3329590.85

626997.54, 3329526.64; 627034.52, 3329515.14; 627025.20, 3329499.49; 626964.65, 3329537.73; 626960.55, 3329539.86; 626968.38, 3329552.99; 626994.85, 3329537.87; 627021.28, 3329522.74; 627034.52, 3329515.14

627203.67, 3329471.64; 627285.38, 3329459.96; 627254.19, 3329407.61; 627174.85, 3329453.00; 627148.37, 3329468.13; 627121.95, 3329483.32; 627153.15, 3329535.67; 627179.58, 3329520.54; 627206.05, 3329505.41; 627285.38, 3329459.96

627043.08, 3329500.02; 627025.20, 3329499.49; 627034.52, 3329515.14; 627047.72, 3329507.61; 627060.96, 3329500.01; 627052.13, 3329485.18; 627034.79, 3329493.99; 627030.49, 3329496.19; 627025.20, 3329499.49

627063.16, 3329489.21; 627074.18, 3329492.48; 627065.79, 3329478.35; 627052.13, 3329485.18; 627060.96, 3329500.01; 627074.18, 3329492.48

627083.20, 3329478.69; 627065.79, 3329478.35; 627074.18, 3329492.48; 627100.62, 3329477.29; 627093.65, 3329465.63; 627075.98, 3329473.17; 627065.79, 3329478.35

627137.22, 3329451.93; 627107.82, 3329459.62; 627113.71, 3329469.50; 627166.61, 3329439.25; 627165.32, 3329437.03; 627156.66, 3329441.49; 627130.62, 3329449.95; 627107.82, 3329459.62

627205.65, 3329413.63; 627166.61, 3329439.25; 627179.85, 3329431.65; 627206.29, 3329416.52; 627245.99, 3329393.81; 627242.72, 3329388.33; 627220.94, 3329398.73; 627206.34, 3329409.85; 627182.03, 3329428.27; 627165.32, 3329437.03; 627166.61, 3329439.25

630001.61, 3328555.56; 629997.56, 3328569.65; 630005.73, 3328576.22; 630003.77, 3328591.59; 630010.03, 3328611.16; 630013.23, 3328625.91; 630021.25, 3328623.00; 630019.66, 3328607.47; 630017.45, 3328600.68; 630020.58, 3328586.90; 630017.70, 3328574.53; 630009.25, 3328563.58; 630015.06, 3328553.42; 630000.38, 3328536.82; 629987.57, 3328524.58; 629981.97, 3328541.92; 629993.91, 3328556.89; 629997.56, 3328569.65

635846.85, 3325504.81; 633480.08, 3327242.33; 633509.77, 3327247.07; 633525.99, 3327234.37; 633525.81, 3327210.21; 633520.84, 3327183.68; 633531.46, 3327159.60; 633537.76, 3327130.42; 633541.03, 3327098.79; 633561.68, 3327080.27; 633591.16, 3327046.18; 633611.76, 3327017.36; 633629.92, 3326959.51; 633639.01, 3326930.03; 633657.82, 3326909.46; 633668.00, 3326890.62; 633681.12, 3326868.04; 633698.62, 3326836.02; 633724.11, 3326811.13; 633747.04, 3326807.46; 633769.51, 3326798.79; 633783.36, 3326785.65; 633792.82, 3326767.91; 633802.99, 3326732.03; 633815.52, 3326708.12; 633831.61, 3326685.18; 633846.18, 3326674.43; 633868.96, 3326669.45; 633883.23, 3326671.00; 633899.09, 3326672.58; 633913.20, 3326680.49; 633928.16, 3326686.36; 633938.66, 3326679.51; 633948.49, 3326672.89; 633969.21, 3326650.19; 633984.31, 3326634.71; 633998.94, 3326622.35; 634022.50, 3326617.39; 634041.02, 3326608.74; 634058.79, 3326590.27; 634071.43, 3326584.97; 634090.43, 3326586.57; 634108.69, 3326578.04; 634134.32, 3326612.71; 634139.37, 3326632.63; 634151.69, 3326664.27; 634156.74, 3326700.04; 634163.59, 3326728.37; 634163.95, 3326745.42; 634162.06, 3326757.30; 634149.46, 3326768.47; 634149.44, 3326784.70; 634149.88, 3326799.00; 634139.23, 3326811.84; 634117.55, 3326835.45; 634104.89, 3326849.37; 634105.15, 3326870.41; 634103.63, 3326899.34; 634096.26, 3326923.31; 634092.21, 3326942.25; 634092.67, 3326955.31; 634099.82, 3326955.92; 634115.73, 3326955.51; 634130.28, 3326945.58; 634139.04, 3326929.13; 634162.01, 3326916.66; 634182.98, 3326889.41; 634206.45, 3326872.59; 634222.60, 3326862.69; 634235.61, 3326851.47; 634270.30, 3326815.52; 634285.36, 3326801.60; 634306.46, 3326768.49; 634318.14, 3326762.79; 634339.20, 3326762.94;

634351.89, 3326764.07; 634363.80, 3326748.52; 634382.49, 3326732.70; 634412.10, 3326708.91; 634434.21, 3326682.87; 634470.12, 3326661.99; 634491.48, 3326650.23; 634496.82, 3326643.25; 634511.92, 3326644.00; 634519.71, 3326634.28; 634536.90, 3326629.96; 634543.99, 3326617.10; 634564.09, 3326608.05; 634587.19, 3326590.78; 634614.06, 3326581.16; 634634.97, 3326571.82; 634651.56, 3326575.36; 634665.24, 3326568.96; 634673.65, 3326566.43; 634682.20, 3326558.71; 634699.49, 3326550.85; 634715.56, 3326543.70; 634735.97, 3326538.28; 634746.05, 3326532.54; 634765.00, 3326521.97; 634781.50, 3326514.02; 634790.88, 3326504.77; 634810.36, 3326504.07; 634832.17, 3326506.18; 634844.69, 3326514.05; 634857.10, 3326526.66; 634869.84, 3326541.22; 634882.31, 3326551.08; 634895.80, 3326552.61; 634914.63, 3326545.97; 634924.06, 3326535.09; 634938.72, 3326521.17; 634949.92, 3326517.89; 634951.76, 3326508.45; 634969.04, 3326500.95; 634979.95, 3326493.68; 634990.14, 3326483.63; 634994.86, 3326469.89; 635004.74, 3326456.66; 635020.90, 3326446.33; 635032.28, 3326436.31; 635043.15, 3326430.66; 635057.55, 3326427.03; 635080.85, 3326416.94; 635088.15, 3326411.57; 635119.05, 3326415.53; 635140.34, 3326421.99; 635149.96, 3326419.05; 635165.60, 3326413.89; 635184.70, 3326412.81; 635190.02, 3326407.02; 635210.60, 3326410.28; 635228.75, 3326415.48; 635241.60, 3326410.25; 635242.29, 3326398.41; 635248.90, 3326389.08; 635262.14, 3326383.86; 635274.80, 3326386.55; 635290.71, 3326386.14; 635300.97, 3326388.77; 635312.78, 3326393.07; 635330.60, 3326395.89; 635351.24, 3326397.16; 635364.14, 3326389.99; 635382.57, 3326384.09; 635387.09, 3326378.64; 635398.10, 3326383.29; 635400.66, 3326375.87; 635404.96, 3326363.24; 635361.77, 3326294.80; 635317.90, 3326253.61; 635288.17, 3326218.78; 635270.16, 3326223.88; 635253.08, 3326223.45; 635247.71, 3326231.68; 635248.66, 3326241.20;

635237.26, 3326252.02; 635233.04, 3326261.84; 635221.25, 3326256.36; 635196.81, 3326263.67; 635162.15, 3326266.80; 635157.70, 3326285.66; 635141.38, 3326286.87; 635120.04, 3326297.82; 635076.30, 3326298.72; 635029.35, 3326316.14; 634985.84, 3326323.34; 634934.93, 3326324.50; 634890.61, 3326332.87; 634892.43, 3326355.14; 634876.09, 3326357.10; 634857.50, 3326353.45; 634845.42, 3326359.45; 634834.52, 3326350.49; 634825.40, 3326349.83; 634836.96, 3326364.04; 634826.29, 3326377.25; 634832.03, 3326385.70; 634829.90, 3326391.58; 634813.38, 3326384.42; 634800.47, 3326393.77; 634787.88, 3326387.34; 634773.46, 3326391.34; 634752.14, 3326401.54; 634735.97, 3326396.77; 634719.55, 3326401.47; 634696.20, 3326397.76; 634690.80, 3326375.40; 634679.81, 3326385.80; 634663.28, 3326395.31; 634623.64, 3326406.24; 634595.15, 3326417.38; 634539.82, 3326435.84; 634460.22, 3326455.99; 634398.21, 3326456.05; 634379.22, 3326452.77; 634375.86, 3326444.38; 634380.00, 3326421.89; 634393.81, 3326410.31; 634416.15, 3326391.08; 634423.52, 3326382.53; 634433.45, 3326367.36; 634453.21, 3326355.94; 634471.94, 3326338.56;

634499.08, 3326317.83; 634516.97, 3326302.05; 634532.58, 3326281.84; 634548.88, 3326265.96; 634566.08, 3326246.23; 634596.32, 3326229.14; 634623.66, 3326216.72; 634645.45, 3326209.40; 634662.98, 3326201.85; 634686.57, 3326187.96; 634700.25, 3326174.26; 634741.57, 3326159.07; 634760.70, 3326157.56; 634772.74, 3326152.68; 634789.66, 3326127.76; 634817.82, 3326099.13; 634841.76, 3326079.13; 634863.88, 3326053.53; 634895.90, 3326028.56; 634915.87, 3326009.27; 634937.45, 3325988.78; 634966.96, 3325974.67; 634985.86, 3325960.66; 635014.13, 3325959.00; 635041.07, 3325962.49; 635057.41, 3325963.46; 635079.82, 3325968.52; 635107.09, 3325992.24; 635129.63, 3326012.28; 635143.20, 3326025.67; 635167.60, 3326035.40; 635190.06, 3326043.52; 635228.10, 3326047.66; 635240.81, 3326048.36; 635253.14, 3326016.58; 635246.54, 3325994.19; 635230.76, 3325973.94; 635226.46, 3325955.23; 635229.54, 3325943.82; 635240.76, 3325940.11; 635248.59, 3325944.68; 635257.42, 3325956.82; 635265.43, 3325970.51; 635285.35, 3326000.35; 635300.72, 3326021.34; 635314.48, 3326027.24; 635320.95, 3326038.08; 635333.40, 3326049.13; 635323.66, 3326057.19; 635333.60, 3326087.96; 635342.30, 3326090.18; 635346.95, 3326095.04; 635348.76, 3326086.35; 635335.22, 3326024.14; 635330.10, 3325990.74; 635316.31, 3325970.17; 635309.99, 3325952.97; 635287.67, 3325923.88; 635262.51, 3325897.09; 635241.69, 3325871.59; 635231.48, 3325851.49; 635248.48, 3325854.72; 635267.47, 3325873.80; 635286.10, 3325892.13; 635312.14, 3325930.86; 635326.90, 3325960.13; 635344.04, 3325989.53; 635349.03, 3326012.63; 635352.82, 3326051.55; 635356.29, 3326088.78; 635362.84, 3326110.86; 635374.34, 3326127.44; 635402.96, 3326127.35; 635438.80, 3326109.21; 635459.87, 3326108.99; 635474.52, 3326111.30; 635491.02, 3326119.27; 635497.12, 3326129.35; 635491.74, 3326137.89; 635477.40, 3326138.71; 635460.58, 3326144.28; 635449.87, 3326158.68; 635444.36, 3326172.40; 635441.61, 3326187.00; 635434.46, 3326202.68; 635422.71, 3326211.12; 635414.17, 3326218.83; 635404.78, 3326228.90; 635395.51, 3326233.41; 635391.35, 3326240.86; 635403.80, 3326267.70; 635434.34, 3326301.37; 635448.08, 3326324.31;

635459.42, 3326347.57; 635459.17, 3326357.49; 635447.75, 3326368.31; 635503.67, 3326436.33; 635517.27, 3326433.05; 635539.30, 3326426.11; 635540.68, 3326403.18; 635528.88, 3326398.51; 635520.35, 3326405.04; 635524.52, 3326382.11; 635522.57, 3326365.02; 635511.19, 3326358.80; 635517.41, 3326348.65; 635529.51, 3326341.84; 635536.40, 3326352.32; 635551.00, 3326356.62; 635556.55, 3326357.19; 635562.16, 3326355.34; 635574.82, 3326357.65; 635585.02, 3326347.17; 635589.43, 3326329.87; 635604.68, 3326323.89; 635613.93, 3326319.75; 635617.18, 3326301.23; 635622.60, 3326307.30; 635636.11, 3326306.82; 635645.08, 3326298.37; 635655.41, 3326280.59; 635666.82, 3326269.39; 635676.54, 3326262.09; 635678.06, 3326249.45; 635691.24, 3326246.97; 635706.58, 3326237.50; 635724.25, 3326230.39; 635736.58, 3326214.47; 635746.88, 3326200.06; 635753.11, 3326189.48; 635759.38, 3326177.34; 635773.53, 3326198.73; 635778.67, 3326200.42; 635778.97, 3326188.57; 635774.56, 3326174.16; 635777.27, 3326160.75; 635788.37, 3326161.84; 635796.55, 3326152.93; 635798.79, 3326142.69; 635816.81, 3326153.82; 635827.89, 3326155.28; 635832.28, 3326139.16; 635843.26, 3326129.14; 635856.93, 3326122.74; 635869.53, 3326111.95; 635880.26, 3326112.22; 635902.59, 3326109.22; 635912.95, 3326092.44; 635921.13, 3326083.16; 635941.44, 3326081.67; 635950.80, 3326073.54; 635964.24, 3326075.88; 635973.53, 3326054.33; 635977.20, 3326035.01; 635985.04, 3326039.14; 636000.86, 3326026.86; 636015.86, 3326015.38; 636041.81, 3326010.85; 636053.46, 3326005.59; 636069.11, 3326015.53; 636071.92, 3325998.94; 636084.27, 3325997.63; 636094.79, 3325989.96; 636099.45, 3325979.03; 636129.88, 3325969.87; 636135.27, 3325960.90; 636146.19, 3325953.62; 636148.08, 3325942.18; 636157.77, 3325935.68; 636169.78, 3325932.42; 636174.10, 3325918.68; 636185.91, 3325907.49; 636194.39, 3325902.14; 636206.97, 3325892.16; 636217.54, 3325882.88; 636222.51, 3325875.07; 636247.16, 3325874.88; 636244.57, 3325898.60; 636259.42, 3325893.05; 636265.23, 3325882.89; 636276.52, 3325876.43; 636287.36, 3325872.34; 636296.37, 3325861.89; 636300.02, 3325843.32; 636314.30, 3325844.86; 636319.39, 3325831.57; 636330.79, 3325821.12; 636332.41, 3325804.12; 636340.72, 3325805.52;

636359.08, 3325786.56; 636367.35, 3325789.96; 636376.97, 3325786.64; 636389.82, 3325796.83; 636388.11, 3325786.11; 636401.41, 3325779.33; 636400.51, 3325767.01; 636414.78, 3325768.93; 636418.07, 3325749.22; 636426.78, 3325749.82; 636435.02, 3325754.77; 636429.74, 3325774.49; 636440.57, 3325770.76; 636453.53, 3325761.60; 636454.28, 3325747.33; 636441.42, 3325737.08; 636428.03, 3325731.99; 636420.47, 3325716.76; 636422.58, 3325696.21; 636408.51, 3325702.60; 636392.21, 3325718.42; 636371.56, 3325732.94; 636345.09, 3325742.58; 636311.37, 3325755.65; 636271.27, 3325769.68; 636232.14, 3325792.85; 636206.43, 3325803.32; 636173.70, 3325824.72; 636138.24, 3325843.61; 636120.02, 3325856.64; 636099.26, 3325860.86; 636084.21, 3325874.40; 636045.69, 3325888.10; 636029.00, 3325904.28; 636000.73, 3325921.80; 635974.61, 3325933.06; 635933.14, 3325937.95; 635895.38, 3325954.04; 635838.83, 3325974.03; 635766.50, 3325989.62; 635700.18, 3326003.06; 635673.48, 3326005.94; 635659.34, 3326015.08; 635648.06, 3326020.78; 635623.42, 3326020.91; 635612.68, 3326036.50; 635577.89, 3326029.32; 635542.72, 3326021.25; 635492.86, 3326014.69; 635474.64, 3326011.80; 635456.85, 3326008.23; 635432.32, 3326004.05; 635410.71, 3325994.33; 635385.34, 3325975.90; 635373.02, 3325962.42; 635373.81, 3325930.98; 635369.65, 3325917.39; 635370.21, 3325894.93; 635375.06, 3325881.57; 635393.19, 3325877.53; 635399.97, 3325878.64; 635406.70, 3325877.87; 635429.01, 3325887.42; 635441.22, 3325897.47; 635450.12, 3325907.24; 635464.28, 3325912.72; 635482.27, 3325920.23; 635504.68, 3325925.29; 635517.87, 3325939.10; 635535.43, 3325957.52; 635541.22, 3325966.59; 635555.39, 3325957.09; 635574.94, 3325937.73; 635593.29, 3325919.53; 635603.07, 3325925.77; 635624.95, 3325909.27; 635654.20, 3325900.09; 635675.02, 3325894.24; 635693.33, 3325877.29; 635726.92, 3325872.45; 635743.37, 3325878.55; 635762.15, 3325890.51; 635773.08, 3325898.71; 635780.65, 3325913.95; 635800.61, 3325910.14; 635817.51, 3325901.83; 635837.22, 3325892.77;

635848.12, 3325893.48; 635871.34, 3325890.39; 635908.89, 3325898.89; 635942.50, 3325905.66; 635965.38, 3325897.12; 635979.88, 3325889.19; 635995.26, 3325878.03; 636007.84, 3325852.19; 636024.24, 3325832.38; 636040.59, 3325814.56; 636073.77, 3325791.24; 636083.18, 3325780.80; 636085.20, 3325763.81; 636083.74, 3325743.11; 636097.71, 3325725.23; 636102.55, 3325706.32; 636097.98, 3325682.85; 636086.03, 3325683.74; 636083.27, 3325667.38; 636094.50, 3325647.06; 636106.16, 3325642.24; 636115.90, 3325634.55; 636114.82, 3325613.93; 636121.42, 3325588.69; 636141.16, 3325578.51; 636151.45, 3325564.47; 636150.73, 3325545.41; 636153.76, 3325535.63; 636151.62, 3325526.40; 636150.61, 3325519.26; 636158.66, 3325515.09; 636160.52, 3325504.09; 636166.39, 3325492.31; 636164.79, 3325476.79; 636178.02, 3325472.38; 636184.16, 3325480.90; 636217.04, 3325485.66; 636222.75, 3325542.48; 636228.82, 3325553.75; 636222.29, 3325576.18; 636220.94, 3325598.31; 636215.72, 3325616.47; 636223.03, 3325625.77; 636238.13, 3325625.71; 636249.84, 3325634.37; 636249.31, 3325608.14; 636251.55, 3325566.62; 636256.40, 3325548.08; 636263.61, 3325530.03; 636290.80, 3325507.37; 636321.63, 3325498.59; 636349.61, 3325460.85; 636350.69, 3325434.34; 636344.38, 3325416.70; 636341.72, 3325396.04; 636345.27, 3325381.46; 636360.57, 3325373.54; 636372.20, 3325353.61; 636380.81, 3325327.29; 636381.75, 3325290.05; 636385.74, 3325273.86; 636413.30, 3325252.77; 636429.34, 3325215.53; 636449.99, 3325185.09; 636464.41, 3325180.71; 636466.22, 3325187.93; 636494.48, 3325170.79; 636501.31, 3325151.55; 636496.37, 3325127.20; 636495.89, 3325098.66; 636498.24, 3325069.01; 636514.01, 3325058.29; 636529.80, 3325046.83; 636543.02, 3325011.46; 636559.34, 3324963.12; 636593.95, 3324923.10; 636600.10, 3324907.09; 636596.94, 3324890.71;

636593.72, 3324860.92; 636606.11, 3324826.34; 636622.23, 3324802.15; 636635.37, 3324769.58; 636661.04, 3324729.03; 636679.97, 3324703.72; 636710.84, 3324693.02; 636746.28, 3324690.72; 636792.54, 3324700.26; 636821.71, 3324709.67; 636864.27, 3324724.66; 636901.69, 3324738.27; 636944.85, 3324744.11; 636971.58, 3324755.89; 636996.69, 3324753.71; 637030.79, 3324763.31; 637041.68, 3324765.96; 637044.93, 3324747.81; 637043.77, 3324730.37; 637024.64, 3324700.92; 637023.70, 3324686.66; 637027.48, 3324651.86; 637027.29, 3324612.22; 637003.13, 3324545.82; 637000.65, 3324528.71; 636991.66, 3324511.82; 636991.83, 3324489.60; 636995.89, 3324470.66; 637006.52, 3324458.70; 637015.67, 3324442.63; 637017.61, 3324428.45; 637012.72, 3324407.67; 637007.37, 3324393.30; 637012.49, 3324371.58; 637021.31, 3324352.76; 637020.21, 3324333.69; 637014.82, 3324310.96; 637011.39, 3324289.46; 637005.33, 3324261.59; 637006.85, 3324233.11; 636994.12, 3324201.82; 636981.87, 3324167.87; 636973.20, 3324117.71; 636975.36, 3324063.02; 636994.09, 3324017.36; 637019.12, 3323976.17; 637036.52, 3323958.56; 637079.19, 3323921.56; 637113.94, 3323899.09; 637156.16, 3323879.93; 637202.87, 3323871.99; 637231.58, 3323868.34; 637261.83, 3323866.36; 637283.38, 3323863.28; 637302.60, 3323857.46; 637324.97, 3323852.84; 637344.78, 3323839.86; 637351.72, 3323832.92; 637343.66, 3323821.23; 637306.38, 3323818.29; 637296.89, 3323800.64; 637297.09, 3323792.71; 637280.27, 3323781.18; 637268.59, 3323771.77; 637260.18, 3323758.89; 637249.53, 3323755.44; 637241.17, 3323740.18; 637235.39, 3323732.86; 637232.76, 3323711.38; 637225.57, 3323712.82; 637216.29, 3323702.29; 637228.04, 3323693.84; 637225.62, 3323679.11; 637216.75, 3323668.59; 637208.76, 3323638.67; 637201.27, 3323620.63; 637205.55, 3323608.44; 637200.22, 3323598.82; 637196.61, 3323584.43; 637191.42, 3323570.01; 637192.93, 3323557.37; 637202.84, 3323558.44; 637205.45, 3323549.01; 637196.26, 3323551.15; 637192.04, 3323545.49; 637189.13, 3323534.31; 637195.80, 3323522.18; 637188.81, 3323515.70; 637190.00, 3323499.87; 637194.47, 3323496.36; 637200.17, 3323506.81; 637211.63, 3323509.09; 637220.22, 3323499.82;

637220.33, 3323479.22; 637226.35, 3323477.00; 637228.57, 3323467.51; 637232.34, 3323460.49; 637238.68, 3323460.65; 637240.65, 3323446.03; 637246.81, 3323438.25; 637259.13, 3323438.19; 637267.23, 3323432.03; 637274.58, 3323408.80; 637286.58, 3323390.07; 637297.86, 3323399.53; 637306.59, 3323400.50; 637306.16, 3323385.82; 637300.83, 3323377.00; 637314.44, 3323372.54; 637313.03, 3323365.76; 637309.47, 3323364.93; 637311.38, 3323352.68; 637318.06, 3323339.73; 637325.79, 3323332.81; 637332.08, 3323335.34; 637335.29, 3323333.86; 637333.86, 3323328.27; 637331.37, 3323316.29; 637333.58, 3323307.67; 637347.30, 3323299.65; 637348.94, 3323281.83; 637360.73, 3323271.08; 637370.69, 3323254.67; 637380.85, 3323245.81; 637392.90, 3323240.93; 637401.17, 3323243.51; 637407.03, 3323232.17; 637414.83, 3323222.51; 637425.10, 3323209.66; 637437.94, 3323204.05; 637444.60, 3323208.15; 637448.30, 3323218.98; 637456.97, 3323238.30; 637469.92, 3323249.18; 637475.73, 3323255.25; 637479.50, 3323263.28; 637478.32, 3323278.35; 637473.34, 3323286.90; 637471.92, 3323295.61; 637452.21, 3323305.04; 637450.00, 3323314.09; 637445.39, 3323323.09; 637440.00, 3323332.07; 637443.79, 3323339.28; 637437.58, 3323349.05; 637439.40, 3323355.84; 637444.00, 3323362.70; 637449.78, 3323369.96; 637454.48, 3323372.89; 637449.03, 3323384.23; 637440.14, 3323389.57; 637429.23, 3323396.78; 637421.17, 3323400.95; 637416.99, 3323409.21; 637428.36, 3323415.42; 637441.85, 3323416.14; 637444.46, 3323422.95; 637453.25, 3323421.61; 637463.96, 3323422.25; 637471.74, 3323429.19; 637480.79, 3323432.60; 637495.97, 3323444.84; 637487.30, 3323458.11; 637475.93, 3323467.75; 637467.19, 3323483.01; 637465.65, 3323496.83; 637476.34, 3323498.66; 637489.88, 3323497.81; 637499.58, 3323507.17; 637494.50, 3323519.34; 637485.95, 3323527.05; 637478.24, 3323533.60; 637470.44, 3323542.95; 637460.36, 3323548.63;

637454.58, 3323557.60; 637445.25, 3323564.48; 637436.21, 3323576.92; 637428.76, 3323588.22; 637417.93, 3323592.32; 637410.03, 3323590.56; 637404.79, 3323592.80; 637398.87, 3323607.32; 637392.98, 3323619.84; 637386.92, 3323623.69; 637387.48, 3323633.19; 637378.33, 3323633.77; 637375.27, 3323644.37; 637380.94, 3323656.00; 637374.84, 3323661.40; 637368.10, 3323660.85; 637364.76, 3323667.14; 637365.84, 3323671.47; 637378.74, 3323680.16; 637395.92, 3323677.04; 637417.99, 3323684.33; 637430.46, 3323694.14; 637445.16, 3323694.51; 637456.90, 3323701.92; 637471.05, 3323707.83; 637482.81, 3323714.49; 637491.24, 3323727.00; 637503.45, 3323731.24; 637515.42, 3323745.40; 637525.66, 3323764.33; 637531.87, 3323786.27; 637531.35, 3323806.86; 637543.49, 3323814.34; 637557.64, 3323820.63; 637570.46, 3323832.06; 637586.12, 3323841.57; 637597.38, 3323852.53; 637605.05, 3323863.46; 637614.66, 3323876.37; 637621.83, 3323891.22; 637627.21, 3323898.85; 637635.54, 3323899.06; 637640.67, 3323884.96; 637648.15, 3323872.03; 637658.95, 3323869.56; 637670.01, 3323856.36; 637681.00, 3323830.48; 637697.00, 3323810.65; 637703.25, 3323799.33; 637698.10, 3323782.90; 637690.93, 3323768.05; 637681.16, 3323761.50; 637685.17, 3323743.75; 637694.16, 3323734.49; 637705.16, 3323723.65; 637713.79, 3323712.39; 637717.25, 3323701.74; 637712.59, 3323681.39; 637707.47, 3323663.85; 637702.71, 3323647.87; 637707.11, 3323631.32; 637700.98, 3323621.67; 637697.28, 3323610.84; 637697.72, 3323593.44; 637702.38, 3323582.44; 637705.02, 3323572.21; 637704.52, 3323560.34; 637700.43, 3323549.50; 637693.56, 3323538.21; 637687.60, 3323521.83; 637678.82, 3323507.75; 637671.60, 3323494.46; 637671.90, 3323482.61; 637675.00, 3323470.02; 637671.13, 3323450.44; 637665.60, 3323433.26; 637664.79, 3323418.20; 637672.55, 3323409.65; 637683.53, 3323400.07; 637696.86, 3323375.81; 637705.29, 3323356.98;

637711.84, 3323333.74; 637722.64, 3323299.55; 637723.08, 3323282.15; 637725.82, 3323267.92; 637733.64, 3323257.44; 637735.79, 3323251.13; 637738.52, 3323236.90; 637740.45, 3323223.91; 637745.36, 3323202.24; 637743.51, 3323165.30; 637739.52, 3323135.05; 637748.17, 3323107.18; 637757.94, 3323097.88; 637775.48, 3323095.95; 637782.06, 3323087.00; 637782.82, 3323073.16; 637789.57, 3323057.47; 637797.77, 3323047.38; 637808.32, 3323038.53; 637821.23, 3323031.30; 637836.16, 3323022.57; 637850.04, 3323008.25; 637863.19, 3322990.72; 637869.67, 3322970.29; 637866.57, 3322951.61; 637861.88, 3322932.83; 637864.48, 3322908.73; 637863.38, 3322888.85; 637861.02, 3322872.19; 637866.49, 3322844.55; 637871.76, 3322824.89; 637892.16, 3322804.00; 637897.29, 3322789.83; 637911.75, 3322783.83; 637923.01, 3322731.43; 637928.83, 3322705.42; 637939.29, 3322684.64; 637957.15, 3322670.43; 637970.49, 3322645.79; 637974.55, 3322626.48; 637984.63, 3322605.32; 638001.10, 3322582.39; 638017.39, 3322566.95; 638028.99, 3322548.20; 638035.29, 3322519.39; 638041.23, 3322504.13; 638059.23, 3322484.35; 638075.97, 3322466.55; 638088.50, 3322442.64; 638098.89, 3322424.68; 638110.92, 3322420.24; 638126.72, 3322408.71; 638143.49, 3322389.72; 638159.25, 3322363.96; 638170.54, 3322341.65; 638197.55, 3322311.43; 638227.72, 3322297.15; 638219.98, 3322247.45; 638155.71, 3322228.10; 638125.60, 3322264.42; 638111.27, 3322296.15; 638091.21, 3322335.28; 638058.06, 3322373.34; 638020.40, 3322416.40; 637971.48, 3322464.66; 637938.33, 3322502.72; 637899.89, 3322544.95; 637866.05, 3322594.41; 637846.10, 3322644.66; 637746.00, 3322721.04; 637710.19, 3322769.64; 637679.97, 3322801.40; 637624.02, 3322876.52; 637558.14, 3322919.62; 637485.94, 3323008.19; 637444.59, 3323056.27; 637367.79, 3323138.42; 637324.28, 3323192.39; 637300.69, 3323229.49; 637269.57, 3323265.54; 637218.24, 3323315.37;

637193.06, 3323352.00; 637160.85, 3323399.95; 637127.56, 3323442.74; 637087.94, 3323485.32; 637058.07, 3323505.10; 637023.02, 3323568.89; 636977.59, 3323636.35; 636940.18, 3323701.20; 636880.33, 3323758.00; 636829.53, 3323802.28; 636813.75, 3323860.13; 636796.59, 3323894.59; 636787.73, 3323930.45; 636779.27, 3323974.43; 636708.71, 3324061.05; 636673.36, 3324122.83; 636632.42, 3324186.41; 636567.83, 3324272.80; 636496.48, 3324360.20; 636435.29, 3324422.46; 636375.32, 3324499.04; 636289.81, 3324642.77; 636201.06, 3324757.83; 636123.51, 3324869.30; 636051.68, 3324943.59; 635980.85, 3325009.59; 635908.79, 3325061.28; 635826.26, 3325134.48; 635738.99, 3325206.44; 635717.30, 3325246.72; 635685.58, 3325290.68; 635652.57, 3325334.80; 635570.27, 3325398.89; 635530.28, 3325424.04; 635471.94, 3325451.91; 635405.11, 3325501.35; 635330.73, 3325519.70; 635278.50, 3325541.80; 635196.74, 3325599.98; 635151.57, 3325641.66; 635138.57, 3325684.16; 635116.69, 3325716.07; 635093.85, 3325754.76; 635049.34, 3325786.16; 634991.96, 3325823.54; 634946.86, 3325862.05; 634931.56, 3325901.67; 634922.46, 3325937.28; 634872.35, 3325972.28; 634802.23, 3326007.97; 634748.88, 3326041.15; 634703.03, 3326071.46; 634687.93, 3326095.86; 634641.89, 3326124.41; 634566.38, 3326149.42; 634493.83, 3326173.00; 634457.25, 3326189.49; 634408.63, 3326226.35; 634384.62, 3326264.19; 634349.97, 3326282.36; 634305.06, 3326297.84; 634261.18, 3326320.14; 634212.79, 3326363.30; 634165.23, 3326389.45; 634094.60, 3326415.82; 634008.99, 3326453.68; 633959.74, 3326467.92; 633914.21, 3326476.33; 633830.27, 3326495.19; 633774.21, 3326527.49; 633760.70, 3326543.38; 633738.79, 3326586.71; 633717.12, 3326622.81; 633695.63, 3326671.39; 633681.67, 3326706.62; 633667.35, 3326737.79; 633661.16, 3326760.91; 633652.83, 3326776.19; 633630.64, 3326820.82; 633614.52, 3326861.24; 633602.67, 3326889.85; 633593.97, 3326919.40; 633577.01, 3326961.36; 633550.90, 3327003.53; 633539.27, 3327039.69; 633528.59, 3327068.76; 633510.73, 3327098.84; 633486.25, 3327140.23; 633475.72, 3327163.38; 633465.98, 3327187.29; 633466.90, 3327213.47; 633480.08, 3327242.33

636703.03, 3325565.89; 636459.20, 3325736.96; 636462.55, 3325730.30; 636470.16, 3325727.69; 636475.00, 3325725.06; 636472.70, 3325721.82; 636467.63, 3325718.13; 636468.57, 3325711.79; 636474.27, 3325706.82; 636474.39, 3325702.07; 636474.52, 3325696.90; 636478.28, 3325689.88; 636485.82, 3325690.07; 636490.46, 3325695.30; 636493.26, 3325694.62; 636498.17, 3325689.19; 636502.48, 3325691.23; 636504.60, 3325701.59; 636503.27, 3325707.11; 636499.70, 3325707.46; 636495.22, 3325711.28; 636491.29, 3325709.62; 636488.13, 3325708.73; 636486.38, 3325715.05; 636485.00, 3325722.51; 636480.14, 3325726.00; 636480.42, 3325730.75; 636486.09, 3325726.53; 636494.68, 3325717.19; 636501.17, 3325711.86; 636506.79, 3325709.57; 636510.83, 3325707.30; 636522.86, 3325702.86; 636531.30, 3325699.14; 636542.19, 3325693.05; 636553.83, 3325688.59; 636571.02, 3325684.66; 636582.54,

3325684.57; 636589.51, 3325676.01; 636598.12, 3325666.30; 636603.80, 3325661.33; 636599.59, 3325655.23; 636601.70, 3325650.16; 636606.62, 3325644.36; 636611.40, 3325643.29; 636610.78, 3325636.91; 636614.08, 3325632.25; 636619.19, 3325634.37; 636627.18, 3325632.58; 636625.72, 3325627.36; 636633.09, 3325619.24; 636639.77, 3325621.78; 636641.63, 3325627.01; 636642.30, 3325631.77; 636647.83, 3325633.47; 636658.11, 3325619.87; 636682.29, 3325622.48; 636693.91, 3325618.78; 636704.19, 3325605.18; 636721.56, 3325594.13; 636742.45, 3325585.54; 636765.49, 3325570.26; 636794.01, 3325558.25; 636819.72, 3325547.85; 636839.02, 3325538.78; 636856.63, 3325533.67; 636875.00, 3325530.58; 636886.25, 3325525.74; 636900.37, 3325517.73; 636913.27, 3325510.57; 636931.62, 3325507.47; 636942.86, 3325502.95; 636958.03, 3325500.96; 636968.53, 3325494.10; 636968.05, 3325481.79; 636964.33, 3325471.40; 636952.33, 3325474.66; 636949.39, 3325465.09; 636944.10, 3325454.22; 636940.78,

3325444.28; 636929.83, 3325452.68; 636926.34, 3325449.03; 636927.39, 3325439.13; 636931.62, 3325428.94; 636926.00, 3325415.31; 636910.66, 3325409.37; 636898.89, 3325418.63; 636877.62, 3325426.83; 636840.39, 3325437.75; 636817.91, 3325445.93; 636779.99, 3325452.46; 636751.34, 3325453.36; 636728.73, 3325467.84; 636719.15, 3325485.01; 636717.91, 3325502.46; 636710.98, 3325525.26; 636697.08, 3325524.91; 636670.29, 3325530.97; 636637.31, 3325546.37; 636609.56, 3325559.16; 636574.01, 3325581.67; 636552.86, 3325600.55; 636540.53, 3325616.91; 636520.43, 3325625.89; 636498.67, 3325638.01; 636482.48, 3325649.16; 636468.02, 3325670.95; 636462.00, 3325688.65; 636453.88, 3325695.57; 636445.64, 3325707.28; 636437.52, 3325713.82; 636441.37, 3325718.66; 636448.81, 3325723.59; 636455.84, 3325728.14; 636459.20, 3325736.96

638535.15, 3324031.44; 638050.91, 3324390.44; 638044.17, 3324390.27; 638021.29, 3324399.24; 637997.94, 3324410.95; 637990.69, 3324430.56; 637978.62, 3324436.18; 637965.53, 3324435.10; 637955.99, 3324434.86; 637937.44, 3324461.30; 637916.68, 3324481.00; 637888.42, 3324498.15; 637854.05, 3324505.21; 637831.80, 3324505.02; 637808.93, 3324513.56; 637797.02, 3324528.37; 637781.44, 3324531.91; 637764.48, 3324526.73; 637754.27, 3324521.30; 637741.89, 3324524.17; 637724.66, 3324529.73; 637709.41, 3324534.83; 637692.95, 3324541.60; 637676.80, 3324551.49; 637660.17, 3324564.93; 637647.96, 3324576.11; 637649.07, 3324594.80; 637637.94, 3324610.38; 637621.83, 3324619.08; 637613.35, 3324639.85; 637592.48, 3324647.68; 637570.59, 3324648.69; 637552.31, 3324649.04; 637527.50, 3324655.54; 637507.47,

3324661.77; 637486.95, 3324671.56; 637470.63, 3324688.19; 637459.03, 3324707.31; 637434.14, 3324732.09; 637413.56, 3324744.62; 637400.71, 3324765.33; 637390.86, 3324793.61; 637387.34, 3324822.48; 637387.27, 3324856.94; 637381.71, 3324888.14; 637370.48, 3324918.63; 637366.89, 3324934.40; 637360.23, 3324946.53; 637328.73, 3325002.91; 637291.28, 3325037.67; 637258.24, 3325086.78; 637224.41, 3325120.39; 637201.58, 3325158.70; 637182.25, 3325168.89; 637174.65, 3325186.55; 637165.81, 3325205.74; 637145.22, 3325234.13; 637133.04, 3325270.59; 637128.65, 3325287.14; 637107.94, 3325304.04; 637090.22, 3325313.52; 637068.95, 3325321.28; 637045.46, 3325328.00; 637053.30, 3325332.50; 637055.88, 3325340.49; 637068.07, 3325345.61; 637059.94, 3325352.89; 637051.37, 3325361.79; 637046.75, 3325371.98; 637049.00, 3325376.84; 637069.93, 3325382.11; 637076.92, 3325388.59; 637079.89, 3325397.41; 637075.29, 3325406.03; 637080.41, 3325407.72; 637091.93, 3325403.14; 637101.86,

3325403.39; 637115.27, 3325407.29; 637122.88, 3325405.11; 637125.80, 3325400.00; 637134.89, 3325401.85; 637144.82, 3325402.10; 637151.60, 3325401.46; 637160.89, 3325395.33; 637162.23, 3325389.43; 637172.37, 3325381.38; 637180.43, 3325376.84; 637184.18, 3325370.57; 637181.11, 3325365.75; 637184.52, 3325357.09; 637192.87, 3325356.49; 637187.83, 3325351.62; 637186.37, 3325346.47; 637191.62, 3325343.04; 637197.94, 3325344.76; 637204.69, 3325345.30; 637203.66, 3325338.16; 637203.85, 3325330.61; 637207.91, 3325327.59; 637218.66, 3325326.62; 637227.80, 3325326.85; 637234.96, 3325327.03; 637245.22, 3325329.72; 637250.44, 3325327.42; 637243.83, 3325321.76; 637239.21, 3325316.09; 637237.42, 3325308.49; 637242.30, 3325303.43; 637252.18, 3325305.68; 637253.13, 3325299.77; 637253.77, 3325290.67; 637256.91, 3325291.94; 637265.10, 3325298.07; 637271.24, 3325306.97; 637282.59, 3325313.62; 637287.96, 3325305.39; 637296.85, 3325299.68; 637302.66, 3325290.34; 637308.93,

3325278.20; 637314.40, 3325266.04; 637323.69, 3325259.91; 637336.03, 3325259.85; 637340.26, 3325249.65; 637353.81, 3325247.62; 637363.99, 3325238.33; 637375.97, 3325235.88; 637379.13, 3325221.29; 637388.40, 3325215.97; 637396.44, 3325212.18; 637391.12, 3325202.93; 637403.17, 3325198.12; 637414.50, 3325190.10; 637419.03, 3325183.47; 637424.40, 3325175.24; 637431.66, 3325171.87; 637440.40, 3325171.27; 637446.97, 3325163.51; 637445.36, 3325148.43; 637446.87, 3325135.79; 637454.66, 3325126.44; 637435.48, 3325114.47; 637444.80, 3325107.59; 637455.73, 3325099.56; 637457.99, 3325088.88; 637449.84, 3325081.56; 637440.03,

3325076.57; 637446.57, 3325068.80; 637460.84, 3325070.35; 637476.79, 3325068.38; 637467.59, 3325055.04; 637471.72, 3325049.21; 637480.23, 3325042.31; 637483.91, 3325038.41; 637494.76, 3325033.94; 637502.06, 3325028.19; 637513.25, 3325025.66; 637517.08, 3325015.84; 637519.42, 3325002.04; 637524.88, 3324990.31; 637527.44, 3324982.82; 637541.45, 3324979.24; 637549.36, 3324980.63; 637557.71, 3324980.84; 637559.22, 3324968.14; 637568.14, 3324961.25; 637582.53, 3324958.06; 637588.60, 3324953.84; 637597.96, 3324944.96; 637603.84, 3324932.81; 637614.38, 3324924.34; 637623.82, 3324912.34; 637631.86, 3324908.92; 637640.79, 3324901.66; 637655.09, 3324902.39; 637663.11, 3324899.41; 637667.32, 3324890.03; 637675.47, 3324882.31; 637687.86, 3324879.43; 637691.25, 3324870.78; 637697.76, 3324865.45; 637707.44, 3324859.33; 637712.77, 3324852.72; 637720.44, 3324848.54; 637725.70, 3324844.74; 637731.09, 3324835.77; 637739.02, 3324836.34; 637746.05, 3324825.84; 637745.40, 3324819.83; 637763.22, 3324822.65; 637767.09, 3324811.27; 637766.07,

3324804.50; 637778.38, 3324804.81; 637789.97, 3324802.35; 637800.01, 3324798.24; 637806.11, 3324792.84; 637798.36, 3324785.09; 637803.32, 3324777.72; 637811.72, 3324775.12; 637824.10, 3324772.69; 637834.63, 3324765.40; 637842.84, 3324754.93; 637851.56, 3324740.05; 637864.11, 3324731.25; 637868.65, 3324724.62; 637893.65, 3324726.06; 637901.05, 3324715.95; 637912.82, 3324706.76; 637929.13, 3324705.98; 637933.06, 3324692.16; 637948.52, 3324694.17; 637965.36, 3324687.86; 637966.38, 3324679.14; 637977.21, 3324675.48; 637986.45, 3324671.35; 637985.52, 3324661.02; 637991.37, 3324650.06; 638007.69, 3324648.85; 638008.68, 3324641.38; 638006.09, 3324633.39; 638018.01, 3324633.69; 638026.39, 3324632.28; 638037.70, 3324625.44; 638043.81, 3324619.67; 638041.28, 3324609.30; 638047.44, 3324601.53; 638061.76, 3324601.08; 638073.48, 3324593.45; 638088.04, 3324583.52; 638087.54, 3324571.58; 638091.37, 3324561.81; 638105.38, 3324557.80; 638122.28, 3324549.92; 638128.88,

3324540.16; 638138.21, 3324532.47; 638152.35, 3324524.09; 638160.91, 3324515.56; 638184.57, 3324507.48; 638188.48, 3324494.10; 638192.70, 3324484.28; 638210.18, 3324484.72; 638219.79, 3324481.78; 638237.65, 3324467.18; 638253.36, 3324459.27; 638253.96, 3324450.93; 638264.77, 3324448.01; 638274.86, 3324441.96; 638287.88, 3324430.37; 638293.28, 3324421.02; 638300.60, 3324414.08; 638298.87, 3324404.12; 638288.53, 3324388.37; 638278.81, 3324379.83; 638273.36, 3324375.69; 638279.20, 3324364.35; 638283.10, 3324351.78; 638294.70, 3324348.52; 638315.32, 3324366.89; 638322.91, 3324380.94; 638331.07, 3324388.26; 638337.25, 3324394.78; 638344.47, 3324392.97; 638340.40, 3324380.57; 638351.24, 3324376.47; 638370.86, 3324371.03; 638384.54, 3324363.83; 638391.60, 3324352.14; 638402.31, 3324353.22; 638403.05, 3324339.32; 638410.73, 3324334.40; 638424.69, 3324332.75; 638435.62, 3324324.72; 638438.76,

3324310.13; 638451.31, 3324301.71; 638467.96, 3324303.32; 638475.95, 3324301.96; 638485.16, 3324299.01; 638491.02, 3324286.86; 638499.90, 3324281.52; 638510.21, 3324282.97; 638510.26, 3324265.12; 638517.91, 3324261.38; 638525.13, 3324258.75; 638531.68, 3324250.99; 638536.60, 3324245.18; 638534.45, 3324236.01; 638547.67, 3324231.98; 638560.88, 3324227.94; 638575.30, 3324224.00; 638578.67, 3324216.15; 638584.14, 3324204.37; 638600.46, 3324203.22; 638601.07, 3324194.87; 638606.49, 3324184.71; 638612.82, 3324185.68; 638616.94, 3324179.85; 638611.58, 3324172.16; 638621.26, 3324166.48; 638617.12, 3324157.26; 638628.87, 3324148.81; 638635.54, 3324136.31; 638640.85, 3324130.51; 638648.91, 3324126.35; 638653.05, 3324119.71; 638661.61, 3324111.56; 638674.02,

3324107.94; 638683.63, 3324105.44; 638694.65, 3324093.42; 638700.56, 3324080.08; 638706.30, 3324073.48; 638716.46, 3324064.63; 638728.12, 3324058.99; 638733.80, 3324054.33; 638739.51, 3324048.54; 638751.97, 3324043.30; 638754.89, 3324037.82; 638767.28, 3324034.95; 638765.18, 3324023.84; 638778.74, 3324021.81; 638786.61, 3324025.13; 638789.67, 3324014.16; 638795.79, 3324007.95; 638793.63, 3323999.15; 638805.21, 3323996.70; 638811.65, 3323994.05; 638803.90, 3323985.93; 638812.74, 3323981.84; 638826.01, 3323976.19; 638836.13, 3323968.95; 638838.07, 3323954.70; 638839.52, 3323944.44; 638844.99, 3323933.09; 638849.30, 3323919.72; 638870.95, 3323911.96; 638880.57, 3323892.73; 638892.94, 3323875.25; 638909.10, 3323864.92; 638928.93, 3323866.60; 638922.33, 3323876.36; 638924.24, 3323879.60; 638937.77, 3323879.12; 638957.69, 3323877.25; 638959.94, 3323867.01; 638953.53, 3323852.99; 638959.95, 3323834.93; 638977.11, 3323832.17; 638990.57, 3323834.45; 638995.96, 3323840.95; 639005.46, 3323842.75; 639010.18, 3323829.01; 639020.42,

3323816.97; 639028.77, 3323817.18; 639037.33, 3323808.29; 639049.63, 3323809.03; 639065.25, 3323804.62; 639074.58, 3323796.93; 639079.49, 3323791.56; 639070.52, 3323784.96; 639070.75, 3323775.86; 639083.89, 3323775.00; 639089.20, 3323769.20; 639099.37, 3323759.91; 639096.92, 3323746.36; 639102.84, 3323732.66; 639104.76, 3323720.03; 639105.05, 3323708.55; 639123.50, 3323701.47; 639128.90, 3323692.11; 639126.05, 3323679.31; 639131.41, 3323671.51; 639139.85, 3323668.17; 639144.42, 3323660.36; 639144.66, 3323650.87; 639156.16, 3323651.97; 639158.77, 3323642.93; 639165.26, 3323637.53; 639166.65, 3323630.02; 639175.53, 3323624.31; 639194.33, 3323619.60; 639198.03, 3323615.33; 639211.70, 3323608.55; 639213.93, 3323599.12; 639229.17, 3323594.32; 639229.42,

3323584.41; 639244.99, 3323581.24; 639255.90, 3323574.40; 639265.61, 3323567.90; 639280.09, 3323560.71; 639286.22, 3323554.13; 639299.01, 3323551.33; 639315.53, 3323558.49; 639322.44, 3323551.92; 639326.53, 3323547.21; 639329.07, 3323541.72; 639342.17, 3323542.05; 639345.97, 3323533.47; 639348.93, 3323525.99; 639347.88, 3323520.41; 639335.35, 3323528.83; 639328.94, 3323530.67; 639325.13, 3323524.21; 639317.55, 3323525.58; 639313.03, 3323515.60; 639301.50, 3323531.54; 639290.57, 3323539.19; 639287.00, 3323538.73; 639290.42, 3323529.70; 639295.88, 3323517.91; 639304.50, 3323507.02; 639308.00, 3323494.06; 639319.41, 3323483.61; 639334.00, 3323472.12; 639346.43, 3323452.21; 639354.75, 3323437.75; 639356.70, 3323423.50; 639351.91, 3323407.96; 639343.60, 3323406.94; 639343.92, 3323394.28; 639348.11, 3323385.64; 639355.11, 3323376.33; 639364.04, 3323369.00; 639378.43, 3323365.43; 639386.21, 3323356.89; 639400.16, 3323339.39; 639412.93, 3323321.86; 639416.52, 3323305.34; 639421.15, 3323295.16; 639425.80, 3323284.54; 639434.74, 3323276.09; 639444.49, 3323267.97; 639451.43, 3323261.03; 639459.20,

3323252.11; 639474.93, 3323243.39; 639477.96, 3323233.54; 639492.40, 3323227.98; 639498.56, 3323236.43; 639500.89, 3323253.97; 639488.07, 3323258.39; 639480.27, 3323268.06; 639470.53, 3323275.74; 639464.32, 3323285.51; 639456.11, 3323295.60; 639449.42, 3323308.92; 639449.85, 3323323.60; 639445.61, 3323334.23; 639438.65, 3323341.98; 639432.76, 3323354.50; 639430.48, 3323366.31; 639426.98, 3323378.95; 639415.58, 3323389.72; 639419.73, 3323398.18; 639409.76, 3323415.72; 639410.31, 3323425.66; 639405.38, 3323431.91; 639403.05, 3323445.33; 639414.30, 3323440.43; 639430.64, 3323454.70; 639430.60, 3323471.74; 639428.58, 3323489.17; 639427.50, 3323500.26; 639427.16, 3323513.73; 639433.38, 3323519.01; 639442.47, 3323520.80; 639450.25, 3323511.88; 639453.70,

3323501.29; 639457.22, 3323487.52; 639454.00, 3323473.96; 639445.31, 3323471.74; 639449.63, 3323457.99; 639463.76, 3323449.23; 639477.19, 3323436.90; 639487.34, 3323428.42; 639490.02, 3323417.00; 639486.33, 3323405.79; 639472.89, 3323402.65; 639482.73, 3323391.03; 639481.86, 3323377.90; 639477.81, 3323365.13; 639487.85, 3323361.01; 639494.86, 3323351.33; 639499.95, 3323354.20; 639507.36, 3323359.94; 639512.97, 3323358.09; 639519.05, 3323353.12; 639514.60, 3323340.27; 639501.87, 3323341.20; 639499.26, 3323334.39; 639508.56, 3323327.89; 639510.36, 3323320.00; 639521.31, 3323310.73; 639529.32, 3323308.56; 639536.76, 3323313.12; 639540.87, 3323323.15; 639548.99, 3323316.61; 639549.75, 3323302.77; 639554.34, 3323293.71; 639551.11, 3323280.21; 639554.84, 3323273.93; 639567.90, 3323266.08; 639574.03, 3323259.50; 639585.23, 3323240.37; 639592.59, 3323233.00; 639600.51, 3323218.15; 639610.30, 3323208.48; 639616.08, 3323199.51; 639634.51, 3323194.04; 639644.34,

3323198.22; 639651.76, 3323187.73; 639655.47, 3323182.65; 639656.93, 3323172.01; 639663.84, 3323165.82; 639666.86, 3323155.97; 639691.29, 3323149.09; 639696.96, 3323160.72; 639709.17, 3323149.54; 639709.47, 3323137.63; 639712.10, 3323127.77; 639721.92, 3323116.97; 639731.26, 3323108.84; 639741.04, 3323099.59; 639753.98, 3323090.37; 639755.15, 3323075.79; 639760.55, 3323066.38; 639766.64, 3323061.41; 639775.64, 3323051.28; 639782.04, 3323049.88; 639782.61, 3323043.15; 639792.90, 3323029.18; 639806.03, 3323028.26; 639810.21, 3323020.06; 639819.44, 3323016.74; 639824.66, 3323014.87; 639829.54, 3323026.48; 639834.83, 3323036.91; 639840.46, 3323034.31; 639846.31, 3323038.83; 639851.88, 3323022.74; 639855.06, 3323007.33; 639868.62, 3323005.68; 639877.32, 3323007.08; 639887.61, 3323008.97; 639890.99, 3323001.12; 639893.28, 3322989.26; 639891.64, 3322975.36; 639904.25, 3322963.75; 639917.04, 3322960.96; 639926.31, 3322956.01; 639937.95, 3322951.56; 639948.21,

3322954.19; 639954.75, 3322947.61; 639960.59, 3322936.27; 639961.73, 3322922.82; 639967.78, 3322919.41; 639980.03, 3322922.47; 639988.50, 3322917.56; 639997.93, 3322905.88; 640009.33, 3322895.05; 640021.53, 3322884.31; 640024.84, 3322879.59; 640023.34, 3322875.62; 640017.77, 3322875.85; 639996.87, 3322885.25; 639973.15, 3322895.76; 639943.47, 3322906.13; 639911.77, 3322918.00; 639879.61, 3322932.61; 639842.02, 3322957.44; 639810.67, 3322970.51; 639778.38, 3322989.92; 639752.54, 3323006.31; 639724.42, 3323017.90; 639692.68, 3323030.96; 639621.87, 3323064.88; 639598.43, 3323080.52; 639572.84, 3323096.79; 639550.47, 3323116.83; 639519.39, 3323135.52; 639483.81, 3323175.01; 639460.87, 3323185.92; 639440.01, 3323194.13; 639433.77, 3323220.57; 639423.47, 3323234.92; 639380.21, 3323269.28; 639344.44, 3323284.61; 639276.57, 3323327.72; 639241.00, 3323366.84; 639217.88, 3323401.15; 639205.76, 3323424.63; 639182.04, 3323445.32; 639147.22, 3323460.42; 639108.62, 3323478.05; 639084.44, 3323490.92; 639061.81, 3323505.40; 639054.17, 3323524.62; 639033.66, 3323534.46; 639016.03, 3323555.37; 638993.71, 3323573.47; 638981.22, 3323595.75; 638972.73, 3323617.33; 638957.22,

3323633.17; 638937.08, 3323643.77; 638916.80, 3323644.44; 638905.32, 3323658.45; 638887.41, 3323674.67; 638868.62, 3323695.17; 638843.88, 3323714.39; 638822.91, 3323726.16; 638807.87, 3323739.64; 638800.11, 3323747.75; 638790.43, 3323753.06; 638774.60, 3323766.52; 638753.61, 3323779.10; 638711.02, 3323781.21; 638681.00, 3323789.57; 638661.33, 3323797.75; 638632.20, 3323801.38; 638595.77, 3323811.95; 638565.32, 3323821.92; 638522.99, 3323829.16; 638507.34, 3323850.99; 638479.88, 3323868.15; 638466.03, 3323897.51; 638438.74, 3323907.12; 638420.60, 3323917.34; 638400.25, 3323936.30; 638388.20, 3323957.35; 638385.35, 3323975.13; 638368.03, 3324000.48; 638361.70, 3324014.99; 638351.87,

3324041.71; 638331.41, 3324049.49; 638310.07, 3324060.44; 638282.37, 3324055.37; 638241.69, 3324060.72; 638234.01, 3324065.64; 638202.35, 3324076.39; 638180.20, 3324071.84; 638158.49, 3324065.74; 638134.34, 3324061.94; 638128.14, 3324071.34; 638109.11, 3324085.09; 638096.81, 3324099.89; 638088.56, 3324128.21; 638096.63, 3324138.71; 638111.10, 3324132.33; 638130.04, 3324122.14; 638148.86, 3324116.62; 638152.58, 3324126.64; 638162.08, 3324128.50; 638181.92, 3324129.75; 638194.79, 3324123.33; 638205.85, 3324110.56; 638215.73, 3324097.33; 638235.25, 3324079.59; 638242.92, 3324090.90; 638256.45, 3324105.85; 638274.69, 3324123.41; 638290.03, 3324145.58; 638306.97, 3324166.98; 638313.58, 3324189.00; 638323.49, 3324205.48; 638324.66, 3324222.55; 638341.57, 3324245.20; 638354.65, 3324262.57; 638353.75, 3324281.96; 638326.94, 3324289.59; 638300.83, 3324300.42; 638276.74, 3324310.11; 638269.67,

3324337.71; 638252.93, 3324355.52; 638228.47, 3324363.64; 638214.54, 3324364.47; 638206.81, 3324355.54; 638190.95, 3324353.95; 638162.17, 3324361.16; 638131.70, 3324371.06; 638118.91, 3324373.55; 638102.03, 3324365.20; 638083.01, 3324378.58; 638065.70, 3324387.25; 638050.91, 3324390.44

638046.70, 3324313.61; 638054.88, 3324375.49; 638087.53, 3324357.28; 638083.42, 3324346.87; 638082.07, 3324321.87; 638079.37, 3324302.76; 638072.33, 3324282.36; 638069.15, 3324251.01; 638061.63, 3324233.77; 638051.81, 3324229.16; 638044.35, 3324257.12; 638037.41, 3324280.29; 638028.52, 3324301.92; 638016.81, 3324340.45; 638005.87, 3324363.96; 638009.89, 3324378.36; 638019.19, 3324387.70; 638049.24, 3324378.10; 638054.88, 3324375.49

639402.02, 3321050.13; 638922.38, 3321476.99; 638943.97, 3321503.69; 638978.70, 3321513.68; 639032.71, 3321515.04; 639051.34, 3321517.51; 639067.22, 3321518.28; 639078.59, 3321524.50; 639098.06, 3321530.17; 639114.27, 3321533.32; 639131.32, 3321534.94; 639143.93, 3321539.25; 639158.62, 3321540.00; 639168.86, 3321543.44; 639177.98, 3321544.86; 639179.38, 3321536.59; 639172.73, 3321532.43; 639165.66, 3321529.13; 639157.58, 3321518.19; 639148.09, 3321516.39; 639139.88, 3321510.62; 639128.88, 3321505.60; 639116.20, 3321504.10; 639109.60, 3321513.79; 639097.68, 3321513.49; 639084.39,

3321514.78; 639078.35, 3321502.71; 639063.30, 3321500.33; 639046.83, 3321491.61; 639036.18, 3321488.16; 639034.46, 3321477.44; 639011.64, 3321452.27; 639011.05, 3321444.70; 639019.54, 3321438.61; 639024.34, 3321421.69; 639032.33, 3321419.90; 639028.25, 3321408.68; 639038.26, 3321405.75; 639039.77, 3321393.12; 639043.50, 3321387.28; 639056.31, 3321384.05; 639061.57, 3321380.18; 639060.28, 3321367.92; 639077.75, 3321369.11; 639089.95, 3321373.41; 639094.16, 3321364.40; 639105.33, 3321362.68; 639118.00, 3321364.56; 639122.52, 3321359.12; 639116.42, 3321348.67; 639117.08, 3321338.39; 639119.42, 3321324.59; 639134.21, 3321320.59; 639157.22, 3321322.79; 639185.77, 3321325.07; 639198.10, 3321325.38; 639207.98, 3321327.63; 639216.78, 3321325.48; 639227.19, 3321322.12; 639236.31, 3321322.79; 639233.82, 3321311.24; 639240.23, 3321293.55; 639245.21, 3321285.37; 639243.27, 3321251.99; 639243.97,

3321240.15; 639254.36, 3321222.55; 639267.50, 3321221.26; 639275.94, 3321217.54; 639272.24, 3321206.34; 639268.85, 3321199.51; 639288.11, 3321192.07; 639305.66, 3321190.14; 639317.83, 3321180.52; 639326.82, 3321186.30; 639338.66, 3321189.78; 639346.58, 3321190.79; 639347.67, 3321179.34; 639351.92, 3321168.33; 639367.90, 3321165.18; 639384.68, 3321161.23; 639407.24, 3321149.88; 639420.89, 3321143.91; 639433.97, 3321129.95; 639437.06, 3321117.73; 639463.48, 3321088.37; 639470.21, 3321064.26; 639472.33, 3321043.71; 639477.01, 3321031.16; 639470.53, 3321020.26; 639477.55, 3321009.76; 639485.63, 3321004.78; 639495.41, 3320995.54; 639500.10, 3320982.61; 639510.61, 3320975.32; 639514.76, 3320968.31; 639525.58, 3320964.96; 639521.51, 3320953.38; 639526.47, 3320946.01; 639534.65, 3320936.67; 639540.81, 3320928.89; 639548.88, 3320924.35; 639550.00, 3320910.90; 639562.31, 3320911.58; 639582.59, 3320911.34; 639591.24, 3320930.60; 639608.68, 3320932.60; 639607.01,

3320973.01; 639607.03, 3320987.68; 639604.21, 3321005.02; 639602.59, 3321022.02; 639599.82, 3321037.00; 639601.49, 3321049.34; 639603.87, 3321065.69; 639609.34, 3321069.39; 639596.45, 3321076.18; 639597.01, 3321085.68; 639606.52, 3321102.59; 639608.27, 3321111.74; 639599.16, 3321126.18; 639595.65, 3321139.20; 639599.08, 3321161.08; 639595.12, 3321176.02; 639587.33, 3321184.94; 639579.10, 3321196.22; 639577.63, 3321207.29; 639576.27, 3321214.00; 639572.92, 3321220.66; 639574.08, 3321237.35; 639582.68, 3321243.12; 639580.00, 3321255.35; 639580.46, 3321268.79; 639578.58, 3321279.85; 639579.15, 3321288.98; 639584.98, 3321293.93; 639589.72, 3321295.24; 639587.06, 3321305.84; 639585.23, 3321315.72; 639576.53, 3321313.88; 639573.52, 3321322.92; 639578.34, 3321336.52; 639574.40, 3321351.09; 639580.97, 3321358.00; 639578.57, 3321374.23; 639572.72, 3321385.95; 639582.09, 3321392.55; 639589.06, 3321400.22; 639589.63, 3321408.60; 639576.38, 3321413.82; 639578.11,

3321424.16; 639585.48, 3321431.84; 639600.37, 3321440.14; 639612.94, 3321446.01; 639598.64, 3321445.28; 639589.24, 3321455.72; 639587.85, 3321463.61; 639579.45, 3321449.91; 639572.05, 3321444.23; 639557.34, 3321444.24; 639546.73, 3321454.64; 639536.91, 3321466.32; 639536.65, 3321476.61; 639521.86, 3321479.42; 639508.19, 3321485.38; 639493.72, 3321492.20; 639482.87, 3321496.67; 639467.85, 3321493.48; 639458.31, 3321477.82; 639470.70, 3321459.10; 639483.95, 3321453.87; 639492.09, 3321446.53; 639490.35, 3321436.62; 639499.19, 3321432.85; 639496.69, 3321421.67; 639494.70, 3321406.20; 639501.29, 3321396.82; 639510.42, 3321397.05; 639519.77, 3321373.50; 639521.61, 3321363.68; 639528.16, 3321355.92; 639522.15, 3321342.29; 639530.27, 3321335.75; 639536.86, 3321326.37; 639546.43, 3321309.19; 639551.00, 3321301.75; 639545.02, 3321286.18; 639538.43, 3321295.88; 639535.77, 3321306.92; 639521.04, 3321323.22; 639515.91, 3321337.32; 639512.01, 3321350.33; 639510.01, 3321366.51; 639505.29, 3321380.32; 639495.78, 3321395.12; 639484.39,

3321404.76; 639479.84, 3321412.13; 639476.68, 3321427.16; 639469.35, 3321434.09; 639451.67, 3321441.20; 639440.61, 3321454.78; 639429.76, 3321459.25; 639416.13, 3321463.65; 639409.15, 3321472.21; 639397.75, 3321467.56; 639385.21, 3321460.50; 639374.49, 3321459.85; 639363.75, 3321459.96; 639364.25, 3321471.89; 639359.35, 3321476.89; 639361.97, 3321483.32; 639369.40, 3321488.63; 639381.36, 3321486.99; 639389.93, 3321494.33; 639380.98, 3321502.03; 639368.16, 3321506.08; 639356.16, 3321508.89; 639343.14, 3321505.45; 639334.06, 3321502.84; 639329.95, 3321508.23; 639319.88, 3321513.54; 639313.80, 3321518.19; 639298.25, 3321519.73; 639290.43, 3321514.79; 639287.15, 3321502.85; 639277.22, 3321502.60; 639270.31, 3321492.87; 639261.39, 3321499.83; 639258.09, 3321504.49; 639252.04, 3321507.89; 639239.50, 3321500.84; 639239.77,

3321506.40; 639233.93, 3321516.93; 639225.51, 3321519.90; 639220.60, 3321509.85; 639211.70, 3321515.99; 639210.63, 3321526.64; 639217.68, 3321530.81; 639217.04, 3321540.72; 639218.05, 3321547.86; 639242.23, 3321550.03; 639267.19, 3321553.84; 639287.72, 3321558.73; 639318.21, 3321563.43; 639340.00, 3321566.42; 639387.87, 3321575.55; 639408.91, 3321576.45; 639439.14, 3321575.66; 639458.97, 3321577.34; 639478.98, 3321571.85; 639505.21, 3321556.28; 639523.51, 3321540.08; 639528.19, 3321543.75; 639550.66, 3321535.21; 639568.61, 3321532.54; 639585.81, 3321528.98; 639604.25, 3321522.32; 639630.23, 3321516.61; 639653.32, 3321515.20; 639676.51, 3321509.85; 639686.64, 3321502.18; 639688.73, 3321482.44; 639689.62, 3321462.61; 639694.57, 3321440.14; 639683.07, 3321407.39; 639686.59, 3321363.04; 639686.78, 3321339.26; 639687.69, 3321319.49; 639676.84, 3321308.48; 639674.70, 3321298.13; 639672.21, 3321286.58; 639670.83, 3321278.62; 639663.65, 3321279.62; 639661.59, 3321266.52; 639667.61, 3321264.30; 639662.30, 3321254.62; 639660.23, 3321241.89; 639664.64, 3321224.59; 639662.66, 3321208.68; 639661.84,

3321193.99; 639659.35, 3321182.38; 639658.05, 3321170.86; 639659.73, 3321151.12; 639660.89, 3321136.85; 639655.47, 3321115.31; 639648.68, 3321101.28; 639644.91, 3321092.88; 639638.48, 3321079.98; 639645.99, 3321065.94; 639634.21, 3321060.09; 639630.93, 3321048.52; 639619.72, 3321035.94; 639619.10, 3321013.33; 639624.61, 3320999.61; 639623.40, 3320984.91; 639621.01, 3320969.37; 639632.26, 3320958.97; 639636.40, 3320984.05; 639650.37, 3321007.68; 639658.13, 3321057.32; 639667.55, 3321104.50; 639692.51, 3321170.55; 639701.56, 3321158.10; 639703.50, 3321144.29; 639705.87, 3321113.83; 639715.81, 3321097.79; 639716.36, 3321072.27; 639730.74, 3321041.92; 639746.67, 3321008.99; 639754.16, 3320995.69; 639770.41, 3320966.39; 639779.29, 3320929.35; 639796.46, 3320910.80; 639805.78, 3320887.63; 639823.65, 3320857.18; 639824.71,

3320830.61; 639839.85, 3320782.24; 639843.43, 3320766.10; 639852.83, 3320725.08; 639857.14, 3320695.47; 639858.80, 3320661.43; 639873.40, 3320634.02; 639884.76, 3320609.34; 639889.98, 3320591.68; 639889.53, 3320578.19; 639881.10, 3320565.30; 639870.50, 3320560.23; 639855.86, 3320557.11; 639837.84, 3320562.59; 639790.64, 3320621.64; 639763.05, 3320659.83; 639665.27, 3320738.21; 639502.90, 3320839.98; 639452.48, 3320900.89; 639371.89, 3320975.76; 639300.92, 3321046.95; 639213.36, 3321129.95; 639132.62, 3321195.33; 639103.31, 3321238.16; 639050.99, 3321279.67; 639027.13, 3321311.15; 638931.36, 3321389.20; 638917.30, 3321426.49; 638914.06, 3321460.11; 638922.38, 3321476.99

639454.86, 3321332.99; 639403.33, 3321419.76; 639410.58, 3321415.94; 639411.91, 3321410.86; 639412.00, 3321407.24; 639412.62, 3321398.14; 639420.30, 3321393.59; 639427.88, 3321391.79; 639425.37, 3321397.28; 639426.02, 3321402.85; 639428.38, 3321403.72; 639435.77, 3321410.27; 639439.27, 3321413.11; 639444.10, 3321410.86; 639445.38, 3321407.33; 639450.03, 3321396.71; 639453.39, 3321389.31; 639457.67, 3321377.12; 639466.42, 3321377.34; 639473.61, 3321375.90; 639478.46, 3321372.46; 639479.82, 3321365.75; 639480.10, 3321354.71; 639481.81, 3321349.57; 639487.05, 3321347.33; 639488.44, 3321339.44; 639486.89, 3321337.40; 639486.27, 3321330.65; 639489.54, 3321327.55; 639490.88, 3321321.27; 639498.85, 3321320.66; 639501.99, 3321321.93; 639505.29, 3321317.27; 639503.01, 3321313.22; 639506.44,

3321303.44; 639511.58, 3321304.32; 639515.21, 3321302.47; 639519.35, 3321295.84; 639514.69, 3321291.35; 639515.27, 3321283.81; 639518.72, 3321273.60; 639519.68, 3321266.88; 639515.45, 3321261.22; 639511.42, 3321263.49; 639504.47, 3321270.87; 639503.94, 3321276.41; 639500.93, 3321285.45; 639498.02, 3321290.49; 639492.98, 3321300.73; 639488.96, 3321302.56; 639483.46, 3321300.49; 639478.72, 3321299.18; 639472.59, 3321305.71; 639474.32, 3321316.11; 639471.86, 3321319.17; 639473.34, 3321323.20; 639478.76, 3321329.27; 639477.39, 3321336.35; 639468.05, 3321343.67; 639467.90, 3321349.60; 639460.76, 3321349.04; 639454.21, 3321340.95; 639456.81, 3321332.71; 639455.35, 3321327.12; 639444.64, 3321326.41; 639438.94, 3321331.83; 639432.89, 3321335.67; 639434.25, 3321344.38; 639431.36, 3321349.11; 639422.57, 3321350.45; 639417.37, 3321351.88; 639418.05, 3321356.27; 639416.68, 3321363.41; 639410.82, 3321359.27; 639409.75, 3321354.50; 639406.55, 3321355.23; 639404.85,

3321359.49; 639401.08, 3321367.33; 639399.71, 3321374.03; 639393.92, 3321383.44; 639390.04, 3321395.20; 639393.51, 3321399.66; 639396.85, 3321408.48; 639396.28, 3321415.58; 639403.33, 3321419.76

634829.72, 3325766.29; 633380.47, 3326477.81; 633329.07, 3326553.52; 633329.81, 3326602.89; 633344.24, 3326658.53; 633366.50, 3326639.35; 633390.59, 3326626.14; 633414.13, 3326634.63; 633428.28, 3326623.14; 633433.03, 3326591.67; 633424.23, 3326548.01; 633403.07, 3326523.79; 633413.91, 3326486.55; 633437.65, 3326487.15; 633442.84, 3326516.89; 633447.58, 3326564.40; 633477.98, 3326614.52; 633499.95, 3326607.17; 633532.79, 3326560.62; 633597.30, 3326514.86; 633789.28, 3326359.78; 633871.83, 3326304.60; 633920.31, 3326266.34; 633946.48, 3326249.23; 633959.45, 3326206.12; 633971.81, 3326186.69; 633998.08, 3326165.63; 634045.51, 3326168.80; 634084.97, 3326156.65; 634150.71, 3326157.63; 634193.01, 3326129.08; 634220.90,

3326121.89; 634225.31, 3326104.23; 634210.33, 3326070.29; 634422.03, 3325996.65; 634536.64, 3325926.49; 634596.10, 3325921.62; 634635.81, 3325919.11; 634629.32, 3325940.66; 634632.63, 3325966.41; 634644.01, 3325986.44; 634677.99, 3325973.48; 634702.82, 3325930.67; 634715.09, 3325915.18; 634701.64, 3325899.05; 634723.44, 3325889.25; 634793.84, 3325853.99; 634824.27, 3325825.14; 634877.73, 3325824.51; 634923.53, 3325813.82; 634920.36, 3325861.13; 634931.23, 3325900.88; 634944.10, 3325861.72; 634986.07, 3325827.82; 635050.38, 3325785.63; 635098.68, 3325751.81; 635122.70, 3325705.10; 635139.03, 3325684.49; 635150.69, 3325640.10; 635204.36, 3325589.90; 635308.96, 3325524.31; 635398.58, 3325502.88; 635467.09, 3325455.25; 635541.29, 3325417.63; 635658.28, 3325331.74; 635736.50, 3325213.28; 635841.23, 3325117.97; 635934.51, 3325041.26; 635979.63, 3325013.81; 636075.18, 3324919.03; 636126.72, 3324864.59; 636204.00, 3324755.05; 636279.68, 3324652.63; 636330.36, 3324575.29; 636204.23, 3324689.31; 636087.88, 3324813.58; 635988.39,

3324893.97; 635942.29, 3324937.78; 635903.80, 3324964.65; 635870.87, 3324987.64; 635761.12, 3325080.72; 635640.25, 3325183.21; 635452.78, 3325316.69; 635365.96, 3325383.60; 635247.14, 3325463.53; 635099.57, 3325559.42; 634768.99, 3325740.83; 634633.01, 3325794.66; 634424.77, 3325888.13; 634030.05, 3326075.62; 633887.44, 3326156.92; 633660.40, 3326289.41; 633578.14, 3326332.74; 633497.66, 3326384.02; 633409.12, 3326441.02; 633380.47, 3326477.81

(iii) Note: Map 4 of Unit 5 follows:

BILLING CODE 4310-55-P

BILLING CODE 4310-55-C

PERDIDO KEY BEACH MOUSE (Peromyscus polionotus trissyllepsis)

* * * * *

(5) Note: Map 1—Index Map of Critical Habitat Units for the Perdido Key beach mouse follows:

BILLING CODE 4310-55-P

BILLING CODE 4310-55-C

* * * * *

(10) PKBM—Unit 5: Gulf Islands National Seashore, Escambia County, Florida.

(i) General Description: Unit 5 consists of 638 ac (258 ha) in southern Escambia County, Florida, on the easternmost region of Perdido Key. This unit encompasses essential features of beach mouse habitat within the boundary of Gulf Islands National Seashore-Perdido Key Area (also referred to as Johnson Beach) from approximately 6 miles east of the Alabama-Florida State line to the eastern tip of Perdido Key at Pensacola Bay and the area from the MHWL north to the seaward extent of the maritime forest.

(ii) Coordinates: From USGS 1:24,000 quadrangle map Perdido Bay, and Fort Barrancas, Florida, land bounded by the following UTM 16 NAD 83 coordinates (E,N): 464806.54, 3353248.09; 460167.32, 3352161.40; 460112.98, 3352141.46; 460076.54, 3352115.69; 460062.15, 3352097.38; 460032.76, 3352041.24; 460015.51, 3352024.29; 459999.54, 3352012.96; 459981.75, 3352007.62; 459961.62, 3352003.59; 459912.92, 3352002.90; 459885.33, 3352003.88; 459852.28, 3352012.60; 459823.72, 3352011.33; 459799.52, 3352004.41; 459708.84, 3352005.84; 459649.57, 3352006.10; 459651.00,

3352185.21; 459662.18, 3352177.93; 459676.32, 3352192.77; 459689.75, 3352206.83; 459690.56, 3352217.42; 459692.37, 3352230.15; 459701.27, 3352237.54; 459706.13, 3352230.01; 459707.87, 3352201.51; 459715.92, 3352173.67; 459726.90, 3352160.16; 459735.50, 3352155.08; 459753.65, 3352157.93; 459766.21, 3352155.82; 459768.17, 3352162.20; 459764.82, 3352169.52; 459771.02, 3352176.01; 459828.76, 3352173.60; 459847.49, 3352187.53; 459859.01, 3352171.16; 459890.74, 3352190.15; 459920.71, 3352199.20; 459961.02, 3352208.09; 459971.68, 3352244.02; 459986.72, 3352263.01; 459997.45, 3352279.12; 460011.09, 3352290.15; 460029.75, 3352290.60; 460041.81, 3352284.94; 460057.73, 3352267.49; 460066.23, 3352260.95; 460062.89, 3352234.71; 460077.34, 3352228.32; 460081.35, 3352243.48; 460099.25, 3352242.72; 460115.14, 3352209.80; 460127.02, 3352244.18; 460142.28, 3352237.41; 460142.29, 3352204.11; 460168.97,

3352186.72; 460167.32, 3352161.40; 464469.51, 3353268.58; 464465.93, 3353285.40; 464478.53, 3353289.94; 464496.58, 3353288.25; 464510.32, 3353289.64; 464517.47, 3353298.91; 464527.19, 3353293.22; 464538.68, 3353299.84; 464546.16, 3353303.93; 464551.08, 3353312.82; 464565.02, 3353310.56; 464583.88, 3353314.66; 464589.59, 3353306.59; 464608.58, 3353309.82; 464615.42, 3353324.93; 464620.04, 3353309.19; 464628.67, 3353300.39; 464636.93, 3353311.71; 464636.67, 3353322.27; 464655.48, 3353333.29; 464659.38, 3353347.13; 464669.74, 3353356.89; 464682.24,

3353365.65; 464695.60, 3353375.33; 464707.71, 3353364.14; 464724.85, 3353364.93; 464739.01, 3353370.82; 464756.44, 3353364.26; 464776.94, 3353348.89; 464801.65, 3353334.69; 464829.75, 3353355.45; 464822.89, 3353376.42; 464829.74, 3353397.97; 464852.31, 3353417.54; 464891.50, 3353430.92; 464926.62, 3353424.36; 464974.63, 3353410.72; 464999.13, 3353408.38; 465012.11, 3353413.85; 465010.83, 3353420.05; 465000.19, 3353421.91; 464993.74, 3353425.98; 464995.65, 3353434.49; 465008.36, 3353434.79; 465021.06, 3353435.10; 465024.37, 3353429.89; 465041.54, 3353420.79; 465063.75, 3353422.38; 465082.96, 3353416.50; 465106.39, 3353425.23; 465141.26, 3353442.20; 465160.15, 3353448.04; 465168.69, 3353447.09; 465177.29, 3353442.01; 465185.03, 3353428.46; 465205.15, 3353428.94; 465204.97, 3353436.33; 465190.44, 3353465.70; 465196.28, 3353470.59; 465200.62, 3353488.14; 465210.45, 3353476.09; 465228.25,

3353481.29; 465248.17, 3353476.99; 465264.92, 3353474.62; 465275.80, 3353483.04; 465282.37, 3353492.08; 465273.30, 3353505.74; 465268.06, 3353517.13; 465275.24, 3353526.82; 465280.25, 3353538.57; 465288.65, 3353541.94; 465301.66, 3353529.57; 465291.53, 3353510.30; 465320.61, 3353504.50; 465337.73, 3353507.58; 465349.22, 3353520.64; 465369.60, 3353515.98; 465371.35, 3353493.03; 465389.63, 3353492.68; 465403.76, 3353478.50; 465410.11, 3353483.66; 465424.43, 3353499.46; 465432.40, 3353517.01; 465421.97, 3353554.02; 465446.44, 3353560.55; 465460.12, 3353553.75; 465473.41, 3353546.14; 465472.56, 3353531.85; 465491.26, 3353530.71; 465488.14, 3353544.91; 465502.26, 3353552.38; 465526.05, 3353554.54; 465528.75, 3353541.35; 465539.57, 3353532.10; 465549.66, 3353530.93; 465562.07, 3353543.51; 465577.77, 3353553.20; 465591.54, 3353573.52; 465614.86, 3353573.02; 465627.17, 3353545.83; 465643.21, 3353539.88; 465664.99, 3353559.42; 465683.61, 3353577.84; 465708.18,

3353596.97; 465732.10, 3353610.22; 465732.23, 3353626.57; 465741.66, 3353631.03; 465751.75, 3353619.02; 465770.44, 3353618.28; 465776.68, 3353628.70; 465775.84, 3353641.40; 465782.27, 3353654.63; 465791.78, 3353639.40; 465791.73, 3353619.55; 465797.08, 3353617.56; 465812.32, 3353628.01; 465834.71, 3353638.55; 465850.03, 3353645.96; 465870.63, 3353642.58; 465891.18, 3353652.89; 465915.82, 3353652.29; 465926.83, 3353640.76; 465938.27, 3353649.49; 465952.32, 3353638.20; 465959.91, 3353630.99; 465971.40, 3353637.60; 465981.19, 3353627.27; 465991.98, 3353619.07; 466001.48, 3353620.36; 466013.65, 3353632.05; 466014.52, 3353645.55; 466008.11, 3353647.77; 466012.96, 3353660.57; 466023.78, 3353662.12; 466032.18, 3353654.30; 466049.93, 3353659.88; 466081.23, 3353663.75; 466073.30, 3353673.88; 466063.96, 3353670.91; 466058.29, 3353680.91; 466061.86, 3353692.27; 466079.49, 3353702.60; 466101.59,

3353708.68; 466113.75, 3353698.67; 466108.16, 3353677.88; 466115.68, 3353673.84; 466130.29, 3353682.64; 466142.19, 3353672.79; 466154.68, 3353681.81; 466168.50, 3353685.32; 466175.14, 3353690.23; 466187.37, 3353693.70; 466193.66, 3353696.62; 466206.88, 3353694.52; 466214.87, 3353690.00; 466229.18, 3353706.20; 466236.97, 3353696.47; 466248.32, 3353703.49; 466260.66, 3353685.95; 466272.51, 3353689.00; 466272.56, 3353703.28; 466262.24, 3353703.03; 466265.84, 3353718.18; 466285.27, 3353703.58; 466310.61, 3353706.96; 466322.11, 3353708.03; 466344.53, 3353717.39; 466365.55, 3353724.23; 466379.16, 3353730.90; 466388.19, 3353735.39; 466401.99, 3353739.68; 466415.82, 3353742.79; 466441.50, 3353748.95; 466459.61, 3353755.73; 466476.89, 3353747.82; 466486.47, 3353762.32; 466506.51, 3353771.52; 466523.62, 3353770.35; 466537.41,

3353775.04; 466553.99, 3353774.21; 466566.44, 3353785.08; 466570.39, 3353796.80; 466573.45, 3353812.77; 466555.69, 3353824.23; 466556.65, 3353833.77; 466584.79, 3353836.82; 466621.82, 3353817.07; 466637.08, 3353799.46; 466652.64, 3353807.54; 466666.74, 3353799.55; 466687.81, 3353798.87; 466702.66, 3353792.88; 466718.72, 3353802.39; 466731.07, 3353800.70; 466746.08, 3353804.63; 466752.40, 3353822.62; 466746.46, 3353832.74; 466752.45, 3353847.69; 466761.52, 3353866.93; 466775.13, 3353873.60; 466794.22, 3353873.00; 466814.64, 3353860.81; 466830.53, 3353861.19; 466836.34, 3353883.70; 466843.21, 3353878.71; 466860.23,

3353898.14; 466867.04, 3353928.66; 466921.24, 3353921.50; 466966.67, 3353926.82; 467017.94, 3353915.01; 467055.12, 3353905.70; 467090.79, 3353909.23; 467133.09, 3353917.78; 467175.98, 3353918.81; 467205.17, 3353921.99; 467242.29, 3353936.66; 467308.25, 3353952.91; 467315.54, 3353947.14; 467320.22, 3353950.82; 467328.57, 3353950.22; 467341.04, 3353954.85; 467352.74, 3353953.18; 467357.99, 3353955.25; 467369.04, 3353952.78; 467372.51, 3353957.23; 467379.38, 3353957.35; 467380.74, 3353961.78; 467402.21, 3353961.11; 467409.47, 3353956.53; 467419.58, 3353949.34; 467432.16, 3353954.92; 467426.07, 3353960.10; 467428.75, 3353964.13; 467437.54, 3353963.70; 467441.28, 3353972.05; 467448.27, 3353978.47; 467471.81, 3353974.67; 467488.90, 3353974.26; 467497.75, 3353958.61; 467509.87, 3353957.77; 467514.46, 3353968.53; 467515.35, 3353975.95; 467533.32, 3353977.44; 467554.45, 3353980.06; 467575.50, 3353985.85; 467605.55, 3353994.38; 467635.64, 3353998.67; 467647.94, 3353999.37; 467651.35, 3353989.54; 467656.15, 3353980.39; 467666.84,

3353976.42; 467682.94, 3353981.18; 467689.99, 3353985.31; 467694.01, 3353991.87; 467693.88, 3354005.23; 467700.36, 3354016.88; 467710.43, 3354027.43; 467725.79, 3354032.95; 467735.60, 3354037.94; 467744.23, 3354042.51; 467756.80, 3354048.76; 467770.28, 3354049.87; 467787.64, 3354054.65; 467800.89, 3354049.02; 467814.96, 3354058.87; 467830.07, 3354058.05; 467842.99, 3354065.89; 467859.98, 3354050.82; 467875.68, 3354044.87; 467893.20, 3354043.31; 467912.55, 3354048.14; 467927.72, 3354053.51; 467939.14, 3354063.29; 467950.58, 3354072.03; 467965.25,

3354078.72; 467972.74, 3354075.73; 467984.77, 3354068.50; 467990.07, 3354062.69; 467996.75, 3354046.71; 467996.95, 3354038.26; 468004.42, 3354036.32; 468020.25, 3354038.82; 468035.00, 3354042.34; 468047.73, 3354041.59; 468051.86, 3354045.92; 468049.51, 3354055.38; 468034.46, 3354064.53; 468024.60, 3354078.03; 468037.18, 3354083.62; 468051.98, 3354085.03; 468062.44, 3354090.57; 468078.14, 3354098.35; 468085.58, 3354097.47; 468099.47, 3354092.52; 468094.41, 3354082.88; 468100.91, 3354076.70; 468117.62, 3354086.61; 468118.45, 3354096.14; 468113.73, 3354116.11; 468126.34, 3354120.64; 468131.43, 3354129.22; 468137.55, 3354138.88; 468153.23, 3354147.72; 468159.35, 3354160.30; 468172.08, 3354156.63; 468173.97, 3354166.18; 468168.47, 3354174.51; 468183.85, 3354196.02; 468188.63, 3354217.27; 468194.55, 3354235.38; 468200.62,

3354247.16; 468218.65, 3354246.53; 468226.91, 3354257.85; 468238.85, 3354256.95; 468252.50, 3354248.40; 468274.48, 3354259.50; 468281.66, 3354277.40; 468268.60, 3354283.67; 468277.90, 3354293.41; 468287.30, 3354298.92; 468294.45, 3354266.32; 468288.45, 3354251.38; 468262.21, 3354241.24; 468263.40, 3354227.81; 468263.99, 3354211.69; 468248.19, 3354166.40; 468240.30, 3354163.51; 468244.56, 3354152.44; 468239.20, 3354141.33; 468226.19, 3354153.70; 468213.61, 3354148.11; 468207.46, 3354139.51; 468202.39, 3354129.87; 468198.46, 3354120.02; 468204.61, 3354112.24; 468213.51, 3354105.32; 468222.88, 3354112.28; 468225.47, 3354103.62; 468236.36, 3354097.15; 468239.74, 3354105.15; 468248.38, 3354111.95; 468256.13, 3354117.44; 468259.25, 3354100.59; 468269.02, 3354094.61; 468278.44, 3354095.76; 468301.92, 3354063.84; 468321.70, 3354067.49; 468347.45, 3354070.48; 468361.44, 3354066.86; 468374.81,

3354053.68; 468386.26, 3354059.13; 468404.33, 3354051.24; 468421.34, 3354054.42; 468437.05, 3354045.68; 468449.06, 3354058.26; 468471.13, 3354065.53; 468498.47, 3354068.29; 468495.38, 3354081.57; 468512.31, 3354071.28; 468524.93, 3354058.90; 468537.49, 3354065.14; 468542.53, 3354086.67; 468531.56, 3354099.73; 468524.54, 3354127.05; 468531.54, 3354144.13; 468549.35, 3354149.86; 468572.46, 3354146.84; 468588.95, 3354135.99; 468600.60, 3354136.27; 468613.51, 3354128.13; 468612.91, 3354109.09; 468613.24, 3354095.35; 468630.16, 3354096.82; 468645.89, 3354103.54; 468662.85, 3354102.89; 468674.58, 3354100.00; 468668.98, 3354112.55; 468664.41, 3354126.18; 468669.00, 3354147.18; 468677.00, 3354161.25; 468696.91, 3354143.10; 468724.84, 3354124.46; 468752.54,

3354126.20; 468769.17, 3354128.58; 468760.28, 3354148.57; 468763.49, 3354166.50; 468788.18, 3354177.78; 468806.69, 3354157.08; 468804.05, 3354134.82; 468806.94, 3354120.40; 468858.31, 3354139.05; 468886.53, 3354138.54; 468908.54, 3354151.08; 468950.68, 3354204.94; 469007.06, 3354239.06; 469083.64, 3354270.50; 469094.91, 3354294.57; 469127.14, 3354309.22; 469182.44, 3354339.09; 469230.84, 3354358.09; 469236.13, 3354336.42; 469230.78, 3354319.49; 469221.75, 3354307.13; 469218.74, 3354291.72; 469220.19, 3354273.01; 469263.53, 3354271.28; 469288.14, 3354288.91; 469322.59, 3354294.10; 469323.99, 3354301.27; 469295.51, 3354312.47; 469293.37, 3354335.41; 469274.36, 3354357.53; 469262.31, 3354374.16; 469252.55, 3354383.43; 469267.32, 3354385.90; 469269.61, 3354397.87; 469276.22, 3354420.22; 469277.46, 3354434.92; 469288.73, 3354464.64; 469289.30, 3354484.73; 469300.64, 3354494.93; 469319.24, 3354514.41; 469342.46, 3354507.04; 469367.89, 3354539.29; 469372.40,

3354553.32; 469363.99, 3354569.79; 469379.12, 3354582.02; 469388.80, 3354594.96; 469392.50, 3354606.54; 469404.13, 3354602.06; 469412.16, 3354617.70; 469406.56, 3354630.25; 469408.38, 3354639.82; 469425.75, 3354625.43; 469436.13, 3354634.13; 469449.79, 3354638.69; 469455.79, 3354653.63; 469473.81, 3354653.01; 469475.58, 3354637.47; 469489.98, 3354633.46; 469499.33, 3354608.32; 469518.74, 3354594.12; 469524.10, 3354602.57; 469540.31, 3354638.63; 469552.16, 3354641.30; 469569.41, 3354634.58; 469576.15, 3354651.78; 469574.95, 3354668.40; 469582.96, 3354682.07; 469577.81, 3354698.20; 469574.56, 3354717.55; 469578.40, 3354722.79; 469570.96, 3354731.94; 469576.44, 3354746.38; 469593.23,

3354753.12; 469585.37, 3354727.78; 469586.72, 3354723.78; 469602.61, 3354707.52; 469616.52, 3354707.46; 469631.22, 3354756.56; 469659.32, 3354761.20; 469681.48, 3354748.26; 469727.71, 3354742.24; 469732.26, 3354751.46; 469735.29, 3354757.48; 469738.78, 3354777.38; 469719.71, 3354767.20; 469702.04, 3354766.31; 469694.77, 3354773.55; 469708.24, 3354808.36; 469726.98, 3354821.89; 469734.90, 3354839.52; 469754.09, 3354850.69; 469775.73, 3354876.18; 469799.89, 3354881.76; 469803.86, 3354895.88; 469812.25, 3354926.60; 469803.70, 3354951.77; 469790.50, 3354971.66; 469762.33, 3354970.19; 469741.15, 3354975.23; 469733.88, 3354996.46; 469725.95, 3355012.52; 469710.58, 3355023.65; 469705.12, 3355035.81; 469686.34, 3355040.11; 469669.18, 3355027.01; 469658.96,

3355022.41; 469637.52, 3355024.78; 469638.67, 3355007.25; 469650.65, 3354988.12; 469664.12, 3354990.03; 469691.40, 3354962.54; 469670.80, 3354960.07; 469660.41, 3354945.94; 469656.15, 3354925.23; 469637.58, 3354920.82; 469632.08, 3354901.66; 469639.97, 3354887.58; 469619.02, 3354866.86; 469605.25, 3354877.63; 469586.08, 3354865.28; 469586.47, 3354849.43; 469573.47, 3354844.76; 469562.36, 3354827.84; 469551.80, 3354820.85; 469540.97, 3354808.70; 469529.48, 3354804.44; 469512.83, 3354801.34; 469494.50, 3354807.98; 469475.07, 3354820.04; 469461.16, 3354826.05; 469448.63, 3354818.35; 469450.07, 3354802.53; 469463.13,

3354790.97; 469447.30, 3354785.55; 469424.68, 3354800.86; 469417.03, 3354824.35; 469408.76, 3354843.72; 469396.91, 3354851.21; 469386.06, 3354856.50; 469370.44, 3354845.03; 469359.71, 3354845.17; 469355.50, 3354838.72; 469336.96, 3354833.12; 469311.96, 3354832.13; 469305.78, 3354841.09; 469291.25, 3354834.01; 469274.13, 3354818.93; 469259.29, 3354808.27; 469234.18, 3354811.63; 469211.29, 3354821.78; 469186.50, 3354828.32; 469156.59, 3354833.15; 469138.40, 3354845.79; 469124.34, 3354852.19; 469099.52, 3354843.67; 469085.32, 3354839.36; 469076.92, 3354825.29; 469067.68, 3354799.68; 469056.51, 3354779.33; 469049.56, 3354760.13; 469047.78, 3354746.35; 469046.14, 3354726.23; 469034.13, 3354697.40; 469029.55, 3354667.69; 469018.33, 3354649.45; 469000.84, 3354627.89; 468989.70, 3354620.64; 468971.40, 3354618.73; 468952.71, 3354605.88; 468937.30, 3354602.33; 468922.08, 3354607.12; 468906.29,

3354603.17; 468898.58, 3354609.73; 468891.12, 3354605.98; 468877.19, 3354615.41; 468873.84, 3354622.72; 468863.14, 3354626.70; 468848.35, 3354625.28; 468840.85, 3354631.33; 468836.68, 3354639.55; 468830.30, 3354640.19; 468821.96, 3354640.39; 468812.80, 3354641.36; 468806.96, 3354652.71; 468794.41, 3354662.32; 468793.07, 3354668.63; 468787.37, 3354674.04; 468777.68, 3354680.55; 468765.74, 3354681.45; 468758.67, 3354678.11; 468757.53, 3354676.10; 468749.31, 3354670.75; 468747.53, 3354662.38; 468748.51, 3354654.48; 468751.45, 3354648.21; 468754.04, 3354639.55; 468753.03, 3354631.99; 468750.03, 3354624.79; 468742.07, 3354624.99; 468734.46, 3354627.58; 468731.10, 3354635.43; 468725.86, 3354638.47; 468715.01, 3354643.37; 468707.32, 3354649.13; 468702.77, 3354656.95; 468693.23, 3354657.11; 468687.94, 3354662.14; 468681.46,

3354667.14; 468673.28, 3354676.85; 468668.41, 3354681.09; 468658.77, 3354685.62; 468649.48, 3354691.73; 468642.16, 3354698.69; 468632.26, 3354713.91; 468622.51, 3354722.80; 468617.59, 3354729.02; 468616.66, 3354734.55; 468608.91, 3354743.08; 468602.64, 3354756.01; 468600.49,

3354764.78; 468595.52, 3354770.90; 468585.96, 3354785.98; 468580.33, 3354799.59; 468576.92, 3354809.02; 468588.09, 3354815.51; 468597.69, 3354829.22; 468611.00, 3354837.47; 468621.10, 3354846.83; 468637.14, 3354860.15; 468649.56, 3354872.07; 468659.67, 3354879.82; 468678.80, 3354889.69; 468701.42, 3354904.61; 468715.25, 3354915.93; 468741.88, 3354929.01; 468758.78, 3354933.89; 468783.27, 3354942.29; 468802.70, 3354945.31; 468828.46, 3354946.55; 468847.12, 3354947.39; 468867.41, 3354945.90; 468886.73, 3354952.31; 468913.66, 3354955.73; 468953.96, 3354965.03; 468994.70, 3354972.35; 469018.38, 3354978.86; 469042.85, 3354985.79; 469073.96, 3354997.24; 469111.42, 3355008.85; 469132.66,

3355017.68; 469143.73, 3355019.93; 469153.98, 3355023.35; 469181.61, 3355014.50; 469210.14, 3355017.56; 469244.21, 3355021.55; 469263.69, 3355020.83; 469280.00, 3355020.03; 469303.90, 3355017.44; 469322.77, 3355009.17; 469340.76, 3355004.85; 469356.72, 3355002.06; 469399.53, 3354989.61; 469416.96, 3354988.83; 469456.69, 3354975.13; 469477.70, 3354974.43; 469497.54, 3354986.54; 469502.42, 3355003.57; 469497.60, 3355027.76; 469496.96, 3355054.17; 469515.23, 3355087.38; 469575.70, 3355127.94; 469624.95, 3355150.27; 469686.69, 3355190.35; 469709.06, 3355220.99; 469717.07, 3355240.21; 469733.10, 3355275.50; 469745.05, 3355309.59; 469745.37, 3355340.25; 469747.26, 3355349.81; 469758.98, 3355346.92; 469768.90, 3355331.31; 469771.55, 3355309.17; 469777.79, 3355270.21; 469796.74, 3355231.56; 469816.48, 3355203.49; 469825.30,

3355175.84; 469828.22, 3355137.07; 469829.31, 3355108.56; 469835.40, 3355086.51; 469840.15, 3355057.14; 469846.26, 3355023.46; 469862.73, 3354999.55; 469888.76, 3354974.80; 469906.83, 3354972.07; 469937.15, 3354969.64; 469964.79, 3354927.50; 469967.32, 3354904.97; 469963.31, 3354873.55; 469957.47, 3354852.41; 469919.14, 3354712.36; 469904.41, 3354590.43; 469887.91, 3354527.67; 469882.16, 3354458.82; 469879.36, 3354399.56; 469875.67, 3354332.88; 469852.24, 3354294.27; 469829.53, 3354269.41; 469798.15, 3354252.80; 469758.27, 3354237.04; 469620.05, 3354213.64; 469413.30, 3354175.90; 469150.72, 3354125.19; 468897.75,

3354071.54; 468705.93, 3354029.93; 468472.95, 3353982.05; 468354.85, 3353959.13; 468089.73, 3353898.86; 467876.76, 3353855.69; 467795.37, 3353833.66; 467704.10, 3353810.31; 467589.00, 3353794.86; 467465.82, 3353762.31; 467307.82, 3353723.79; 467132.79, 3353689.83; 466939.05, 3353639.72; 466650.36, 3353573.59; 466448.08, 3353526.45; 466253.99, 3353491.14; 466104.53, 3353450.55; 465894.68, 3353409.20; 465744.99, 3353378.49; 465607.97, 3353348.78; 465461.41, 3353319.89; 465387.62, 3353304.37; 465298.13, 3353281.09; 465146.47, 3353243.62; 464951.75, 3353190.32; 464766.29, 3353148.87; 464622.88, 3353112.37; 464474.67, 3353072.11; 464304.10, 3353027.85; 464172.41, 3352997.20; 463970.02, 3352954.29; 463779.90, 3352910.99; 463553.34, 3352865.91; 463397.79, 3352827.46; 463298.84, 3352800.77; 463136.67, 3352759.88; 462972.38,

3352718.94; 462823.02, 3352674.14; 462717.79, 3352644.13; 462580.14, 3352610.68; 462480.38, 3352579.35; 462257.48, 3352514.15; 462033.58, 3352440.60; 461803.27, 3352369.67; 461642.05, 3352322.13; 461476.44, 3352278.22; 461256.30, 3352224.32; 460978.37, 3352151.06; 460797.21, 3352106.55; 460554.30, 3352055.44; 460349.93, 3352012.49; 460270.17, 3351994.55; 460194.24, 3351980.05; 460146.84, 3351968.34; 460060.54, 3351952.83; 459965.56, 3351929.11; 459844.14, 3351898.10; 459658.58, 3351848.02; 459657.25, 3351880.07; 459656.77, 3351891.62; 459649.88, 3351907.84; 459646.27, 3351928.46; 459645.76, 3351992.61; 459728.73, 3351993.57; 459793.00, 3351992.40; 459817.11, 3351985.34; 459838.96, 3351982.76; 459858.63, 3351984.26; 459885.56, 3351992.63; 459928.03,

3351991.63; 459975.63, 3351993.75; 459990.40, 3351997.36; 460025.26, 3352015.41; 460048.20, 3352036.57; 460059.52, 3352061.02; 460075.51, 3352089.94; 460099.95, 3352114.71; 460122.78, 3352131.60; 460144.84, 3352139.53; 460162.73, 3352144.18; 460170.30, 3352138.02; 460169.55, 3352125.32; 460148.36, 3352124.34; 460145.56, 3352108.42; 460131.90, 3352103.86; 460136.52, 3352088.12; 460151.32, 3352089.53; 460155.56, 3352082.35; 460079.80, 3352067.73; 460091.79, 3352009.89; 460131.28, 3352017.95; 460155.04, 3352023.03; 460158.61, 3352007.73; 460163.10, 3351997.27; 460181.15, 3351995.59; 460197.14, 3352005.26; 460198.41, 3352026.66; 460251.63, 3352035.90; 460296.49, 3352044.39; 460288.14, 3352083.30; 460305.65, 3352085.95; 460311.02, 3352094.00; 460297.05,

3352153.28; 460182.10, 3352131.96; 460182.80, 3352146.78; 460221.78, 3352156.17; 460298.91, 3352167.83; 460344.83, 3352174.88; 460383.64, 3352179.78; 460428.92, 3352180.46; 460479.10, 3352175.33; 460548.64, 3352158.36; 460630.44, 3352144.07; 460697.24, 3352141.71; 460781.60, 3352152.85; 460965.17, 3352201.65; 461189.40, 3352261.33; 461407.76, 3352317.30; 461553.98, 3352356.77; 461664.40, 3352391.13; 461861.00, 3352453.98; 462029.11, 3352510.65; 462254.21, 3352583.83; 462475.35, 3352656.12; 462677.24, 3352719.63; 462783.53, 3352756.69; 462837.25, 3352773.02; 462926.04, 3352798.14; 463123.85, 3352849.66; 463248.68, 3352883.47; 463325.01, 3352901.81; 463336.94, 3352890.47; 463354.48, 3352893.00; 463364.47, 3352904.98; 463363.75, 3352920.71; 463356.68, 3352931.35; 463341.11, 3352934.55; 463328.97, 3352927.12; 463321.53, 3352914.41; 463244.68, 3352894.16; 463042.95, 3352843.36; 462928.44, 3352814.05; 462787.39, 3352772.63; 462592.90, 3352707.70; 462371.16,

3352634.75; 462206.12, 3352581.11; 461994.86, 3352510.51; 461849.15, 3352462.15; 461673.57, 3352406.15; 461567.39, 3352371.89; 461476.12, 3352349.07; 461234.72, 3352283.58; 461016.73, 3352228.67; 460873.60, 3352189.30; 460789.34, 3352168.25; 460738.18, 3352157.36; 460687.97, 3352154.19; 460638.87, 3352156.96; 460555.48, 3352171.61; 460497.07, 3352188.04; 460429.47, 3352197.67; 460363.46, 3352193.16; 460287.88,

3352180.25; 460179.52, 3352162.14; 460176.23, 3352185.99; 460256.99, 3352192.59; 460290.69, 3352197.99; 460295.71, 3352209.74; 460302.09, 3352208.83; 460313.58, 3352215.45; 460322.36, 3352202.98; 460343.44, 3352199.42; 460368.30, 3352206.36; 460399.68, 3352223.36; 460420.70, 3352241.31; 460464.71, 3352245.14; 460499.09, 3352252.70; 460530.31, 3352233.92; 460568.66, 3352225.32; 460599.66, 3352234.11; 460631.81, 3352235.27; 460698.45, 3352223.40; 460832.72, 3352240.49; 460886.11, 3352267.14; 460935.43, 3352298.05; 460953.45, 3352292.14; 460971.62, 3352296.54; 460991.32, 3352303.35; 460998.97, 3352315.82; 461013.75, 3352352.27; 461027.32, 3352361.05; 461059.45, 3352390.36; 461104.38,

3352425.77; 461124.79, 3352419.92; 461160.99, 3352385.11; 461228.42, 3352356.60; 461266.85, 3352344.45; 461344.18, 3352350.66; 461395.97, 3352377.67; 461429.40, 3352408.20; 461463.94, 3352442.32; 461495.04, 3352487.07; 461538.56, 3352560.65; 461564.62, 3352567.61; 461587.53, 3352556.67; 461598.67, 3352522.85; 461602.69, 3352488.06; 461618.62, 3352488.80; 461666.99, 3352501.39; 461677.48, 3352507.71; 461693.44, 3352504.92; 461700.76, 3352509.80; 461698.46, 3352517.14; 461681.16, 3352529.19; 461659.67, 3352543.22; 461646.82, 3352549.73; 461639.28, 3352554.83; 461628.23, 3352556.97; 461607.31, 3352562.52; 461601.84, 3352569.79; 461593.14, 3352579.09; 461577.18, 3352581.88; 461567.75, 3352577.43; 461566.49, 3352585.85; 461567.34, 3352594.33; 461573.42, 3352606.10; 461583.90, 3352610.58; 461594.64, 3352604.50; 461610.81,

3352593.26; 461632.44, 3352574.75; 461647.50, 3352565.60; 461665.74, 3352555.00; 461750.00, 3352531.65; 461815.91, 3352522.66; 461852.67, 3352519.78; 461875.97, 3352520.34; 461903.37, 3352526.28; 461933.92, 3352533.35; 461950.64, 3352543.27; 461969.21, 3352563.80; 461990.63, 3352574.34; 462032.13, 3352616.16; 462038.52, 3352633.11; 462051.05, 3352640.81; 462080.11, 3352652.98; 462130.66, 3352665.69; 462173.37, 3352673.85; 462253.74, 3352671.04; 462268.49, 3352674.56; 462304.81, 3352676.61; 462331.23, 3352687.89; 462351.40, 3352707.21; 462371.66,

3352705.16; 462429.54, 3352743.42; 462496.70, 3352759.30; 462548.97, 3352782.75; 462583.14, 3352799.42; 462614.41, 3352804.14; 462649.32, 3352822.81; 462684.81, 3352852.62; 462694.32, 3352862.31; 462705.52, 3352872.14; 462748.01, 3352867.87; 462794.95, 3352854.20; 462845.98, 3352846.97; 462869.17, 3352851.76; 462890.20, 3352858.60; 462901.72, 3352864.16; 462925.87, 3352869.45; 462947.98, 3352879.02; 462973.42, 3352878.57; 463031.07, 3352891.03; 463095.07, 3352922.69; 463217.57, 3352966.46; 463242.04, 3352986.49; 463261.52, 3353013.38; 463286.70, 3353023.50; 463311.13, 3353020.91; 463330.19, 3353021.37; 463358.81, 3353021.00; 463386.51, 3353014.27; 463404.46, 3353016.81; 463430.71, 3353026.95; 463457.66, 3353027.32; 463483.85, 3353019.77; 463510.32,

3353018.67; 463547.36, 3353022.36; 463594.78, 3353033.01; 463638.89, 3353048.86; 463673.30, 3353064.21; 463710.70, 3353078.58; 463743.11, 3353085.70; 463792.29, 3353102.23; 463820.79, 3353109.76; 463853.28, 3353113.71; 463911.48, 3353124.11; 463951.50, 3353126.38; 463988.78, 3353144.01; 464040.73, 3353168.44; 464097.09, 3353203.62; 464114.81, 3353215.67; 464144.60, 3353241.21; 464170.01, 3353241.82; 464189.81, 3353224.87; 464210.38, 3353215.44; 464222.11, 3353190.35; 464232.25, 3353178.32; 464239.58, 3353190.77; 464248.10, 3353184.96; 464247.80, 3353192.44; 464260.56, 3353190.63; 464272.28, 3353193.83; 464278.18, 3353206.91; 464289.53, 3353211.79; 464299.84, 3353212.83; 464308.88, 3353207.64; 464333.68, 3353226.32; 464347.53, 3353230.77; 464339.66, 3353249.61; 464323.77, 3353249.22; 464324.60, 3353258.76; 464334.08, 3353261.10; 464348.96, 3353259.34; 464353.52, 3353242.87; 464357.06,

3353231.00, 464366.51, 3353234.40; 464370.36, 3353250.34; 464375.68, 3353249.41; 464377.07, 3353235.71; 464390.68, 3353234.83; 464401.20, 3353245.80; 464418.06, 3353249.37; 464418.37, 3353236.70; 464427.80, 3353241.15; 464433.62, 3353250.13; 464449.50, 3353250.51; 464463.82, 3353240.96; 464476.00, 3353239.25; 464484.85, 3353247.81; 464473.12, 3353250.70; 464462.46, 3353253.61; 464469.51, 3353268.58; 469439.91, 3354872.05; 469431.24, 3354880.30; 469419.59, 3354880.02; 469413.17, 3354869.04; 469407.35, 3354860.70; 469412.90, 3354850.26; 469425.73, 3354845.28; 469436.72, 3354850.83; 469445.09, 3354863.47; 469439.91, 3354872.05; 469523.43, 3354844.93; 469510.70, 3354845.68; 469498.89, 3354842.81; 469495.01, 3354827.92; 469508.89, 3354810.76; 469526.05, 3354814.93; 469534.24, 3354826.75; 469531.87, 3354837.27; 469523.43, 3354844.93

466190.53, 3354051.39; 465789.50, 3353888.05; 465774.93, 3353906.49; 465797.81, 3353933.65; 465835.46, 3353937.23; 465867.28, 3353944.38; 465901.69, 3353950.31; 465937.29, 3353960.10; 465969.02, 3353971.08; 466018.28, 3353997.80; 466056.00, 3354025.52; 466094.75, 3354063.47; 466127.55, 3354083.41; 466164.05, 3354108.55; 466186.52, 3354132.07; 466348.00, 3354151.94; 466376.57, 3354104.72; 466418.82, 3354050.83; 466470.73, 3354007.74; 466545.90, 3353928.76; 466605.94, 3353880.41; 466606.12, 3353859.14; 466597.09, 3353843.27; 466568.86, 3353842.59; 466560.42, 3353867.44; 466541.00, 3353892.02; 466504.78, 3353897.41; 466485.35, 3353921.99; 466479.78, 3353957.86; 466444.79, 3353977.37; 466412.75, 3353984.29; 466373.20, 3353979.51; 466323.72, 3353961.73; 466278.86, 3353964.48; 466259.34, 3353978.06; 466199.44, 3353967.68; 466178.83, 3353973.57; 466147.44, 3353948.56; 466125.00, 3353923.76; 466116.54, 3353903.13; 466078.02, 3353908.59; 466024.61, 3353894.54; 465973.36, 3353897.13; 465967.66, 3353909.76; 465939.48, 3353915.14; 465907.95, 3353903.22; 465904.48, 3353887.82; 465878.81, 3353891.03; 465841.94, 3353881.21; 465816.50, 3353874.61; 465789.50, 3353888.05

465163.51, 3353601.02; 465084.34, 3353682.31; 465112.50, 3353722.06; 465126.95, 3353747.45; 465147.68, 3353804.05; 465160.91, 3353838.44; 465181.85, 3353886.03; 465199.16, 3353900.09; 465228.18, 3353922.21; 465307.99, 3353944.16; 465348.23, 3353941.12; 465378.48, 3353935.84; 465419.06, 3353918.78; 465387.24, 3353905.99; 465346.47, 3353888.98; 465311.40, 3353886.13; 465305.83, 3353866.96; 465294.78, 3353825.62; 465269.69, 3353741.86; 465283.78, 3353699.12; 465281.10, 3353685.03; 465269.01, 3353686.74; 465247.37, 3353668.19; 465241.83, 3353648.02; 465229.74, 3353649.73; 465210.17, 3353628.22; 465217.51, 3353615.37; 465188.51, 3353568.59; 465146.26, 3353571.58; 465158.47, 3353606.94; 465165.65, 3353642.18; 465177.04, 3353669.50; 465168.94, 3353672.31; 465145.38, 3353649.71; 465118.92, 3353664.10; 465085.74, 3353624.23; 465102.02, 3353615.60; 465111.37, 3353602.80; 465106.57, 3353593.67; 465081.96, 3353573.04; 465056.13, 3353561.40; 464968.37, 3353536.25; 464942.78, 3353514.60; 464907.95, 3353542.82; 464910.63, 3353556.91; 464923.31, 3353572.24; 464940.99, 3353588.69; 464978.60, 3353611.64; 465020.27, 3353632.68; 465063.72, 3353662.78; 465084.34, 3353682.31;

(iii) Note: Map 3 of Units 4 and 5 follows:

BILLING CODE 4310-55-P

* * * * *

Dated: June 7, 2006.
Matt Hogan,
Acting Assistant Secretary for Fish and Wildlife and Parks.

[FR Doc. 06-5441 Filed 6-13-06; 11:06 am]

BILLING CODE 4310-55-C